DEPARTMENT OF COMMERCE

Bureau of Industry and Security

15 CFR Parts 734, 740, 744, 746, and 774

[Docket No. 240610-0156]

RIN 0694-AJ67

Implementation of Additional Sanctions Against Russia and Belarus Under the Export Administration Regulations (EAR) and Refinements to Existing Controls

AGENCY: Bureau of Industry and Security, Department of Commerce.

ACTION: Final rule.

SUMMARY: In this final rule, the Bureau of Industry and Security (BIS) makes changes to the Russia and Belarus sanctions under the Export Administration Regulations (EAR). This final rule imposes additional export control measures against Russia and Belarus by expanding the scope of items identified under two EAR supplements that are subject to the EAR's Russian and Belarusian industry sector sanctions; imposing a “software” license requirement for certain EAR99-designated “software” when destined to or within Russia or Belarus; and narrowing the scope of commodities and software that may be authorized for export, reexport, or transfer (in-country) to or within Russia or Belarus under License Exception Consumer Communications Devices (CCD). To promote clarity and facilitate compliance, this final rule also consolidates the EAR's Russian and Belarus sanctions into a single section, while maintaining the existing related regulatory supplements identifying items that are subject to certain of those sanctions. This final rule also amends the EAR by adding five entities and eight addresses to the Entity List and making changes to the Entity List structure. These entries are listed on the Entity List under the destinations of the People's Republic of China (China) and Russia and have been determined by the U.S. Government to be acting contrary to the national security or foreign policy interests of the United States. Lastly, this final rule makes two additional revisions to the EAR: one to confirm the criteria used when revising, suspending, or revoking EAR license exceptions and one revision to clarify the control status of fasteners for purposes of the EAR's Russian and Belarusian industry sector sanctions.

DATES: This rule is effective on June 12, 2024, except for amendatory instruction 14, which is effective September 16, 2024.

FOR FURTHER INFORMATION CONTACT: For general questions on this final rule, contact Collmann Griffin, Senior Policy Advisor, International Policy Office, Bureau of Industry and Security, Department of Commerce, Phone: 202-482-1430, Email: william.griffin@bis.doc.gov. For questions on the Entity List changes in this final rule, contact Chair, End-User Review Committee, Office of the Assistant Secretary for Export Administration, Bureau of Industry and Security, Department of Commerce, Phone: (202) 482-5991, Email: ERC@bis.doc.gov. For emails, include “Russia and Belarus, June 2024 export control measures” in the subject line.

SUPPLEMENTARY INFORMATION:

I. Background

A. Export Controls Implemented Against Russia and Belarus

In response to Russia's February 2022 full-scale invasion of Ukraine, BIS imposed extensive sanctions on Russia under the EAR as part of the final rule, “Implementation of Sanctions Against Russia Under the Export Administration Regulations (EAR)” (“Russia Sanctions Rule”) (87 FR 12226, March 3, 2022). To address Belarus's complicity in the invasion, BIS imposed similar sanctions on Belarus under the EAR in a final rule, “Implementation of Sanctions Against Belarus” (“Belarus Sanctions Rule”) (87 FR 13048, March 6, 2022). During the last two years, BIS has published a number of additional final rules strengthening the export controls on Russia and Belarus, including measures undertaken in coordination with U.S. allies and partners.

B. Overview of This Final Rule

In this final rule, BIS makes changes to the Russia and Belarus sanctions under the EAR along with certain changes that are not specific to those two countries. Certain of these changes (see section II.A) are designed to better protect U.S. national security and foreign policy interests by expanding the scope of the current sanctions. Others (see sections II.B and C) will promote clarity and facilitate compliance. The four sets of changes this final rule makes are described in section II as follows:

A. Additional export control measures against Russia and Belarus;

B. Consolidation of Russia and Belarus sanctions into a single section;

C. Additions to the Entity List and changes to the Entity List structure; and

D. Confirmation of the standard used in connection with actions involving the availability of license exceptions and clarification of the scope of a commodity subject to the Russian and Belarusian industry sanctions.

II. Amendments to the EAR

A. Additional Export Control Measures Against Russia and Belarus

This final rule imposes additional export control measures against Russia and Belarus by expanding the scope of items that are subject to the Russian and Belarusian industry sector sanctions under supplement nos. 4 and 6 to part 746 (see section II.A.1 and II.A.2); imposing a “software” license requirement for certain EAR99-designated “software” when destined for Russia or Belarus; and narrowing the scope of commodities and software that may be authorized for export, reexport, or transfer (in-country) to or within Russia and Belarus under License Exception CCD.

1. Expansion of Russian and Belarusian industry sector sanctions by adding items to supplement no. 4 to part 746 consistent with the objective to undermine Russia's and Belarus's industrial bases and their ability to continue to support Russia's military aggression in Ukraine.

This rule expands the list of items set forth in supplement no. 4 to part 746 (Russian and Belarusian Industry Sector Sanctions Pursuant to § 746.5(a)(1)(ii)) (this final rule relocates the restrictions of § 746.5(a)(1)(ii) to § 746.8(a)(5)), as detailed below in section II.B.2. Specifically, this rule adds 522 additional Harmonized Tariff Schedule (HTS)-6 Code entries to supplement no. 4; consequently, these items will now require a license for export to, reexport to, or transfer (in-country) within Russia or Belarus under § 746.8(a)(5). Restrictions on these industrial items are intended to further undermine the Russian and Belarusian industrial bases and their ability to continue to support Russia's military aggression in Ukraine. The complete list of 522 new HTS-6 Codes this rule adds to supplement no. 4 are identified in amendatory instruction 18.

Through the addition of these HTS codes, BIS intends to further limit Russia's access to items of potential military significance and expand the economic impact of controls that will deny Russia additional resources it needs to continue waging war.

Items controlled through amendments made by this rule were identified based on a review of public and non-public information regarding which items Russia seeks to further its war against Ukraine, an evaluation of areas in which U.S. trade has continued to provide an economic benefit to Russia, and an assessment of how the United States could further degrade Russia's war effort. With these new controls, BIS also further minimizes opportunities for the circumvention of U.S. export controls on Russia and Belarus through misclassification of the HTS-6 code. Supplement no. 4 to part 746 will now cover, with the addition of these 522 HTS-6 codes, items subject to the EAR classified under all HTS codes in 18 additional chapters of HTS codes. Making these additions will minimize situations where persons could seek to circumvent export license requirements by changing the classification of an item that requires a license to the classification of an item in a similar HTS code that does not require a license. BIS estimates these changes to supplement no. 4 to part 746 will result in an additional five license applications submitted to BIS annually.

2. Expansion of Russian and Belarusian industry sector sanctions by adding items to supplement no. 6 to part 746 consistent with the objective to undermine Russia's and Belarus's industrial bases and their ability to continue to support Russia's military aggression in Ukraine.

In supplement no. 6 to part 746 (Russian and Belarusian Industry Sector Sanctions Pursuant to § 746.5(a)(1)(iii)) (this final rule relocates the restrictions of § 746.5(a)(1)(iii) to § 746.8(a)(6)), this final rule adds a new paragraph (h) to control certain riot control agents that are isomers of CS (o-Chlorobenzylidenemalononitrile or o-Chlorobenzalmalononitrile) (CAS 2698-41-1); CN (Phenylacyl chloride or w-Chloroacetophenone) (CAS 532-27-4); or Oleoresin Capsicum (CAS 8023-77-6). Specifically, paragraphs (h)(1) through (10) describe these riot control agents that will be controlled under the EAR's Russian and Belarusian industry sector sanctions. These chemicals meet the definition of riot control agents under Article II (paragraph 7) of the Chemical Weapons Convention (CWC). These expanded controls will supplement the existing Commerce Control List (CCL) controls under ECCNs 1A984 and 1C607; in particular, they will address Russia's use of riot control agents as a method of warfare against Ukrainian forces in violation of the CWC. See May 1, 2024 State Department Fact Sheet announcing the imposition of sanctions on Russia under the Chemical and Biological Weapons Control and Warfare Elimination Act of 1991, available at https://www.state.gov/imposing-new-measures-on-russia-for-its-full-scale-war-and-use-of-chemical-weapons-against-ukraine-2/. BIS estimates these changes to supplement no. 6 to part 746 will result in one additional license application submitted to BIS annually.

3. Imposing a license requirement for certain EAR99-designated “software” when destined to or within Russia or Belarus.

Prior to this final rule, apart from certain software described in paragraph (g)(9) in supplement no. 6 to part 746, the Russian and Belarusian industry sector sanctions (in prior § 746.5(a)(1)(iii)) did not extend to software and the license requirements under § 746.8(a)(1) did not extend to EAR99-designated software. This final rule strengthens the Russian and Belarusian export control measures by adding a new paragraph (a)(8) (EAR99-designated software) to § 746.8. These changes to paragraph (a)(8) described under amendment 14 will go into effect on September 16, 2024. New paragraph (a)(8)(i) specifies that a license is required to export, reexport, or transfer (in-country) to or within Russia or Belarus any EAR99-designated software described in paragraph (a)(8)(ii). New paragraph (a)(8)(ii) will apply to the following types of EAR99-designated “software:” Enterprise resource planning (ERP); customer relationship management (CRM); business intelligence (BI); supply chain management (SCM); enterprise data warehouse (EDW); computerized maintenance management system (CMMS); project management software, product lifecycle management (PLM); building information modelling (BIM); computer aided design (CAD); computer-aided manufacturing (CAM); and engineering to order (ETO). New paragraph (a)(8)(ii) includes a sentence to specify that the license requirement also includes software updates of software identified in paragraph (a)(8)(ii), which will enhance the effectiveness of this control because of the need for regular software updates to ensure proper software functionality. BIS also has added a new paragraph (a)(12)(iv) in § 746.8 to exclude entities exclusively operating in the medical or agricultural sectors from this software license requirement. These changes to paragraph (a)(12)(iv) also described under amendment 14 will go into effect on September 16, 2024. BIS estimates these changes to § 746.8(a)(8), which take into account the new exclusion added under § 746.8(a)(12)(iv), will result in an additional 5 license applications submitted to BIS annually.

4. Narrowing the scope of eligible commodities and software under License Exception CCD for Russia and Belarus.

In § 740.19 (Consumer Communications Devices (CCD)), this final rule revises paragraph (b) (Eligible commodities and software) to limit the scope of eligible commodities and software that may be authorized for export, reexport, or transfer (in-country) under this section to and within Russia and Belarus. This final rule does so by revising the paragraph (b) introductory text to specify that the commodities and software described in revised paragraphs (b)(1) through (8) are eligible for export, reexport, and transfer (in-country) to or within Russia and Belarus, as well as to or within Cuba, and by adding a sentence to the end of the paragraph (b) introductory text to specify that commodities and software described in paragraphs (b)(9) through (18) are eligible for export, reexport, or transfer (in-country) under this section to or within Cuba only. This final rule also revises paragraphs (b)(1) through (17) accordingly, so that all the commodities and software that are eligible for Russia, Belarus, and Cuba are described under paragraphs (b)(1) through (8) and those that are eligible for Cuba only are in paragraphs (b)(9) through (18).

The redesignation of these paragraphs will make it easier for exporters, reexporters, and transferors to identify the commodities and software that may be eligible for License Exception CCD for export, reexport, or transfer (in-country) to or within each of these three countries. This final rule does not otherwise revise the scope of eligible items in paragraphs (b)(1) through (17), with the exception of paragraph (b)(15) (batteries, chargers, carrying cases and accessories for the equipment described in paragraphs (b)(1) through (5) of this section that are designated EAR99). Specifically, this final rule separates the contents of this paragraph into two paragraphs by adding paragraph (b)(6) to describe batteries, chargers, carrying cases, and accessories for the equipment described in paragraphs (b)(1) through (5) of this section that are designated EAR99, and adding a separate paragraph (b)(18) to describe batteries, chargers, carrying cases, and accessories for the equipment described in paragraphs (b)(8) through (17) of this section that are designated EAR99. BIS estimates these changes to § 740.19 will result in an additional 10 license applications submitted to BIS annually.

To further assist exporters and other parties in understanding the changes to § 740.19(b)(1) through (17), BIS includes a cross walk in Table 1 below:

Table 1—Cross Walk for § 740.19(b)(1) Through (17) Redesignations
Original paragraph (b) designation | Paragraph (b) redesignation in this final rule | Eligible for Russia, Belarus, and Cuba | Eligible only for Cuba
(b)(1) | No change | X
(b)(2) | (b)(9) |  | X
(b)(3) | (b)(10) |  | X.
(b)(4) | (b)(3) | X
(b)(5) | (b)(4) | X
(b)(6) | (b)(11) |  | X.
(b)(7) | (b)(12) |  | X.
(b)(8) | (b)(5) | X
(b)(9) | (b)(2) | X
(b)(10) | (b)(13) |  | X.
(b)(11) | (b)(7) | X
(b)(12) | (b)(14) |  | X.
(b)(13) | (b)(15) |  | X.
(b)(14) | (b)(16) |  | X.
(b)(15) | (b)(18) and (b)(6) | Yes, for (b)(6) | Yes, for (b)(18).
(b)(16) | (b)(8) | X
(b)(17) | (b)(17) |  | X.
N/A | (b)(18) (Newly added paragraph, but substance was formerly in (b)(15)) |  | X.

B. Consolidation of Russia and Belarus Sanctions Into a Single Section

1. Consolidation. The embargoes, sanctions, and special controls implemented under the EAR are contained in part 746 of the EAR. For countries such as Cuba, North Korea, and Syria, there is a single section under part 746 that imposes embargo or country-specific sanctions. With respect to the export control measures against Russia and Belarus, BIS took a different approach, with certain controls added to new part 746 sections after the initial February 2014 Russian invasion of the Crimea region of Ukraine and various export control measures added to those existing part 746 sections, along with expansive measures imposed under new part 746 sections, as well as, in response to the February 2022 full-scale invasion of Ukraine and continuing Russian aggression against Ukraine. Prior to this final rule, license requirements for exports, reexports, and transfers (in-country) to or within Russia and Belarus added in or after February 2022 were primarily found in three sections in part 746 of the EAR: §§ 746.5 (for a variety of industrial goods), 746.8 (mostly for items on the Commerce Control List and items caught by the Russia and Belarusian-related foreign direct product rules), and 746.10 (for `luxury goods'). In this final rule, all of these license requirements are being consolidated into a revised and expanded § 746.8. Specifically, license requirements from former § 746.8 are now found in paragraphs (a)(1) through (3) of § 746.8; license requirements from former § 746.5 are now found in paragraphs (a)(4) through (6) of § 746.8; and license requirements from former § 746.10 are now found in paragraph (a)(7) of § 746.8.

BIS has undertaken this consolidation in light of the increasingly wide-ranging and complex nature of the export control measures against Russia and Belarus. A single section under § 746.8 that specifies the EAR's Russia and Belarus restrictions should enhance clarity and facilitate compliance. However, in the interest of maintaining certain aspects of the current regulatory structure governing these restrictions, the applicable supplements identifying items continue to be in force, namely, the Russian and Belarusian industry sector sanctions under supplement nos. 2, 4, and 6 to part 746, and the `Luxury Goods' sanctions under supplement no. 5 to part 746. Nor has BIS made any changes to supplement nos. 3 and 7 to part 746, supplements that relate to other Russia and Belarus restrictions.

To implement this consolidation, this final rule removes and reserves §§ 746.5 (Russian and Belarusian industry sector sanctions) and 746.10 (`Luxury goods' sanctions against Russia and Belarus and Russian and Belarusian oligarchs and malign actors). The contents and related restrictions in those two EAR sections will now be located in the consolidated § 746.8, which with this final rule will become the primary part 746 section implementing export controls on Russia and Belarus.

For now, as noted above, the EAR will continue to maintain three supplements for industrial goods (supplement nos. 2, 4, and 6 to part 746) and one supplement for `luxury goods' (supplement no. 5 to part 746). However, because controls on `luxury goods' destined for certain Russian and Belarusian oligarchs and malign actors worldwide were removed from § 746.10 and added to § 744.8 of the EAR on March 21, 2024 (see 89 FR 20115, Mar. 21, 2024) as part of a broader action consolidating various end-user controls, the license requirements for `luxury goods' now are effectively the same destination-based controls that apply to license requirements for items covered under other HTS-6 codes described in the three industrial goods lists set forth in supplement nos. 2, 4, and 6 to part 746, respectively. In future amendments to the EAR, BIS may consider consolidating these three lists, but has decided to keep them separate for now. To assist with compliance, BIS is also posting a list of all HTS codes set forth in supplement nos. 2, 4, and 5 to part 746 in downloadable XML format, available at https://www.bis.gov/russia-belarus_export_controls_resources#downloadable-compliance-resources.

In addition to consolidating various Russia and Belarus export, reexport, and transfer (in-country) licensing requirements in § 746.8, this final rule adds the applicable exclusions that were formerly set forth in §§ 746.5, 746.8 and 746.10 to paragraph (a)(12) of § 746.8 of the EAR. These exclusions include ones that apply for certain deemed exports or reexports, certain transactions involving mass market encryption commodities and software destined to U.S. companies, and transactions from the Global Export Control Coalition (GECC) members described in supplement no. 3 to part 746 of the EAR. Specifically, the exclusion for deemed exports and reexports has been added to paragraph (a)(12)(i), the exclusion for mass market encryption commodities and software has been added to paragraph (a)(12)(ii), and the exclusion for members of the GECC has been added to paragraph (a)(12)(iii). The introductory text of paragraph (a) of § 746.8 will now reference paragraph (a)(12) containing these three sets of exclusions. This consolidation and reformatting of these requirements is intended to improve consistency and clarity, the objectives also met by the broader consolidation of the related licensing requirements.

Prior to this final rule, §§ 746.5, 746.8, and 746.10 of the EAR each contained instructional text that established an order of review among these three sections to clarify how to review each section in conjunction with the CCL and other sections of the EAR. Such review was necessary because a single HTS-6 code may cover both items that are classified under Export Control Classification Numbers (ECCN) on the CCL and items designated EAR99, and there may consequently be overlapping export controls that apply to an item in that HTS-6 code depending on how such item is classified. In this final rule, this order of review instructional text is being moved to the paragraph (a) introductory text in revised § 746.8, which will consolidate the licensing requirements previously set forth in three separate part 746 sections. This final rule also consolidates the three applicable licensing policies under the revised § 746.8(b) and consolidates the license exception availability contents previously found in §§ 746.5, 746.8, and 746.10 under the revised § 746.8(c). BIS estimates these conforming changes described in section II.B.1 will not result in any additional license applications submitted to BIS annually.

2. Conforming changes relating to the consolidation of the Russia and Belarus sanctions into a single part 746 section.

This final rule makes conforming changes to various provisions of the EAR to reflect the fact that the substantive contents formerly set forth in §§ 746.5 and 746.10 (e.g., licensing requirements and related license application review policies) are being consolidated with the requirements under § 746.8. Because §§ 746.5 and 746.10 are referenced in other EAR provisions, this final rule revises those EAR provisions (as described in section II.B.2). BIS estimates these conforming changes described in section II.B.2 will not result in any additional license applications submitted to BIS annually.

In supplement no. 2 to part 734—Guidelines for De Minimis Rules, this final rule revises the third sentence of paragraph (a)(1) to make a conforming change to remove the references to §§ 746.8(a)(5) and 746.10(a)(3) and add in its place a reference to § 746.8(b)(3)(ii).

In supplement no. 4 to part 744—Entity List, this final rule revises 85 existing entries, consisting of one entry under Cyprus, 83 entries under Russia, and one entry under Switzerland that reference § 746.5, and updates the reference to § 746.8.

In part 746, this final rule revises supplement nos. 2, 3, 4, and 6 to part 746 that reference §§ 746.5 or 746.10 and updates the reference to § 746.8.

In supplement no. 1 to part 774, this final rule amends eight ECCNs: 0A998, 1C992, 3A229, 3A231, 3A232, 6A991, 8A992, and 8D999 by removing the reference to § 746.5 and adding in its place references to § 746.8. In addition to the license requirements that are applicable under the Russian and Belarusian industry sector sanctions, all exports, reexports, and transfers (in-country) to or within Russia and Belarus also require a license under § 746.8(a)(1) because these items are classified under ECCNs. Lastly, this rule revises the Related Controls paragraph under ECCN 1C992 to make minor clarifications to the text for clarity.

C. Additions to the Entity List and Changes to the Entity List Structure

1. Background. The Entity List (supplement no. 4 to part 744 of the EAR (15 CFR parts 730 through 774)) identifies entities for which there is reasonable cause to believe, based on specific and articulable facts, that the entities have been involved, are involved, or pose a significant risk of being or becoming involved in, activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. BIS places entities on the Entity List pursuant to parts 744 (Control Policy: End-User and End-Use Based) and 746 (Embargoes and Other Special Controls) of the EAR. The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

2. Additions to the Entity List and changes to the Entity List structure.

i. Additions to the Entity List.

The ERC determined to add Advantage Trading Co. Limited, Duling Technology (HK) Limited, and FY International Trading, all under the destination of China, to the Entity List. These companies have procured components, including U.S.-origin components, that are used to develop and produce Shahed-series UAV's, which have been used by Russia in Ukraine. This activity is contrary to U.S. national security and foreign policy interests under §§ 744.11 and 744.21 of the EAR. These entities will receive a footnote 3 designation because the ERC has determined that they are Russian or Belarusian `military end users' in accordance with § 744.21. A footnote 3 designation subjects these entities to the Russia/Belarus-Military End User Foreign Direct Product (FDP) rule, detailed under § 734.9(g). These entities are added with a license requirement for all items subject to the EAR. License applications will be reviewed under a policy of denial for all items subject to the EAR, other than applications for food and medicine designated as EAR99, which will be reviewed on a case-by-case basis.

The ERC determined to add Shenzhen Daotong Intelligent Aviation Technology Co., Ltd., under the destination of China, to the Entity List. This entity is involved in the shipment of controlled items to Russia since Russia's invasion of Ukraine in February 2022 as well as acquiring and attempting to acquire U.S.-origin items, applicable to unmanned aerial vehicles, to be used by Chinese military entities. These activities are contrary to the national security and foreign policy interests of the United States under § 744.11 of the EAR. Licenses will be required for all items subject to the EAR. License applications will be reviewed with a license review policy of presumption of denial.

The ERC determined to add eight addresses under the destination of China to the Entity List. These addresses are associated with significant transshipment of sensitive goods to Russia. BIS has verified that these addresses are associated with a significant number of entities, whose activities risk violating the EAR. These risks include associations with parties on the Entity List or the Unverified List at the listed addresses. These activities are contrary to U.S. national security and foreign policy interests under § 744.11 of the EAR. Licenses will be required for all entities at these addresses for all items on the Commerce Control List and supplement no. 7 of section 746 of the EAR and subject to the EAR. License applications will be reviewed with a license review policy of presumption of denial.

The ERC determined to add LLC Volgogradpromproyekt, under the destination of Russia, to the Entity List. This addition is being made because the ERC has determined that LLC Volgogradpromproyekt has been involved with, contributes to, and supports the Russian military and defense sectors and companies that have been added to the BIS Entity List and the Treasury Department's List of Specially Designated Nationals and Blocked Persons. Specifically, LLC Volgogradpromproyekt have sold a variety of chemicals for use in the activities of these Russian military and defense sectors and companies. This activity is contrary to the national security and foreign policy interests of the United States under § 744.11 and this entity qualifies as a military end user under § 744.21(g) of the EAR. This entity is receiving a Footnote 3 designation because the ERC has determined that it is a Russian or Belarusian `military end user' pursuant to § 744.21. A Footnote 3 designation subjects this entity to the Russia/Belarus-Military End User Foreign Direct Product (FDP) rule, detailed in § 734.9(g). The entity is added with a license requirement for all items subject to the EAR and a license review policy of denial for all items subject to the EAR apart from food and medicine designated as EAR99, which will be reviewed on a case-by-case basis.

BIS estimates these additions to the Entity List will not result in any additional license applications submitted to BIS annually.

For the reasons described above, this final rule adds the following five entities and eight addresses under thirteen entries to the Entity List and includes, where appropriate, aliases:

China

• Address 01;

• Address 02;

• Address 03;

• Address 04;

• Address 05;

• Address 06;

• Address 07;

• Address 08;

• Advantage Trading Company Limited;

• Duling Technology (HK) Limited;

• FY International Trading Company; and

• Shenzhen Daotong Intelligent Aviation Technology Co., Ltd.

Russia

• LLC Volgogradpromproyekt.

ii. Entity List Structural Changes.

International transshipment through shell companies presents an export control compliance problem that cannot always be addressed effectively through conventional Entity List additions. Shell companies can easily be dissolved and reformed to evade sanctions and export controls because they lack non-cash assets, employees, fixed addresses, business reputations, or other features that would incentivize the pursuit of longevity. Shell companies rely on service providers to enable them, with addresses that can be listed on corporate paperwork, mailboxes where they can receive shipments, temporary office space, or accounting and other services necessary to engage in trade activity.

When BIS lists shell companies on the Entity List, it is often at the address of these service providers, though BIS has traditionally avoided listing the service providers by name because that name will not appear on export control paperwork and may remain unknown to the seller of items subject to the EAR. Nonetheless, some of these addresses present a high diversion risk for controlled items and appear multiple times on the Entity List or Unverified List under different company names.

While BIS has said that involvement of a company co-located with a listed entity presents a red flag in export transactions, there are some situations where a more definite license requirement is warranted for addresses that are repeatedly used by companies engaged in activity contrary to U.S. national security or foreign policy interests. This rule is intended to address those situations by enabling BIS to publish high diversion risk addresses on the Entity List, thus triggering a license requirement for all entities who use that address. The goal of this rule is to more effectively combat unlawful diversion and to incentivize a stronger awareness of export compliance among the corporate service provider industries that facilitate trade through shell companies.

To facilitate adding the addresses detailed above, BIS is revising § 744.16, which describes, among other things, the license requirements, license exceptions, and license review policy for entities added to the Entity List. This rule adds paragraph (f) to § 744.16. Under paragraph (f) (Addresses with High Diversion Risk), BIS may identify by address an entity (or multiple entities) on the Entity List that presents a high risk of diversion without an associated entity name. As with other entries on the Entity List, these entries will detail the license requirements, license review policies, and restrictions on the use of license exceptions; however, the entry will apply to all entities using that address, other than entities with their own separate entry at that same address, in which case the more specific entry will apply. Prior to this rule, the license requirement applied to the entity listed by name on the Entity List. BIS will include as much identifying information as possible for any such address listed on the Entity List under this policy. As a conforming change, BIS is adding reference to addresses of persons or changing references from entities to entries in the introductory text in supplements 4 and 5 to part 744.

For ease of compliance and administrative purposes, the entries that consist of an address only will be titled “Address #,” where # represents a number in a sequence of address entries. This pattern will apply to each destination for which there is an address-only entry.

Beyond entries that consist of an address only, given the risk of diversion from multiple listed entities using the same address, when a party to a transaction uses the same address as (e.g., is co-located with) a listed entity, the address is a red flag and the exporter, reexporter, and transferor must undertake sufficient due diligence to verify that the entity co-located with the listed entity is not, in fact, the listed entity and is not acting on behalf of the listed entity. This is similar to red flag guidance BIS has issued on listed entities.

The final rule also makes additional changes to §§ 744.11 and 744.16 where needed to reflect the addition of paragraph (f) under § 744.11. These changes broaden the sentences that use the phrase “entities listed on the Entity List” to reflect that these provisions also apply to addresses that present a high diversion risk listed on the Entity List.

BIS estimates these changes described in section II.C will not result in any additional license application submitted to BIS annually.

D. Confirmation of the Standard Used in Connection With Actions Involving the Availability of License Exceptions and Clarification of the Scope of a Commodity Subject to the Russian and Belarusian Industry Sanctions

This final rule makes revisions to two existing provisions of the EAR. First, this final rule specifies the standard used by BIS when revising, suspending, or revoking the use of EAR license exceptions, which applies to all license exceptions, destinations, and users of such license exceptions. By making this standard explicit, BIS provides transparency to exporters, reexporters, and transferors that may seek to utilize license exceptions in various destinations. In the section below, BIS provides some examples in the Russia context and in contexts involving other destinations in which BIS either has (or may) exercise this authority to revise, suspend, or revoke the use of license exceptions to protect U.S. national security or foreign policy interests. Second, this final rule makes a clarification regarding the control status of fasteners as it relates to the Russian and Belarusian industry sector sanctions. BIS estimates these changes described in section II.D will not result in any additional license application submitted to BIS annually.

1. Specifying the standard that governs when revising, suspending, or revoking EAR license exceptions.

BIS is responsible for protecting U.S. national security and foreign policy interests under the EAR. EAR license exceptions (part 740) are authorizations to engage in activity that otherwise requires a license and play an important role in the EAR control structure. In § 740.2 (Restrictions on all License Exceptions), this final rule revises paragraph (b) to specify the standard under which BIS may revise, suspend, or revoke a license exception, in whole or in part, without notice. Specifically, this final rule adds text to confirm (and render explicit) the fact that BIS may make such revisions, suspensions, or revocations to protect U.S. national security or foreign policy interests, consistent with the policy considerations in Section 1752 of the Export Control Reform Act of 2018 (50 U.S.C. 4811). In order to protect U.S. national security and foreign policy interests, BIS has broad authority to make revisions, suspensions, or revocations that apply to specific entities (including natural persons) or take action that affects all transactions involving a particular destination. For example, BIS may revoke a license exception for a particular foreign airline that changes its ownership structure to circumvent the national security and foreign policy objectives underlying the restrictions on the use of License Exception AVS for temporary sojourns to Russia in § 746.8 of the EAR. As another example, BIS may revoke license exception availability for a company under investigation for fraudulent use of license exceptions on export control documents to avoid scrutiny of its shipments. BIS may also revoke multiple license exceptions for transactions involving particular countries, as it did in June 2020 for Hong Kong after new security measures were imposed that undermined Hong Kong's autonomy (85 FR 45998, July 31, 2020), or as it did for Burma in March 2021 in response to that country's military coup (86 FR 13173, March 8, 2021).

2. Clarification that the exclusion for fasteners for the “parts,” “components,” “accessories,” and “attachments” does not apply to fasteners that are specified under one of the HTS-6 codes specified in the respective supplements.

In supplement nos. 2, 4, 5, and 7, this final rule adds a sentence to clarify the scope of the exclusion for fasteners (e.g., screw, bolt, nut, nut plate, stud, insert, clip, rivet, pin) in the three supplements. Fasteners are identified in an exclusion from the scope of this control, but a clarification is needed because certain fasteners will now be described under HTS-6 Codes under supplement no. 4 with the additions made in this final rule and some of the HTS-Codes in supplement nos. 2, 4, 5, and 7 also identify certain fasteners, and are therefore included within the scope of the controls. This final rule clarifies the scope of the exclusion by adding a new third sentence to each of these three supplements to specify that the exclusion of fasteners from this control does not apply to fasteners that are designated under an HTS Code that is specified in that supplement. This final rule also adds the word `generally' before the term fasteners in each of the three supplements to clarify that the exclusion for fasteners has limits. This final rule also adds the word `and' before the term `washers' to clarify that in all cases a washer, spacer, insulator, grommet, bushing, spring, wire, or solder is excluded from the scope of these three supplements regardless of the HTS Code or HTS description.

Savings Clause

For the changes being made in this final rule, shipments of items removed from eligibility for a License Exception or export, reexport, or transfer (in-country) without a license (NLR) as a result of this regulatory action that were en route aboard a carrier to a port of export, reexport, or transfer (in-country), on June 12, 2024, pursuant to actual orders for export, reexport, or transfer (in-country) to or within a foreign destination, may proceed to that destination under the previous eligibility for a License Exception or export, reexport, or transfer (in-country) without a license (NLR), provided the export, reexport, or transfer (in-country) is completed no later than on July 12, 2024.

Export Control Reform Act of 2018

On August 13, 2018, the President signed into law the John S. McCain National Defense Authorization Act for Fiscal Year 2019, which included the Export Control Reform Act of 2018 (ECRA) (codified, as amended, at 50 U.S.C. 4801-4852). ECRA provides the legal basis for BIS's principal authorities and serves as the authority under which BIS issues this rule.

Rulemaking Requirements

1. BIS has examined the impact of this rule as required by Executive Orders 12866, 13563, and 14094, which direct agencies to assess all costs and benefits of available regulatory alternatives and, if regulation is necessary, to select regulatory approaches that maximize net benefits (e.g., potential economic, environmental, public, health, and safety effects, distributive impacts, and equity). Pursuant to E.O. 12866, as amended, this final rule has not been determined to be a “significant regulatory action.”

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule involves the following OMB-approved collections of information subject to the PRA:

• 0694-0088, “Simple Network Application Process and Multipurpose Application Form,” which carries a burden hour estimate of 29.4 minutes for a manual or electronic submission;

• 0694-0096 “Five Year Records Retention Period,” which carries a burden hour estimate of less than 1 minute; and

• 0607-0152 “Automated Export System (AES) Program,” which carries a burden hour estimate of 3 minutes per electronic submission.

BIS estimates that these new controls on Russia and Belarus under the EAR will result in an increase of twenty-one license applications submitted annually to BIS. However, the additional burden falls within the existing estimates currently associated with these control numbers. Additional information regarding these collections of information—including all background materials—can be found at https://www.reginfo.gov/public/do/PRAMain by using the search function to enter either the title of the collection or the OMB Control Number.

3. This rule does not contain policies with federalism implications as that term is defined in E.O. 13132.

4. Pursuant to section 1762 of ECRA (50 U.S.C. 4821), this action is exempt from the Administrative Procedure Act (APA) (5 U.S.C. 553) requirements for notice of proposed rulemaking, opportunity for public participation, and delay in effective date. While section 1762 of ECRA provides sufficient authority for such an exemption, this action is also independently exempt from these APA requirements because it involves a military or foreign affairs function of the United States (5 U.S.C. 553(a)(1)).

5. Because neither the Administrative Procedure Act nor any other law requires that notice of proposed rulemaking and an opportunity for public comment be given for this rule, the analytical requirements of the Regulatory Flexibility Act (5 U.S.C. 601 et seq.) are not applicable. Accordingly, no Final Regulatory Flexibility Analysis is required and none has been prepared.

List of Subjects

15 CFR Part 734

Administrative practice and procedure, Exports, Inventions and patents, Research, Science and technology.

15 CFR Part 740

Administrative practice and procedure, Exports, Reporting and recordkeeping requirements.

15 CFR Part 744

Exports, Reporting and recordkeeping requirements, Terrorism.

15 CFR Parts 746 and 774

Exports, Reporting and recordkeeping requirements.

For the reasons stated in the preamble, parts 734, 740, 744, 746, and 774 of the Export Administration Regulations (15 CFR parts 730 through 774) are amended as follows:

PART 734—SCOPE OF THE EAR

1. The authority citation for part 734 is revised to read as follows:

Authority: 50 U.S.C. 4801-4852; 50 U.S.C. 4601 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13637, 78 FR 16129, 3 CFR, 2014 Comp., p. 223; Notice of November 1, 2023, 88 FR 75475 (November 3, 2023).

2. Supplement no. 2 to part 734 is amended by revising the third sentence of paragraph (a)(1) to read as follows:

Supplement No. 2 to Part 734—Guidelines for De Minimis Rules

(a) * * *

(1) * * * For purposes of identifying U.S.-origin controlled content, you should consult the Commerce Country Chart in supplement no. 1 to part 738 of the EAR and controls described in part 746 of the EAR (excluding U.S.-origin content that meets the criteria in § 746.7(a)(1)(v) or § 746.8(a)(12)(iii)(B)). * * *

* * * * *

PART 740—LICENSE EXCEPTIONS

3. The authority citation for part 740 continues to read as follows:

Authority: 50 U.S.C. 4801-4852; 50 U.S.C. 4601 et seq.; 50 U.S.C. 1701 et seq.; 22 U.S.C. 7201 et seq.; E.O. 13026, 61 FR 58767, 3 CFR, 1996 Comp., p. 228; E.O. 13222, 66 FR 44025, 3 CFR, 2001 Comp., p. 783.

4. Section 740.2 is amended by revising paragraph (b) to read as follows:

§ 740.2 Restrictions on all License Exceptions.

* * * * *

(b) All License Exceptions are subject to revision, suspension, or revocation, in whole or in part, without notice to protect U.S. national security or foreign policy interests. BIS may stop a shipment or an export, reexport, or (in-country) transaction at any stage of its progress, e.g., in order to prevent an unauthorized export, reexport, or transfer (in-country). If a shipment is already en route, BIS may order the return or unloading of the shipment at any port of call.

5. Section 740.19 is amended by revising paragraph (b) to read as follows:

§ 740.19 Consumer Communications Devices (CCD).

* * * * *

(b) Eligible commodities and software. Commodities and software in paragraphs (b)(1) through (8) of this section are eligible for export, reexport, or transfer (in-country) under this section to and within Cuba, Russia, and Belarus. Commodities and software in paragraphs (b)(9) through (18) of this section are eligible for export, reexport, or transfer (in-country) to Cuba only.

(1) Consumer computers, tablets, and peripherals including microphones, speakers, and headphones designated EAR99 or classified under Export Control Classification Numbers (ECCN) 5A992.c or 4A994.b;

(2) Mobile phones, including cellular and satellite telephones, personal digital assistants, and subscriber information module (SIM) cards, accessories for such devices and similar devices classified under ECCNs 5A992.c or 5A991 or designated EAR99; drivers and connectivity software for such hardware designated EAR99 or classified under ECCN 5D992.c;

(3) Monitors classified under ECCN 5A992.c or designated EAR99;

(4) Printers, including multifunctional printers, classified under ECCN 5A992.c or designated EAR99;

(5) Keyboards, mice, and similar devices designated EAR99;

(6) Batteries, chargers, carrying cases, and accessories for the equipment described in paragraphs (b)(1) through (5) of this section that are designated EAR99;

(7) Consumer “information security” equipment, “software” (except “encryption source code”), such as firewalls, virtual private network clients, antivirus, user authentication, password managers, identification verification, and peripherals classified under ECCNs 5A992.c or 5D992.c or designated EAR99;

(8) Consumer “software” (except “encryption source code”) classified under ECCNs 4D994, 5D991, or 5D992.c or designated EAR99 to be used for equipment described in paragraphs (b)(1) through (16) of this section;

(9) Consumer disk drives and solid-state storage equipment classified under ECCN 5A992 or designated EAR99;

(10) Graphics accelerators and graphics coprocessors designated EAR99;

(11) Modems, network interface cards, routers, switches, and WiFi access points, designated EAR99 or classified under ECCNs 5A992.c or 5A991; drivers, communications, and connectivity software for such hardware designated EAR99 or classified under ECCN 5D992.c;

(12) Network access controllers and communications channel controllers classified under ECCN 5A991.b.4, 5A992.c, or designated EAR99;

(13) Memory devices classified under ECCN 5A992.c or designated EAR99;

(14) Digital cameras (including webcams) and memory cards classified under ECCN 5A992 or designated EAR99;

(15) Television and radio receivers, set top boxes, video decoders, and antennas, classified under ECCNs 5A991, 5A992, or designated EAR99;

(16) Recording devices classified under ECCN 5A992 or designated EAR99;

(17) Commodities described under 3A991.p or 4A994.l; and

(18) Batteries, chargers, carrying cases, and accessories for the equipment described in paragraphs (b)(8) through (17) of this section that are designated EAR99.

Note 1 to paragraph (b): In this paragraph, the term “consumer” refers to items that are:

1. Generally available to the public by being sold, without restriction, from stock at retail selling points by means of any of the following:

a. Over-the-counter transactions;

b. Mail order transactions;

c. Electronic transactions; or

d. Telephone call transactions; and

2. Designed for installation by the user without further substantial support by the supplier.

* * * * *

PART 744—CONTROL POLICY: END-USER AND END-USE BASED

6. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 7, 2023, 88 FR 62439 (September 11, 2023); Notice of November 1, 2023, 88 FR 75475 (November 3, 2023).

7. Amend § 744.11 by revising the section introductory text, paragraphs (a) introductory text, (b) introductory text, (b)(4)(i), and (c), to read as follows:

§ 744.11 License requirements that apply to entities acting or at significant risk of acting contrary to the national security or foreign policy interests of the United States, and to addresses that present a high diversion risk.

BIS may impose foreign policy export, re-export, and transfer (in-country) license requirements, limitations on availability of license exceptions, and set license application review policy based on the criteria in this section. Such requirements, limitations and policy are in addition to those set forth elsewhere in the EAR. License requirements, limitations on use of license exceptions, and license application review policies will be imposed under this section by adding an entity or an address that presents a high diversion risk (see § 744.16(f) of this part) to the Entity List (supplement no. 4 to this part) with a reference to this section and by stating on the Entity List the license requirements and license application review policies that apply to that entity or address, or by informing an exporter, re-exporter, or transferor pursuant to paragraph (c) of this section that a specific entity or address is subject to a license requirement, limitations on use of license exceptions and license application review policies as specified in a specific notice provided to an exporter, re-exporter, or transferor. BIS may remove an entity from the Entity List if it is no longer engaged in the activities described in paragraph (b) of this section and is unlikely to engage in such activities in the future, or if it is no longer at significant risk of acting contrary to the national security or foreign policy interests of the United States as described therein. BIS may remove an address that presents a high diversion risk from the Entity List if the address is determined to no longer be a high diversion risk, for example if measures are undertaken to educate companies operating at those addresses on export compliance, or to effectively screen clients for diversion risk. BIS may modify the license exception limitations and license application review policies that apply to a particular entity or address that presents a high diversion risk to implement the policies of this section. BIS will implement the provisions of this section in accordance with the decisions of the End-User Review Committee or, if appropriate in a particular case, in accordance with the decisions of the body to which the End-User Review Committee decision is escalated. The End-User Review Committee will follow the procedures set forth in supplement no. 5 to this part.

(a) License requirement, availability of license exceptions, and license application review policy. A license is required, to the extent specified on the Entity List, to export, reexport, or transfer (in-country) any item subject to the EAR when an entity that is listed on the Entity List, or any entity using an address identified on the Entity List as presenting a high risk of diversion to activities of concern, is a party to the transaction as described in § 748.5(c) through (f) of the EAR unless otherwise authorized or excluded in this section. License exceptions may not be used unless authorized in the Entity List entry for the entity that is party to the transaction or for an address that presents a high diversion risk that is used by a party to the transaction. Applications for licenses required by this section will be evaluated as stated in the relevant Entity List entry, in addition to any other applicable review policy stated elsewhere in the EAR.

* * * * *

(b) Criteria for revising the Entity List. Entities for which there is reasonable cause to believe, based on specific and articulable facts, that the entity or party to the transaction that is operating at an address that presents a high diversion risk has been involved, is involved, or poses a significant risk of being or becoming involved in activities that are contrary to the national security or foreign policy interests of the United States and those acting on behalf of such entities or conducting operations at an address that presents a high diversion risk may be added to the Entity List pursuant to this section. An entity or address that presents a high diversion risk may pose a significant risk through certain circumstances that may be outside of its own control or in the case of addresses with high diversion risk, outside the control of certain parties to the transaction operating at such address that presents a high diversion risk. Such circumstances that may place an entity or address that presents a high diversion risk include situations involving a sustained lack of cooperation by a host government authority, for example, by preventing an end-use check from being conducted, that effectively prevents BIS from determining compliance with the EAR. This section may not be used to place any U.S. person, as defined in § 772.1 of the EAR, on the Entity List. Paragraphs (b)(1) through (5) of this section provide an illustrative list of activities that could be or represent a significant risk of being contrary to the national security or foreign policy interests of the United States, including the foreign policy interest of the protection of human rights throughout the world.

* * * * *

(4) * * *

(i) The entity or persons that own or control an address that presents a high diversion risk precluding access to; refusing to provide information about; or providing false or misleading information about parties to the transaction or the item to be checked. The conduct in this example includes: expressly refusing to permit a check; providing false or misleading information; or engaging in dilatory or evasive conduct that effectively prevents the check from occurring or makes the check inaccurate or useless. A nexus between the conduct of the party or address that presents a high diversion risk to be listed and the failure to produce a complete, accurate and useful check is required, even though an express refusal by the party to be listed is not required; or

* * * * *

(c) Additional prohibition on persons informed by BIS. BIS may inform persons, either individually by specific notice or through amendment to the EAR, that a license is required for:

(1) A specific export, reexport, or transfer (in-country) because there is an unacceptable risk that the export, reexport, or transfer (in-country) is intended to circumvent the license requirement imposed on an entity or address that presents a high diversion risk listed in supplement no. 4 to this part; or

(2) The export, reexport, or transfer (in-country) of specified items to a certain party because there is an unacceptable risk that the party is acting as an agent, front, or shell company for an entity listed in supplement no. 4 to this part, or is otherwise assisting that listed entity in circumventing the license requirement set forth in that entity's entry in supplement no. 4 to this part; or

(3) The export, reexport, or transfer (in-country) of specified items to a certain party or address that presents a high diversion risk because there is reasonable cause to believe, based on specific and articulable facts, that the entity has been involved, is involved, or poses a significant risk of being or becoming involved in activities that are contrary to the national security or foreign policy interests of the United States, including the foreign policy interest of the protection of human rights throughout the world, and those acting on behalf of such entity or that an address that presents a high diversion risk of being used to divert items subject to the EAR to end-uses or end-users inconsistent with U.S. foreign policy or national security interests. Specific notice will be given only by, or at the direction of, the Principal Deputy Assistant Secretary for Strategic Trade and Technology Security or the Deputy Assistant Secretary for Strategic Trade. When such notice is provided orally, it will be followed by written notice within two working days signed by the Principal Deputy Assistant Secretary for Strategic Trade and Technology Security or the Principal Deputy Assistant Secretary's or Deputy Assistant Secretary's designee. The specific notice will include the license requirement, limitations on use of license exceptions, and license application review policy with which that exporter, re-exporter, or transferor must comply pursuant to this paragraph (c)(3). The ERC may add such entities or addresses that present a high diversion risk to the Entity List in supplement no. 4 to this part.

7. Section 744.16 is amended by:

a. Revising the introductory text;

b. Revising paragraphs (a), (b), (c)(1), (e) introductory text; and

c. Adding paragraph (f).

The addition and revisions read as follows:

§ 744.16 Entity List.

The Entity List (supplement no. 4 to this part) identifies persons or addresses of persons reasonably believed to be involved, or to pose a significant risk of being or becoming involved, in activities contrary to the national security or foreign policy interests of the United States. The entries are added to the Entity List pursuant to sections of part 744 (Control Policy: End-User and End-Use Based) and part 746 (Embargoes and Other Special Controls) of the EAR.

* * * * *

(a) License requirements. In addition to the license requirements for items specified on the CCL, you may not, without a license from BIS, export, reexport, or transfer (in-country) any items included in the License Requirement column of an entry on the Entity List (supplement no. 4 to this part) when an entity associated with that entry or when any entity using an address of high diversion risk associated with that entry is a party to a transaction as described in § 748.5(c) through (f) of the EAR. The specific license requirement for each listed entity or address with high diversion risk is identified in the license requirement column on the Entity List in supplement no. 4 to this part. A license is not required for the release of certain “technology” or “software” when such a release is for a “standards-related activity,” as described in §§ 744.11(a)(1) and 772.1 of the EAR.

(b) License exceptions. No license exceptions are available for exports, reexports or transfers (in-country) to listed entities or addresses that present a high diversion risk of specified items, except license exceptions for items listed in § 740.2(a)(5) of the EAR destined to listed Indian or Pakistani entities to ensure the safety of civil aviation and safe operation of commercial passenger aircraft, and in the case of entities added to the Entity List pursuant to § 744.20, to the extent specified on the Entity List.

(c) * * *

(1) General review policy. The license review policy for each listed entity or address that presents a high diversion risk is identified in the License Review Policy column on the Entity List.

* * * * *

(e) Removal or modification requests. Any entity listed on the Entity List or the owner or operator of any address that presents a high diversion risk listed on the Entity List may request that its listing be removed or modified. All such requests, including reasons therefor, must be in writing and sent to: Chair, End-User Review Committee, Bureau of Industry and Security, U.S. Department of Commerce, 14th Street and Pennsylvania Avenue NW, Room 3886, Washington, DC 20230.

* * * * *

(f) Addresses that present a high diversion risk. In limited circumstances, such as when multiple entities on the Entity List use the same address, or the name of an entity at a particular address is unknown to BIS, BIS may determine that such an address presents a high risk of diversion and publish the address on the Entity List without an associated entity name. These entries will apply license requirements, license review policies, and restrictions on the use of license exceptions for all entities using that address. When submitting a license application, the applicant should name the specific entity on the application. In the license application field for additional information, the applicant should state that the address is on the Entity List.

9. Amend supplement no. 4 to part 744 by:

a. Revising the introductory text;

b. Under CHINA, PEOPLE'S REPUBLIC OF by adding, in alphabetical order, entries for “Address 01”; “Address 02”; Address 03”; “Address 04”; “Address 05”; “Address 06”; “Address 07”; “Address 08”; “Advantage Trading Company Limited”; “Duling Technology (HK) Limited”; and “FY International Trading Company”; and “Shenzhen Daotong Intelligent Aviation Technology Co., Ltd.”;

c. Under CYPRUS, revising the entry for “Rosneft Trade Limited”;

d. Under RUSSIA, by:

i. Revising the entries for “Achim Development, OOO”; “CJSC VANKORNEFT”; “Daltransgaz, OAO”; “Druzhba, AO”; “Gaz-Oil, OOO”; “Gazprom Dobycha Irkutsk, OOO”; “Gazprom Dobycha Krasnodar, OOO”; “Gazprom Dobycha Kuznetsk, OOO”; “Gazprom Dobycha Nadym, OOO”; “Gazprom Dobycha Noyabrsk, OOO”; “Gazprom Dobycha Urengoi, OOO”; “Gazprom Dobycha Yamburg, OOO”; “Gazprom Energo, OOO”; “Gazprom Flot, OOO”; “Gazprom Gaznadzor, OOO”; “Gazprom Gazobezopasnost, OOO”; “Gazprom Geologorazvedka, OOO”; “Gazprom Inform, OOO”; “Gazprom Invest, OOO”; “Gazprom Kapital, OOO”; “Gazprom Komplektatsiya, OOO”; “Gazprom Mezhregiongaz, OOO”; “Gazprom Neft”; “Gazprom, OAO”; “Gazprom Pererabotka, OOO”; “Gazprom Personal, OOO”; “Gazprom Promgaz, AO”; “Gazprom Russkaya, OOO”; “Gazprom Sotsinvest, OOO”; “Gazprom Svyaz, OOO”; “Gazprom Svyaz, OOO”; “Gazprom Telekom, OOO”; “Gazprom Transgaz Kazan, OOO”; “Gazprom Transgaz Krasnodar, OOO”; “Gazprom Transgaz Makhachkala, OOO”; “Gazprom Transgaz Nizhni Novgorod, OOO”; “Gazprom Transgaz Samara, OOO”; “Gazprom Transgaz Sankt-Peterburg, OOO”; “Gazprom Transgaz Saratov”; “Gazprom Transgaz Stavropol, OOO”; “Gazprom Transgaz Surgut, OOO”; “Gazprom Transgaz Tomsk, OOO”; “Gazprom Transgaz Ufa, OOO”; “Gazprom Transgaz Ukhta, OOO”; “Gazprom Transgaz Volgograd, OOO”; “Gazprom Transgaz Yugorsk, OOO”; “Gazprom Tsentrremont, OOO”; “Gazprom Vniigaz, OOO”; “Kaliningradnefteprodukt OOO”; “Kamchatgazprom, OAO”; “Kinef OOO”; “Kirishiavtoservis OOO”; “Krasnoyarskgazprom, PAO”; “Lazurnaya OOO”; and “Lengiproneftekhim OOO”;

ii. Adding, in alphabetical order, entry for “LLC Volgogradpromproyekt”;

iii. Revising the entries for “Lukoil, OAO”; “Media-Invest OOO”; “Neft-Aktiv LLC”; “Niigazekonomika, OOO”; “Novgorodnefteprodukt OOO”; “OJSC Achinsk Refinery”; “OJSC Angarsk Petrochemical Company”; “OJSC Kuybyshev Refinery”; “OJSC Novokuybyshev Refinery”; “OJSC Orenburgneft”; “OJSC RN Holding”; “OJSC Samotlorneftegaz”; “OJSC Syzran Refinery”; “PJSC Verkhnechonskneftegaz”; “Pskovnefteprodukt OOO”; “RN-Komsomolsky Refinery LLC”; “RN-Yuganskneftegaz LLC”; “Rosneft”; “SNGB AO”; “SO Tvernefteprodukt OOO”; “Sovkhoz Chervishevski PAO”; “Strakhovove Obshchestvo Surgutneftegaz OOO”; “Surgutmebel OOO”; “Surgutneftegas”; “Vostokgazprom, OAO”; “Yamalgazinvest, ZAO”; and “Yuzhno-Kirinskoye Field, in the Sea of Okhotsk”; and

e. Under SWITZERLAND, revising the entry for “Rosneft Trading S.A.”.

The revisions read as follows:

Supplement No. 4 to Part 744—Entity List

This supplement lists certain entities or addresses subject to license requirements for specified items under parts 744 and 746 of the EAR. License requirements for these entities include exports, reexports, and transfers (in-country) unless otherwise stated. A license is required, to the extent specified on the Entity List, to export, reexport, or transfer (in-country) any item subject to the EAR when an entity or a party to the transaction is operating at an address that is listed on the Entity List under an address entry is a party to the transaction as described in § 748.5(c) through (f) of the EAR. See § 744.11 for licensing requirements in the context of a “standards-related activity.” This list is revised and updated on a periodic basis in this supplement by adding new or amended notifications and deleting notifications no longer in effect.

Country | Entity | License requirement | License review policy | Federal Register citation
* * * * * * *
CHINA, PEOPLE'S REPUBLIC OF | * * * * * *
| Address 01, Unit D, 16/F One Capital Place, 18 Luard Rd, Wan Chai, Hong Kong. | For items on the CCL and listed in supplement no. 7 to part 746 of the EAR | Presumption of denial | 89 FR [INSERT FR PAGE NUMBER AND June 18, 2024].
| Address 02, Unit 04, 7/F Bright Way Tower, No. 33 Mong Kok Road, Kowloon, Hong Kong. | For items on the CCL and listed in supplement no. 7 to part 746 of the EAR | Presumption of denial | 89 FR [INSERT FR PAGE NUMBER AND June 18, 2024].
| Address 03, Room 19C Lockhart Centre 301-307, Lockhart Rd. Wan Chai, Hong Kong. | For items on the CCL and listed in supplement no. 7 to part 746 of the EAR | Presumption of denial | 89 FR [INSERT FR PAGE NUMBER AND June 18, 2024].
| Address 04, Room 803, Chevalier House 45-51, Chatham Road South, Tsim Sha Tsui, Hong Kong. | For items on the CCL and listed in supplement no. 7 to part 746 of the EAR | Presumption of denial | 89 FR [INSERT FR PAGE NUMBER AND June 18, 2024].
| Address 05, Flat/RM 2309, 23/F, Ho King Commercial Centre, 2-16 Fa Yuen Street, Mong Kok, Kowloon, Hong Kong. | For items on the CCL and listed in supplement no. 7 to part 746 of the EAR | Presumption of denial | 89 FR [INSERT FR PAGE NUMBER AND June 18, 2024].
| Address 06, Office 4, 16/F Ho King Commercial Centre, 2-16 Fayuen Street, Hong Kong. | For items on the CCL and listed in supplement no. 7 to part 746 of the EAR | Presumption of denial | 89 FR [INSERT FR PAGE NUMBER AND June 18, 2024].
| Address 07, Room 1318-19, 13F, Hollywood Plaza, 610 Nathan Road, Mong Kok, Kowloon, Hong Kong. | For items on the CCL and listed in supplement no. 7 to part 746 of the EAR | Presumption of denial | 89 FR [INSERT FR PAGE NUMBER AND June 18, 2024]
| Address 08, Room 1318-20, 13F, Hollywood Plaza, 610 Nathan Road, Mong Kok Kowloon, Hong Kong. | For items on the CCL and listed in supplement no. 7 to part 746 of the EAR | Presumption of denial | 89 FR [INSERT FR PAGE NUMBER AND June 18, 2024].
| Advantage Trading Company Limited a.k.a., the following one alias:—Jin Ying Trading Co., Ltd. No. 6 Kin Tai Street, Shop 185 G/F, Hand Wai Industrial Centre, Tuen Mun, New Territories, Hong Kong. | For all items subject to the EAR. (See §§ 744.8(b), 744.11, 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND June 18, 2024].
| * * * * * *
| Duling Technology (HK) Limited, 2-16 Fayuen Street, Room 4, 16th Floor, Ho King Commercial Centre, Mongkok, Kowloon, Hong Kong. | For all items subject to the EAR (See §§ 744.8(b), 744.11, 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND June 18, 2024].
| * * * * * *
| FY International Trading Company, a.k.a., the following one alias:—FYIT. Cac Kitt Building, Room 21B7, Shenzhen Guangdong China; and No. 48 Street, Office No. 6, 12th Floor, Wealth Commercial Centre, Kowloon, Hong Kong; and 707 to 713 Nathan Road, Flat Room B, 26th Floor, Silvercorp International Tower, Mong Kok, Kowloon, Hong Kong; and 426 Shanghai Street, Flat 2002C, 20F, Multifield Commercial Centre, Mongkok, Kowloon, Hong Kong; and No. 16 Shing Yip Street, Workshop 603F, Block A, East Sun Industrial Centre, Kowloon, Hong Kong; and Flat F 10 Floor Hung Cheong Industrial Centre Phase I 12Tsing Yeung, Tuen Mun, N.T. Hong Kong. | For all items subject to the EAR (See §§ 744.8(b), 744.11, 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND June 18, 2024].
| * * * * * *
| Shenzhen Daotong Intelligent Aviation Technology Co., Ltd., a.k.a., the following two aliases: —Autel Robotics; and —Daotong Intelligence. | For all items subject to the EAR. (See § 744.11 of the EAR) | Presumption of denial | 89 FR [INSERT FR PAGE NUMBER AND June 18, 2024].
| 6th Floor, No. 1, Chuangxiangdi, Yanxiang Intelligent Valley, No. 11 Gaoxin West Road, Guangming New District, Shenzhen, China; and Building C1 & B1, Nanshan Zhiyuan, No.1001, Xueyuan Avenue, Xili Street, Nanshan District, Shenzhen, China; and Unit 701-702, 7/F, Grandtech Center, 8 On Ping Street, Shatin, N.T., Hong Kong; and Unit 06, Floor 4, 501, 7th Floor, No. 8 Xibinhe Road, Yongdingmen, Dongcheng District, Beijing, China; and Room 405, No. 5, Jixiang 3rd Road, Yixin Community, Pingdi Street, Longgang District, Shenzhen, China; and No. 11303, Unit 1, Building 3, Moore Center, northwest corner of Keji 6th Road, Fenghui South Road, High-tech Zone, Xi'an City, Shaanxi Province, China; and No. 701 on the east side and 701 on the west side of the electronics factory in Building 3, Yanxiang Technology Industrial Park, Gaoxin Road, Dongzhou Community, Guangming Street, Guangming District, Shenzhen, China.
| * * * * * *
CYPRUS | * * * * * *
| Rosneft Trade Limited, f.k.a., TNK Trade Limited. Elenion Building 5 Themistokli Dervi, 2nd floor, Lefkosia, Nicosia 1066, Cyprus. | For all items subject to the EAR when used in projects specified in § 746.8(a)(4) of the EAR | See § 746.8(b)(2) of the EAR | 80 FR 52968, 9/2/15. 89 FR [INSERT FR PAGE NUMBER AND June 18, 2024].
| * * * * * *
RUSSIA | * * * * * *
| Achim Development, OOO, a.k.a., the following two aliases: —Achim Development; and —Obshchestvo S Ogranichennoi Otvetstvennostyu `Achim Development'. d.7 ul.Promyshlennaya, Novy Urengoi, Yamalo-Nenetski a.o. 629306, Russia. | For all items subject to the EAR when used in projects specified in § 746.8(a)(4) of the EAR | See § 746.8(b)(2) of the EAR | 81 FR 61601 preview citation details, 9/7/16. 89 FR [INSERT FR PAGE NUMBER AND June 18, 2024].
| * * * * * *
| CJSC VANKORNEFT, a.k.a., the following two aliases: —Vankorneft; and —ZAO Vankorneft. Dobrovolcheskoy Brigady St., 15, Krasnoyarsk Territory 660077, Russia. | For all items subject to the EAR when used in projects specified in § 746.8(a)(4) of the EAR | See § 746.8(b)(2) of the EAR | 80 FR 52968 preview citation details, 9/2/15. 89 FR [INSERT FR PAGE NUMBER AND June 18, 2024].
| * * * * * *
| Daltransgaz, OAO, a.k.a., the following two aliases: —Daltransgaz; and —Otkrytoe Aktsionernoe Obshchestvo `Daltransgaz'. d. 1 ul.Solnechnaya S. Ilinka, Khabarovski Raion Khabarovski krai 680509, Russia. | For all items subject to the EAR when used in projects specified in § 746.8(a)(4)5 of the EAR | See § 746.8(b)(2) of the EAR | 81 FR 61601 preview citation details, 9/7/16. 89 FR [INSERT FR PAGE NUMBER AND June 18, 2024].
| * * * * * *
| Druzhba, AO, a.k.a., the following two aliases: —Aktsionernoe Obshchestvo `Druzhba'; and —Druzhba. Rogozinino, Moscow 143397, Russia. | For all items subject to the EAR when used in projects specified in § 746.8(a)(4) of the EAR | See § 746.8(b)(2) of the EAR | 81 FR 61601, 9/7/16. 89 FR [INSERT FR PAGE NUMBER AND June 18, 2024].
| * * * * * *
| Gaz-Oil, OOO (f.k.a., Zakrytoe Aktsionernoe Obshchestvo Gaz Oil), a.k.a., the following two aliases: —Gaz-Oil; and —Obshchestvo S Ogranichennoi Otvetstvennostyu `Gaz-Oil'. d.10 B ul.Nametkina, Moscow 117420, Russia. | For all items subject to the EAR when used in projects specified in § 746.8(a)(4) of the EAR | See § 746.8(b)(2) of the EAR | 81 FR 61601, 9/7/16. 89 FR [INSERT FR PAGE NUMBER AND June 18, 2024].
| * * * * * *
| Gazprom Dobycha Irkutsk, OOO (f.k.a., Otkrytoe Aktsionernoe Obshchestvo Irkutskgazprom), a.k.a., the following two aliases: —Gazprom Dobycha Irkutsk; and —Obshchestvo S Ogranichennoi Otvetstvennostyu `Gazprom Dobycha Irkutsk'. d.14 ul.Nizhnyaya Naberezhnaya, Irkutsk, Irkutskaya obl 664011, Russia. | For all items subject to the EAR when used in projects specified in § 746.8(a)(4) of the EAR | See § 746.8(b)(2) of the EAR | 81 FR 61601, 9/7/16. 89 FR [INSERT FR PAGE NUMBER AND June 18, 2024].
| Gazprom Dobycha Krasnodar, OOO, a.k.a., the following two aliases: —Gazprom Dobycha Krasnodar; and —Obshchestvo S Ogranichennoi Otvetstvennostyu `Gazprom Dobycha Krasnodar'. d.53 ul.Shosse Neftyanikov, Krasnodar, Krasnodarski krai 350051, Russia. | For all items subject to the EAR when used in projects specified in § 746.8(a)(4) of the EAR | See § 746.8(b)(2) of the EAR | 81 FR 61601, 9/7/16. 89 FR [INSERT FR PAGE NUMBER AND June 18, 2024].
| Gazprom Dobycha Kuznetsk, OOO, a.k.a., the following two aliases: —Gazprom Dobycha Kuznetsk; and —Obshchestvo S Ogranichennoi Otvetstvennostyu `Gazprom Dobycha Kuznetsk'. d.4 prospekt Oktyabrski, Kemerovo, Kemerovskaya obl 650066, Russia. | For all items subject to the EAR when used in projects specified in § 746.8(a)(4) of the EAR | See § 746.8(b)(2) of the EAR | 81 FR 61601, 9/7/16. 89 FR [INSERT FR PAGE NUMBER AND June 18, 2024].
| Gazprom Dobycha Nadym, OOO, a.k.a., the following two aliases: —Gazprom Dobycha Nadym; and —Obshchestvo S Ogranichennoi Otvetstvennostyu `Gazprom Dobycha Nadym'. d.1 ul.Zvereva, Nadym, Yamalo-Nenetski a.o. 629730, Russia. | For all items subject to the EAR when used in projects specified in § 746.8(a)(4) of the EAR | See § 746.8(b)(2) of the EAR | 81 FR 61601, 9/7/16. 89 FR [INSERT FR PAGE NUMBER AND June 18, 2024].
| Gazprom Dobycha Noyabrsk, OOO, a.k.a., the following two aliases: —Gazprom Dobycha Noyabrsk; and —Obshchestvo S Ogranichennoi Otvetstvennostyu `Gazprom Dobycha Noyabrsk'. d.20 ul. Respubliki, Noyabrsk, Yamalo-Nenetski a.o. 629802, Russia. | For all items subject to the EAR when used in projects specified in § 746.8(a)(4) of the EAR | See § 746.8(b)(2) of the EAR | 81 FR 61601, 9/7/16. 89 FR [INSERT FR PAGE NUMBER AND June 18, 2024].
| Gazprom Dobycha Urengoi, OOO, a.k.a., the following two aliases: —Gazprom Dobycha Urengoy; and —Obshchestvo S Ogranichennoi Otvetstvennostyu `Gazprom Dobycha Urengoi'. d.8 ul.Zheleznodorozhnaya, Novy Urengoi, Yamalo-Nenetski a.o. 629307, Russia. | For all items subject to the EAR when used in projects specified in § 746.8(a)(4) of the EAR | See § 746.8(b)(2) of the EAR | 81 FR 61601, 9/7/16. 89 FR [INSERT FR PAGE NUMBER AND June 18, 2024].
| Gazprom Dobycha Yamburg, OOO, a.k.a., the following two aliases: —Gazprom Dobycha Yamburg; and —Obshchestvo S Ogranichennoi Otvetstvennostyu `Gazprom Dobycha Yamburg'. d.9 ul. Geologorazvedchikov, Novy Urengoi, Yamalo-Nenetski a.o 629306, Russia. | For all items subject to the EAR when used in projects specified in § 746.8(a)(4) of the EAR | See § 746.8(b)(2) of the EAR | 81 FR 61601, 9/7/16. 89 FR [INSERT FR PAGE NUMBER AND June 18, 2024].
| Gazprom Energo, OOO, a.k.a., the following two aliases: —Gazprom Energo; and —Obshchestvo S Ogranichennoi Otvetstvennostyu `Gazprom Energo'. 8 Korp. 1 ul.Stroitelei, Moscow 117939, Russia. | For all items subject to the EAR when used in projects specified in § 746.8(a)(4) of the EAR | See § 746.8(b)(2) of the EAR | 81 FR 61601, 9/7/16. 89 FR [INSERT FR PAGE NUMBER AND June 18, 2024].
| Gazprom Flot, OOO (f.k.a., Obshchestvo S Ogranichennoi Otvetstvennostyu Gazflot), a.k.a., the following two aliases: —Gazprom Flot; and —Obshchestvo S Ogranichennoi Otvetstvennostyu `Gazprom Flot'. d. 12 A ul.Nametkina, Moscow 117420, Russia. | For all items subject to the EAR when used in projects specified in § 746.8(a)(4) of the EAR | See § 746.8(b)(2) of the EAR | 81 FR 61601, 9/7/16. 89 FR [INSERT FR PAGE NUMBER AND June 18, 2024].
| Gazprom Gaznadzor, OOO, a.k.a., the following two aliases: —Gazprom Gaznadzor; and —Obshchestvo S Ogranichennoi Otvetstvennostyu `Gazprom Gaznadzor'. 41 str. 1 prospekt Vernadskogo, Moscow 119415, Russia. | For all items subject to the EAR when used in projects specified in § 746.8(a)(4) of the EAR | See § 746.8(b)(2) of the EAR | 81 FR 61601, 9/7/16. 89 FR [INSERT FR PAGE NUMBER AND June 18, 2024].
| Gazprom Gazobezopasnost, OOO, a.k.a., the following two aliases: —Gazprom Gazobezopasnost; and —Obshchestvo S Ogranichennoi Otvetstvennostyu `Gazprom Gazobezopasnost'. d. 8 korp. 1 ul.Stroitelei, Moscow 119311, Russia. | For all items subject to the EAR when used in projects specified in § 746.8(a)(4) of the EAR | See § 746.8(b)(2) of the EAR | 81 FR 61601, 9/7/16. 89 FR [INSERT FR PAGE NUMBER AND June 18, 2024].
| Gazprom Geologorazvedka, OOO (f.k.a., Obshchestvo S Ogranichennoi Otvetstvennostyu Gazprom Dobycha Krasnoyarsk), a.k.a., the following two aliases: —Gazprom Geologorazvedka; and —Obshchestvo S Ogranichennoi Otvetstvennostyu `Gazprom Geologorazvedka'. d.70 ul.Gertsena, Tyumen, Tyumenskaya obl. 625000, Russia. | For all items subject to the EAR when used in projects specified in § 746.8(a)(4) of the EAR | See § 746.8(b)(2) of the EAR | 81 FR 61601, 9/7/16. 89 FR [INSERT FR PAGE NUMBER AND June 18, 2024].
| Gazprom Inform, OOO (f.k.a., Zakrytoe Aktsionernoe Obshchestvo Informgazinvest), a.k.a., the following two aliases: —Gazprom Inform; and —Obshchestvo S Ogranichennoi Otvetstvennostyu `Gazprom Inform'. d. 13 str. 3 ul.Bolshaya Cheremushkinskaya, Moscow 117447, Russia. | For all items subject to the EAR when used in projects specified in § 746.8(a)(4) of the EAR | See § 746.8(b)(2) of the EAR | 81 FR 61601, 9/7/16. 89 FR [INSERT FR PAGE NUMBER AND June 18, 2024].
| Gazprom Invest, OOO, a.k.a., the following two aliases: —Gazprom Invest; and —Obshchestvo S Ogranichennoi Otvetstvennostyu `Gazprom Invest'. d. 6 litera D ul.Startovaya, St. Petersburg 196210, Russia. | For all items subject to the EAR when used in projects specified in § 746.8(a)(4) of the EAR | See § 746.8(b)(2) of the EAR | 81 FR 61601, 9/7/16. 89 FR [INSERT FR PAGE NUMBER AND June 18, 2024].
| Gazprom Kapital, OOO (f.k.a., Obshchestvo S Ogranichennoi Otvetstvennostyu Kap Infin), a.k.a., the following two aliases: —Gazprom Kapital; and —Obshchestvo S Ogranichennoi Otvetstvennostyu `Gazprom Kapital'. Sosenskoe Pos, Pos. Gazoprovod, D. 101 Korp. 9, Moscow 142770, Russia. | For all items subject to the EAR when used in projects specified in § 746.8(a)(4) of the EAR | See § 746.8(b)(2) of the EAR | 81 FR 61601, 9/7/16. 89 FR [INSERT FR PAGE NUMBER AND June 18, 2024].
| Gazprom Komplektatsiya, OOO, a.k.a., the following two aliases: —Gazprom Komplektatsiya; and —Obshchestvo S Ogranichennoi Otvetstvennostyu `Gazprom Komplektatsiya'. 8 Korp. 1 ul.Stroitelei, Moscow 119991, Russia. | For all items subject to the EAR when used in projects specified in § 746.8(a)(4) of the EAR | See § 746.8(b)(2) of the EAR | 81 FR 61601, 9/7/16. 89 FR [INSERT FR PAGE NUMBER AND June 18, 2024].
| Gazprom Mezhregiongaz, OOO, a.k.a., the following two aliases: —Gazprom Mezhregiongaz; and —Obshchestvo S Ogranichennoi Otvetstvennostyu `Gazprom Mezhregiongaz'. d. Dom 24 korp. Liter A nab.Admirala Lazareva, St. Petersburg 197110, Russia. | For all items subject to the EAR when used in projects specified in § 746.8(a)(4) of the EAR | See § 746.8(b)(2) of the EAR | 81 FR 61601, 9/7/16. 89 FR [INSERT FR PAGE NUMBER AND June 18, 2024].
| Gazprom Neft (a.k.a. Gazprom Neft OAO; a.k.a. JSC Gazprom Neft; a.k.a. Open Joint-Stock Company Gazprom Neft; f.k.a. Sibirskaya Neftyanaya Kompaniya OAO) Address: Let. A. Galernaya, 5, ul, St. Petersburg 190000, Russia Alt Address: Ul. Pochtamtskaya, 3-5, St. Petersburg 190000, Russia Alt Address: 3-5 Pochtamtskaya St., St. Petersburg 190000, Russia Alt Address: 125 A. Profsoyuznaya Street, Moscow 117647, Russia. | For all items subject to the EAR when used in projects specified in § 746.8(a)(4) of the EAR | See § 746.8(b)(2) of the EAR | 79 FR 55612, 9/17/14. 89 FR [INSERT FR PAGE NUMBER AND June 18, 2024].
| * * * * * *
| Gazprom, OAO (a.k.a. Open Joint Stock Company Gazprom; a.k.a. OAO Gazprom; a.k.a. Gazprom) Address: 16 Nametkina St., Moscow, Russia GSP-7, 117997, Russia Alt Address: 16 Nametkina ul., Moscow 117991, Russia. | For all items subject to the EAR when used in projects specified in § 746.8(a)(4) of the EAR | See § 746.8(b)(2) of the EAR | 79 FR 55612, 9/17/14. 89 FR [INSERT FR PAGE NUMBER AND June 18, 2024].
| Gazprom Pererabotka, OOO, a.k.a., the following two aliases: —Gazprom Pererabotka; and —Obshchestvo S Ogranichennoi Otvetstvennostyu `Gazprom Pererabotka'. d.16 ul.Ostrovskogo, Surgut, Khanty-Mansiski Avtonomny okrug—Yugra a.o. 628417, Russia. | For all items subject to the EAR when used in projects specified in § 746.8(a)(4) of the EAR | See § 746.8(b)(2) of the EAR | 81 FR 61601, 9/7/16. 89 FR [INSERT FR PAGE NUMBER AND June 18, 2024].
| Gazprom Personal, OOO, a.k.a., the following two aliases: —Gazprom Personal; and —Obshchestvo S Ogranichennoi Otvetstvennostyu `Gazprom Personal'. 16, Gsp-7 ul.Nametkina, Moscow 117997, Russia. | For all items subject to the EAR when used in projects specified in § 746.8(a)(4) of the EAR | See § 746.8(b)(2) of the EAR | 81 FR 61601, 9/7/16. 89 FR [INSERT FR PAGE NUMBER AND June 18, 2024].
| Gazprom Promgaz, AO (f.k.a., Otkrytoe Aktsionernoe Obshchestvo Gazprom Promgaz), a.k.a., the following two aliases: —Aktsionernoe Obshchestvo `Gazprom Promgaz' and —Gazprom Promgaz. d. 6 ul.Nametkina, Moscow 117420, Russia. | For all items subject to the EAR when used in projects specified in § 746.8(a)(4) of the EAR | See § 746.8(b)(2) of the EAR | 81 FR 61601, 9/7/16. 89 FR [INSERT FR PAGE NUMBER AND June 18, 2024].
| Gazprom Russkaya, OOO (f.k.a., Obshchestvo S Ogranichennoi Otvetstvennostyu Kovyktneftegaz), a.k.a., the following two aliases: —Gazprom Russkaya; and —Obshchestvo S Ogranichennoi Otvetstvennostyu `Gazprom Russkaya'. 3 korp.2 ul.Varshavskaya, St. Petersburg 196128, Russia. | For all items subject to the EAR when used in projects specified in § 746.8(a)(4) of the EAR | See § 746.8(b)(2) of the EAR | 81 FR 61601, 9/7/16. 89 FR [INSERT FR PAGE NUMBER AND June 18, 2024].
| Gazprom Sotsinvest, OOO (f.k.a., Gazprominvestarena OOO), a.k.a., the following two aliases: —Gazprom Sotsinvest; and —Obshchestvo S Ogranichennoi Otvetstvennostyu `Gazprom Sotsinvest'. d. 20 litera A nab.Aptekarskaya, St. Petersburg 197022, Russia. | For all items subject to the EAR when used in projects specified in § 746.8(a)(4) of the EAR | See § 746.8(b)(2) of the EAR | 81 FR 61601, 9/7/16. 89 FR [INSERT FR PAGE NUMBER AND June 18, 2024].
| Gazprom Svyaz, OOO, a.k.a., the following two aliases: —Gazprom Svyaz; and —Obshchestvo S Ogranichennoi Otvetstvennostyu `Gazprom Svyaz'. d.16 ul.Nametkina, Moscow 117997, Russia. | For all items subject to the EAR when used in projects specified in § 746.8(a)(4) of the EAR | See § 746.8(b)(2) of the EAR | 81 FR 61601, 9/7/16. 89 FR [INSERT FR PAGE NUMBER AND June 18, 2024].
| Gazprom Telekom, OOO (f.k.a., Zakrytoe Aktsionernoe Obshchestvo Gaztelekom), a.k.a., the following two aliases: —Gazprom Telecom; and —Obshchestvo S Ogranichennoi Otvetstvennostyu `Gazprom Telekom'. d. 62 str. 2 shosse Starokaluzhskoe, Moscow 117630, Russia. | For all items subject to the EAR when used in projects specified in § 746.8(a)(4) of the EAR | See § 746.8(b)(2) of the EAR | 81 FR 61601, 9/7/16. 89 FR [INSERT FR PAGE NUMBER AND June 18, 2024].
| Gazprom Transgaz Kazan, OOO, a.k.a., the following two aliases: —Gazprom Transgaz Kazan; and —Obshchestvo S Ogranichennoi Otvetstvennostyu `Gazprom Transgaz Kazan'. d.41 ul.Adelya Kutuya, Kazan, Tatarstan resp 420073, Russia. | For all items subject to the EAR when used in projects specified in § 746.8(a)(4) of the EAR | See § 746.8(b)(2) of the EAR | 81 FR 61601, 9/7/16. 89 FR [INSERT FR PAGE NUMBER AND June 18, 2024].
| Gazprom Transgaz Krasnodar, OOO, a.k.a., the following two aliases: —Gazprom Transgaz Krasnodar; and —Obshchestvo S Ogranichennoi Otvetstvennostyu `Gazprom Transgaz Krasnodar'. d.36 ul.Im Dzerzhinskogo, Krasnodar, Krasnodarski krai 350051, Russia. | For all items subject to the EAR when used in projects specified in § 746.8(a)(4) of the EAR | See § 746.8(b)(2) of the EAR | 81 FR 61601, 9/7/16. 89 FR [INSERT FR PAGE NUMBER AND June 18, 2024].
| Gazprom Transgaz Makhachkala, OOO (f.k.a., Obshchestvo S Ogranichennoi Otvetstvennostyu Gazprom Transgaz Makhachkala), a.k.a., the following two aliases: —Gazprom Transgaz Makhachkala; and —Obshchestvo S Ogranichennoi Otvetstvennostyu `Gazprom Transgaz Makhachkala'.ul.O.Bulacha, Makhachkala, Dagestan resp. 367030, Russia. | For all items subject to the EAR when used in projects specified in § 746.8(a)(4) of the EAR | See § 746.8(b)(2) of the EAR | 81 FR 61601, 9/7/16. 89 FR [INSERT FR PAGE NUMBER AND June 18, 2024].
| Gazprom Transgaz Nizhni Novgorod, OOO, a.k.a., the following two aliases: —Gazprom Transgaz Nizhny Novgorod; and —Obshchestvo S Ogranichennoi Otvetstvennostyu `Gazprom Transgaz Nizhni Novgorod'. d.11 ul.Zvezdinka, Nizhni Novgorod, Nizhegorodskaya obl. 603950, Russia. | For all items subject to the EAR when used in projects specified in § 746.8(a)(4) of the EAR | See § 746.8(b)(2) of the EAR | 81 FR 61601, 9/7/16. 89 FR [INSERT FR PAGE NUMBER AND June 18, 2024].
| Gazprom Transgaz Samara, OOO, a.k.a., the following two aliases: —Gazprom Transgaz Samara; and —Obshchestvo S Ogranichennoi Otvetstvennostyu `Gazprom Transgaz Samara'. d. 106 A str. 1 ul.Novo-Sadovaya, Samara, Samarskaya obl. 443068, Russia. | For all items subject to the EAR when used in projects specified in § 746.8(a)(4) of the EAR | See § 746.8(b)(2) of the EAR | 81 FR 61601, 9/7/16. 89 FR [INSERT FR PAGE NUMBER AND June 18, 2024].
| Gazprom Transgaz Sankt-Peterburg, OOO, a.k.a., the following two aliases: —Gazprom Transgaz Saint Petersburg; and —Obshchestvo S Ogranichennoi Otvetstvennostyu `Gazprom Transgaz Sankt-Peterburg'. 3 korp.2 ul.Varshavskaya, St. Petersburg 196128, Russia. | For all items subject to the EAR when used in projects specified in § 746.8(a)(4) of the EAR | See § 746.8(b)(2) of the EAR | 81 FR 61601, 9/7/16. 89 FR [INSERT FR PAGE NUMBER AND June 18, 2024].
| Gazprom Transgaz Saratov, OOO, a.k.a., the following two aliases: —Gazprom Transgaz Saratov; and —Obshchestvo S Ogranichennoi Otvetstvennostyu `Gazprom Transgaz Saratov'. d.118 A prospekt Im 50 Let Oktyabrya, Saratov, Saratovskaya obl. 410052, Russia. | For all items subject to the EAR when used in projects specified in § 746.8(a)(4) of the EAR | See § 746.8(b)(2) of the EAR | 81 FR 61601, 9/7/16. 89 FR [INSERT FR PAGE NUMBER AND June 18, 2024].
| Gazprom Transgaz Stavropol, OOO, a.k.a., the following two aliases: —Gazprom Transgaz Stavropol; and —Obshchestvo S Ogranichennoi Otvetstvennostyu `Gazprom Transgaz Stavropol'. d.6 prospekt Oktyabrskoi Revolyutsii, Stavropol, Stavropolski krai 355000, Russia. | For all items subject to the EAR when used in projects specified in § 746.8(a)(4) of the EAR | See § 746.8(b)(2) of the EAR | 81 FR 61601, 9/7/16. 89 FR [INSERT FR PAGE NUMBER AND June 18, 2024].
| Gazprom Transgaz Surgut, OOO, a.k.a., the following two aliases: —Gazprom Transgaz Surgut; and —Obshchestvo S Ogranichennoi Otvetstvennostyu `Gazprom Transgaz Surgut'. d.1 ul.Universitetskaya, Surgut, Khanty-Mansiski Avtonomny okrug—Yugra a.o. 628406, Russia. | For all items subject to the EAR when used in projects specified in § 746.8(a)(4) of the EAR | See § 746.8(b)(2) of the EAR | 81 FR 61601, 9/7/16. 89 FR [INSERT FR PAGE NUMBER AND June 18, 2024].
| Gazprom Transgaz Tomsk, OOO, a.k.a., the following two aliases: —Gazprom Transgaz Tomsk; and —Obshchestvo S Ogranichennoi Otvetstvennostyu `Gazprom Transgaz Tomsk'. d.9 prospekt Frunze, Tomsk, Tomskaya obl. 634029, Russia. | For all items subject to the EAR when used in projects specified in § 746.8(a)(4) of the EAR | See § 746.8(b)(2) of the EAR | 81 FR 61601, 9/7/16. 89 FR [INSERT FR PAGE NUMBER AND June 18, 2024].
| Gazprom Transgaz Ufa, OOO (f.k.a., Obshchestvo S Ogranichennoi Otvetstvennostyu Bashtransgaz Otkrytogo Aktsionernogo Obshchestva Gazprom), a.k.a., the following two aliases: —Gazprom Transgaz Ufa; and —Obshchestvo S Ogranichennoi Otvetstvennostyu `Gazprom Transgaz Ufa'. 59 ul.Rikharda Zorge, Ufa, Bashkortostan resp. 450054, Russia. | For all items subject to the EAR when used in projects specified in § 746.8(a)(4) of the EAR | See § 746.8(b)(2) of the EAR | 81 FR 61601, 9/7/16. 89 FR [INSERT FR PAGE NUMBER AND June 18, 2024].
| Gazprom Transgaz Ukhta, OOO, a.k.a., the following two aliases: —Gazprom Transgaz Ukhta; and —Obshchestvo S Ogranichennoi Otvetstvennostyu `Gazprom Transgaz Ukhta'. d.39/2 prospekt Lenina, Ukhta, Komi resp 169312, Russia. | For all items subject to the EAR when used in projects specified in § 746.8(a)(4) of the EAR | See § 746.8(b)(2) of the EAR | 81 FR 61601, 9/7/16. 89 FR [INSERT FR PAGE NUMBER AND June 18, 2024].
| Gazprom Transgaz Volgograd, OOO, a.k.a., the following two aliases: —Gazprom Transgaz Volgograd; and —Obshchestvo S Ogranichennoi Otvetstvennostyu `Gazprom Transgaz Volgograd'. 58 ul.Raboche-Krestyanskaya, Volgograd, Volgogradskaya obl. 400074, Russia. | For all items subject to the EAR when used in projects specified in § 746.8(a)(4) of the EAR | See § 746.8(b)(2) of the EAR | 81 FR 61601, 9/7/16. 89 FR [INSERT FR PAGE NUMBER AND June 18, 2024].
| Gazprom Transgaz Yugorsk, OOO (f.k.a., Obshchestvo S Ogranichennoi Otvetstvennostyu Tyumentransgaz), a.k.a., the following two aliases: —Gazprom Transgaz Yugorsk; and —Obshchestvo S Ogranichennoi Otvetstvennostyu `Gazprom Transgaz Yugorsk'. d.15 ul.Mira, Yugorsk, Khanty-Mansiski Avtonomny okrug, Yugra a.o. 628260, Russia. | For all items subject to the EAR when used in projects specified in § 746.8(a)(4) of the EAR | See § 746.8(b)(2) of the EAR | 81 FR 61601, 9/7/16. 89 FR [INSERT FR PAGE NUMBER AND June 18, 2024].
| Gazprom Tsentrremont, OOO, a.k.a., the following two aliases: —Gazprom Tsentrremont; and —Obshchestvo S Ogranichennoi Otvetstvennostyu `Gazprom Tsentrremont'. d.1 ul.Moskovskaya, Shchelkovo, Moskovskaya obl 141112, Russia. | For all items subject to the EAR when used in projects specified in § 746.8(a)(4) of the EAR | See § 746.8(b)(2) of the EAR | 81 FR 61601, 9/7/16. 89 FR [INSERT FR PAGE NUMBER AND June 18, 2024].
| Gazprom Vniigaz, OOO, a.k.a., the following two aliases: —Gazprom Vniigaz; and —Obshchestvo S Ogranichennoi Otvetstvennostyu `Nauchno-Issledovatelski Institut Prirodnykh Gazov I Gazovykh Tekhnologi—Gazprom Vniigaz'. P Razvilka, Leninski Raion, Moskovskaya obl. 142717, Russia. | For all items subject to the EAR when used in projects specified in § 746.8(a)(4) of the EAR | See § 746.8(b)(2) of the EAR | 81 FR 61601, 9/7/16. 89 FR [INSERT FR PAGE NUMBER AND June 18, 2024].
| * * * * * *
| Kaliningradnefteprodukt OOO, a.k.a., the following three aliases: —Kaliningradnefteprodukt LLC; —Limited Liability Company Kaliningradnefteproduct; and —LLC Kaliningradnefteproduct 22-b Komsomolskaya Ulitsa, Central District, Kaliningrad, Russia. | For all items subject to the EAR when used in projects specified in § 746.8(a)(4) of the EAR | Presumption of denial | 83 FR 6952, 2/16/18. 83 FR 12479, 3/22/18. 89 FR [INSERT FR PAGE NUMBER AND June 18, 2024].
| * * * * * *
| Kamchatgazprom, OAO, a.k.a., the following two aliases: —Kamchatgazprom; and —Otkrytoe Aktsionernoe Obshchestvo 'Kamchatgazprom'. d.19 ul.Pogranichnaya, Petropavlovsk-Kamchatski, Kamchatski krai 683032, Russia. | For all items subject to the EAR when used in projects specified in § 746.8(a)(4) of the EAR | See § 746.8(b)(2) of the EAR | 81 FR 61601, 9/7/16. 89 FR [INSERT FR PAGE NUMBER AND June 18, 2024].
| * * * * * *
| Kinef OOO, a.k.a., the following three aliases: —Kinef, LLC; —Limited Liability Company Production Association Kirishinefteorgsintez; and —LLC Kinef. d. 1 Shosse Entuziastov, Kirishi, Leningradskaya Oblast 187110, Russia. | For all items subject to the EAR when used in projects specified in § 746.8(a)(4) of the EAR | Presumption of denial | 83 FR 6952, 2/16/18. 83 FR 12479, 3/22/18. 89 FR [INSERT FR PAGE NUMBER AND June 18, 2024].
| * * * * * *
| Kirishiavtoservis OOO, a.k.a., the following two aliases: —Limited Liability Company Kirishiavtoservis; and —LLC Kirishiavtoservis. lit A, 12 Smolenskaya Ulitsa, St. Petersburg 196084. | For all items subject to the EAR when used in projects specified in § 746.8(a)(4) of the EAR | Presumption of denial | 83 FR 6952, 2/16/18. 83 FR 12479, 3/22/18. 89 FR [INSERT FR PAGE NUMBER AND June 18, 2024].
| * * * * * *
| Krasnoyarskgazprom, PAO, a.k.a., the following two aliases: —Krasnoyarskgazprom; and —Publichnoe Aktsionernoe Obshchestvo 'Krasnoyarskgazprom. d.1 pl.Akademika Kurchatova, Moscow 123182, Russia. | For all items subject to the EAR when used in projects specified in § 746.8(a)(4) of the EAR | See § 746.8(b)(2) of the EAR | 81 FR 61601, 9/7/16. 89 FR [INSERT FR PAGE NUMBER AND June 18, 2024].
| * * * * * *
| Lazurnaya, OOO, a.k.a., the following two aliases: —Obshchestvo S Ogranichennoi Otvetstvennostyu 'Lazurnaya'; and —“Lazurnaya”. d.103 prospekt Kurortny, Sochi, Krasnodarski krai 354024, Russia. | For all items subject to the EAR when used in projects specified in § 746.8(a)(4) of the EAR | See § 746.8(b)(2) of the EAR | 81 FR 61601, 9/7/16. 89 FR [INSERT FR PAGE NUMBER AND June 18, 2024].
| Lengiproneftekhim OOO, a.k.a., the following three aliases: —Institut Po Proektirovaniyu Predpriyaty Neftepererabatyvayuschey I Neftekhimicheskoy Promyshlennosti, Limited Liability Company; —Limited Liability Company Oil Refining and Petrochemical Facilities Design Institute; and —LLC Lengiproneftekhim. d. 94, Obvodnogo Kanala, nab, St. Petersburg 196084, Russia. | For all items subject to the EAR when used in projects specified in § 746.8(a)(4) of the EAR | Presumption of denial | 83 FR 6952, 2/16/18. 83 FR 12479, 3/22/18. 89 FR [INSERT FR PAGE NUMBER AND June 18, 2024].
| * * * * * *
| LLC Volgogradpromproyekt, a.k.a. the following five aliases: —Obshchestvo S Ogranichennoi Otvetstvennostyu “Volgogradpromproekt”; —OOO Volgogradpromproyekt; —OOO Volgogradpromproekt; —OOO VPP; and —VPP. 47 Promyslovaya Street, Volgograd, Volgograd Region, 400057, Russia. | For all items subject to the EAR. (See §§ 734.9(g),³ 746.8(a)(3), and 744.2l(b) of the EAR) | Policy of denial for all items subject to the EAR apart from food and medicine designated as EAR99, which will be reviewed on a case-by-case basis. See §§ 746.8(b) and 744.21(e) | 89 FR [INSERT FR PAGE NUMBER AND June 18, 2024].
| Lukoil, OAO (a.k.a. Lukoil; a.k.a. Lukoil Oil Company; a.k.a. Neftyanaya Kompaniya Lukoil OOO; a.k.a. NK Lukoil OAO) Address: 11 Sretenski boulevard, Moscow 101000, Russia | For all items subject to the EAR when used in projects specified in § 746.8(a)(4) of the EAR | See § 746.8(b)(2) of the EAR | 79 FR 55612, 9/17/14. 89 FR [INSERT FR PAGE NUMBER AND June 18, 2024].
| * * * * * *
| Media-Invest OOO, a.k.a., the following two aliases: —Limited Liability Company Media-Invest; and —LLC Media-Invest. 17 Bld 1 Zubovsky Blvd, Moscow 119847, Russia. | For all items subject to the EAR when used in projects specified in § 746.8(a)(4) of the EAR | Presumption of denial | 83 FR 6952, 2/16/18. 83 FR 12479, 3/22/18. 89 FR [INSERT FR PAGE NUMBER AND June 18, 2024].
| * * * * * *
| Neft-Aktiv LLC, a.k.a., the following two aliases: —OOO Neft —Aktiv; and —RN-Aktiv OOO. Ulica Kaluzhskaya M., d., 15, str. 28, Moscow 119071, Russia. | For all items subject to the EAR when used in projects specified in § 746.8(a)(4) of the EAR | See § 746.8(b)(2) of the EAR | 80 FR 52968, 9/2/15. 89 FR [INSERT FR PAGE NUMBER AND June 18, 2024].
| * * * * * *
| Niigazekonomika, OOO, a.k.a., the following two aliases: —Niigazeconomika; and —Obshchestvo S Ogranichennoi Otvetstvennostyu 'Nauchnoissledovatelski Institut Ekonomiki I Organizatsii Upravleniya V Gazovoipromyshlennosti'. d. 20 korp. 8 ul. Staraya Basmannaya, Moscow 107066, Russia. | For all items subject to the EAR when used in projects specified in § 746.8(a)(4) of the EAR | See § 746.8(b)(2) of the EAR | 81 FR 61601, 9/7/16. 89 FR [INSERT FR PAGE NUMBER AND June 18, 2024].
| * * * * * *
| Novgorodnefteprodukt OOO, a.k.a., the following three aliases: —Limited Liability Company Novgorodnefteproduct; —LLC Novgorodnefteproduct; and —Novgorodnefteprodukt LLC. d. 20 Germana Ulitsa, Veliky Novgorod, Novgorodskaya Oblast 173002, Russia. | For all items subject to the EAR when used in projects specified in § 746.8(a)(4) of the EAR | Presumption of denial | 83 FR 6952, 2/16/18. 83 FR 12479, 3/22/18. 89 FR [INSERT FR PAGE NUMBER AND June 18, 2024].
| * * * * * *
| OJSC Achinsk Refinery, a.k.a., the following two aliases: —Achinsk Refinery; and —OAO Achinsk Oil Refinery VNK. Achinsk Refinery industrial area, Bolsheuluisky district, Krasnoyarsk territory 662110, Russia. | For all items subject to the EAR when used in projects specified in § 746.8(a)(4) of the EAR | See § 746.8(b)(2) of the EAR | 80 FR 52968, 9/2/15. 89 FR [INSERT FR PAGE NUMBER AND June 18, 2024].
| OJSC Angarsk Petrochemical Company, a.k.a., the following one alias: —Angarsk Refinery. Angarsk, Irkutsk region 665830, Russia; and 6 ul. K. Marksa, Angarsk 665830, Russia. | For all items subject to the EAR when used in projects specified in § 746.8(a)(4) of the EAR | See § 746.8(b)(2) of the EAR | 80 FR 52968, 9/2/15. 89 FR [INSERT FR PAGE NUMBER AND June 18, 2024].
| OJSC Kuybyshev Refinery, a.k.a., the following two aliases: —Kuibyshev Refinery; and —OJSC Kuibyshev Refinery. 25 Groznenskaya st., Samara 443004, Russia. | For all items subject to the EAR when used in projects specified in § 746.8(a)(4) of the EAR | See § 746.8(b)(2) of the EAR | 80 FR 52968, 9/2/15. 89 FR [INSERT FR PAGE NUMBER AND June 18, 2024].
| OJSC Novokuybyshev Refinery, a.k.a., the following one alias: —Novokuibyshevsk Refinery. Novokuibyshevsk, Samara region 446207, Russia. | For all items subject to the EAR when used in projects specified in § 746.8(a)(4) of the EAR | See § 746.8(b)(2) of the EAR | 80 FR 52968, 9/2/15. 89 FR [INSERT FR PAGE NUMBER AND June 18, 2024].
| OJSC Orenburgneft, a.k.a., the following two aliases: —OAO JSC Orenburgneft; and —Orenburgneft. Magistralnaya St., 2, Buzuluk, the Orenburg Region 461040, Russia; and st. Magistralynaya 2, Buzuluk 461040, Russia. | For all items subject to the EAR when used in projects specified in § 746.8(a)(4) of the EAR | See § 746.8(b)(2) of the EAR | 80 FR 52968, 9/2/15. 89 FR [INSERT FR PAGE NUMBER AND June 18, 2024].
| * * * * * *
| OJSC RN Holding, a.k.a., the following one alias: —RN Holding OAO. 60 Oktyabrskaya ul., Uvat 626170, Russia. | For all items subject to the EAR when used in projects specified in § 746.8(a)(4) of the EAR | See § 746.8(b)(2) of the EAR | 80 FR 52968, 9/2/15. 89 FR [INSERT FR PAGE NUMBER AND June 18, 2024].
| OJSC Samotlorneftegaz, a.k.a., the following two aliases: —Samotlorneftegaz; and —Samotlorneftegaz JSC. Lenina St. 4, the Tyumen Region, Khanty-Mansiysk, Autonomous District, Nizhnevartovsk 628606, Russia. | For all items subject to the EAR when used in projects specified in § 746.8(a)(4) of the EAR | See § 746.8(b)(2) of the EAR | 80 FR 52968, 9/2/15. 89 FR [INSERT FR PAGE NUMBER AND June 18, 2024].
| * * * * * *
| OJSC Syzran Refinery, a.k.a., the following two aliases: —Open Joint-Stock Oil and Gas Company Syzran; and —Syzran Refinery. 1 Astrakhanskaya st., Syzran, Samara region 446009, Russia; and Moskvorechje street 105, Building 8, Moscow 115523, Russia. | For all items subject to the EAR when used in projects specified in § 746.8(a)(4) of the EAR | See § 746.8(b)(2) of the EAR | 80 FR 52968, 9/2/15. 89 FR [INSERT FR PAGE NUMBER AND June 18, 2024].
| * * * * * *
| PJSC Verkhnechonskneftegaz, a.k.a., the following two aliases: —OJSC Verkhnechonskneftegaz; and —Verkhnechonskneftegaz. Baikalskaya St., 295 B, Irkutsk 664050, Russia. | For all items subject to the EAR when used in projects specified in § 746.8(a)(4) of the EAR | See § 746.8(b)(2) of the EAR | 80 FR 52968, 9/2/15. 89 FR [INSERT FR PAGE NUMBER AND June 18, 2024].
| * * * * * *
| Pskovnefteprodukt OOO, a.k.a., the following two aliases: —Limited Liability Company Marketing Association Pskovnefteproduct; and —LLC Pskovnefteproduct. 4 Oktyabrsky Prospekt, Pskov 180000, Russia. | For all items subject to the EAR when used in projects specified in § 746.8(a)(4) of the EAR | Presumption of denial | 83 FR 6952, 2/16/18. 83 FR 12479, 3/22/18. 89 FR [INSERT FR PAGE NUMBER AND June 18, 2024].
| * * * * * *
| RN-Komsomolsky Refinery LLC, a.k.a., the following three aliases: —Komsomolsk Refinery; —LLC RN-Komsomolsk Refinery; and —RN-Komsomolski NPZ OOO. 115 Leningradskaya st., Komsomolsk-on-Amur, Khabarovsk region 681007, Russia. | For all items subject to the EAR when used in projects specified in § 746.8(a)(4) of the EAR | See § 746.8(b)(2) of the EAR | 80 FR 52968, 9/2/15. 89 FR [INSERT FR PAGE NUMBER AND June 18, 2024].
| RN-Yuganskneftegaz LLC, a.k.a., the following two aliases: —RN-Yuganskneftegaz OOO; and —Yuganskneftegaz. Lenina St., 26, Nefteyugansk, Tyumen Region, 628309, Russia. | For all items subject to the EAR when used in projects specified in § 746.8(a)(4) of the EAR | See § 746.8(b)(2) of the EAR | 80 FR 52968, 9/2/15. 89 FR [INSERT FR PAGE NUMBER AND June 18, 2024].
| * * * * * *
| Rosneft (a.k.a. Open Joint-Stock Company Rosneft Oil Company; a.k.a. OAO Rosneft Oil Company; a.k.a. Oil Company Rosneft; a.k.a. OJSC Rosneft Oil Company; a.k.a. Rosneft Oil Company) Address: 26/1, Sofiyskaya Embankment, 117997, Moscow, Russia | For all items subject to the EAR when used in projects specified in § 746.8(a)(4) of the EAR | See § 746.8(b)(2) of the EAR | 79 FR 55612, 9/17/14. 89 FR [INSERT FR PAGE NUMBER AND June 18, 2024].
| * * * * * *
| SNGB AO, a.k.a., the following three aliases: —Closed Joint Stock Company Surgutneftegasbank (ZAO SNGB); —Joint Stock Company Surgutneftegasbank; and —JSC BANK SNGB. 19 Kukuyvitskogo Street, Surgut 628400, Russia. | For all items subject to the EAR when used in projects specified in § 746.8(a)(4) of the EAR | Presumption of denial | 83 FR 6952, 2/16/18. 83 FR 12479, 3/22/18. 89 FR [INSERT FR PAGE NUMBER AND June 18, 2024].
| SO Tvernefteprodukt OOO, a.k.a., the following two aliases: —Limited Liability Company Marketing Association Tvernefteproduct; and —LLC MA Tvernefteproduct. 6 Novotorzhskaya Ulitsa, Tver, Russia. | For all items subject to the EAR when used in projects specified in § 746.8(a)(4) of the EAR. | Presumption of denial | 83 FR 6952, 2/16/18. 83 FR 12479, 3/22/18. 89 FR [INSERT FR PAGE NUMBER AND June 18, 2024].
| * * * * * *
| Sovkhoz Chervishevski PAO, a.k.a., the following three aliases: —OJSC Sovkhoz Chervishevsky; —Open Joint Stock Company Sovkhoz Chervishevsky; and —Sovkhoz Chervishevsky, JSC. d. 81 Sovetskaya Ulitsa, S. Chervichevsky, Tyumensky Rayon, Tyumensky Oblast 625519, Russia. | For all items subject to the EAR when used in projects specified in § 746.8(a)(4) of the EAR | Presumption of denial | 83 FR 6952, 2/16/18. 83 FR 12479, 3/22/18. 89 FR [INSERT FR PAGE NUMBER AND June 18, 2024].
| * * * * * *
| Strakhovove Obshchestvo Surgutneftegaz OOO, a.k.a., the following three aliases: —Insurance Company Surgutneftegas, LLC; —Limited Liability Company Insurance Company Surgutneftegas; and —LLC Insurance Company Surgutneftegas. 9/1 Lermontova Ulitsa, Surgut 628418, Russia. | For all items subject to the EAR when used in projects specified in § 746.8(a)(4) of the EAR | Presumption of denial | 83 FR 6952, 2/16/18. 83 FR 12479, 3/22/18. 89 FR [INSERT FR PAGE NUMBER AND June 18, 2024].
| * * * * * *
| Surgutmebel OOO, a.k.a., the following four aliases: —Limited Liability Company Syrgutmebel; —LLC Surgutmebel; —LLC Syrgutmebel; and —Surgutmebel, LLC. Vostochnaya Industrial 1 Territory 2, Poselok Barsovo, Surgutsky District, Yugra, Khanty-Mansiysky Autonomos Okrug, Russia. | For all items subject to the EAR when used in projects specified in § 746.8(a)(4) of the EAR | Presumption of denial | 83 FR 6952, 2/16/18. 83 FR 12479, 3/22/18. 89 FR [INSERT FR PAGE NUMBER AND June 18, 2024].
| Surgutneftegas (a.k.a. Open Joint Stock Company Surgutneftegas; a.k.a. Otkrytoe Aktsionernoe Obshchestvo Surgutneftegaz; a.k.a. Surgutneftegas OAO; a.k.a. Surgutneftegas OJSC; a.k.a. Surgutneftegaz OAO) Address: ul. Grigoriya Kukuyevitskogo, 1, bld. 1, Khanty-Mansiysky Autonomous Okrug—Yugra, the city of Surgut, Tyumenskaya Oblast 628415, Russia Alt Address: korp. 1 1 Grigoriya Kukuevitskogo ul., Surgut, Tyumenskaya oblast 628404, Russia. Alt Address: Street Kukuevitskogo 1, Surgut, Tyumen Region 628415, Russia | For all items subject to the EAR when used in projects specified in § 746.8(a)(4) of the EAR | See § 746.8(b)(2) of the EAR | 79 FR 55612, 9/17/14. 89 FR [INSERT FR PAGE NUMBER AND June 18, 2024].
| * * * * * *
| Vostokgazprom, OAO, a.k.a., the following two aliases: —Otkrytoe Aktsionernoe Obshchestvo 'Vostokgazprom'; and —Vostokgazprom. d.73 ul.Bolshaya Podgornaya, Tomsk, Tomskaya obl. 634009, Russia. | For all items subject to the EAR when used in projects specified in § 746.8(a)(4) of the EAR | See § 746.8(b)(2) of the EAR | 81 FR 61601, 9/7/16. 89 FR [INSERT FR PAGE NUMBER AND June 18, 2024].
| * * * * * *
| Yamalgazinvest, ZAO, a.k.a., the following two aliases: —Yamalgazinvest; and —Zakrytoe Aktsionernoe Obshchestvo 'Yamalgazinvest'. d. 41 korp. 1 prospekt Vernadskogo, Moscow 117415, Russia. | For all items subject to the EAR when used in projects specified in § 746.8(a)(4) of the EAR | See § 746.8(b)(2) of the EAR | 81 FR 61601, 9/7/16. 89 FR [INSERT FR PAGE NUMBER AND June 18, 2024].
| * * * * * *
| Yuzhno-Kirinskoye Field, in the Sea of Okhotsk. | For all items subject to the EAR. (See § 746.8(a)(4) of the EAR) | Presumption of denial | 80 FR 47404, 8/7/15. 89 FR [INSERT FR PAGE NUMBER AND June 18, 2024].
| * * * * * *
SWITZERLAND | * * * * * *
| Rosneft Trading S.A., 2, Rue Place du Lac, 1204, Geneva, Switzerland. | For all items subject to the EAR when used in projects specified in § 746.8(a)(4) of the EAR | See § 746.8(b)(2) of the EAR | 80 FR 52968, 9/2/15. 89 FR [INSERT FR PAGE NUMBER AND June 18, 2024].
| * * * * * *

* * * * *

10. Supplement no. 5 is amended by revising the second paragraph to read as follows:

Supplement No. 5 to Part 744—Procedures for End-User Review Committee Entity List and `Military End User' (MEU) List Decisions

* * * * *

When determining to add an entry or modify an existing entry, to the Entity List or MEU List, the ERC will also specify the section or sections of the EAR that provide the basis for that determination. All additions and modifications to the MEU List are done pursuant to § 744.21(b). The license requirements, the license application review policy, or the availability of license exceptions for entities or address entries on the MEU List are specified in § 744.21 under paragraphs (b) to €. In addition, for the Entity List, if the section or sections that form the basis for an addition or modification do not specify the license requirements, the license application review policy, or the availability of license exceptions, the ERC will specify the license requirements, the license application review policy and which license exceptions (if any) will be available for shipments to that entry.

* * * * *

PART 746—EMBARGOES AND OTHER SPECIAL CONTROLS

11. The authority citation for 15 CFR part 746 is revised to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23, 68 FR 26459, 3 CFR, 2004 Comp., p. 320; Presidential Determination 2007-7, 72 FR 1899, 3 CFR, 2006 Comp., p. 325; Notice of May 8, 2024, 89 FR 40355 (May 9, 2024).

§ 746.5 [Removed and Reserved]

12. Remove and reserve § 746.5.

13. Section 746.8 is revised to read as follows:

§ 746.8 Sanctions against Russia and Belarus.

(a) License requirements. Except as described in the exclusions in paragraph (a)(12), and in addition to license requirements specified on the Commerce Control List (CCL) in supplement no. 1 to part 774 of the EAR and in other provisions of the EAR, including part 744 and other sections of part 746, a license is required as specified under paragraphs (a)(1) through (7). These license requirements follow an order of review, which provides guidance on the relationship between the different license requirements and which ones take precedence for certain items. For purposes of paragraphs (a)(5) through (7) of this section, a license is not required for any item that is listed in supplement nos. 4, 5 or 6 to this part that is also classified under an Export Control Classification Number (ECCN) on the Commerce Control List (CCL) in supplement no. 1 to part 774 of the EAR. See paragraph (a)(1) of this section and part 742 for license requirements for exports, reexports, and transfers to or within Russia or Belarus for items classified in ECCNs, as well as part 744 for end-use and end-user controls that may apply to your transaction. Paragraphs (a)(1) and (2) of this section, are also used for determining license requirements for exports, reexports, and transfers to or within Russia or Belarus of any item that is listed in supplement nos. 4, 5, or 6 to this part and is classified in an ECCN on the CCL in supplement no. 1 to part 774 of the EAR. License requirements in paragraph (a)(4) that apply to exports, reexports, and transfers (in-country) involved in certain end-uses should be reviewed only after license requirements in paragraphs (a)(1) through (a)(3) and (a)(5) through (a)(7) are reviewed.

(1) Items classified in any ECCN on the CCL. A license is required to export, reexport, or transfer (in-country) to or within Russia or Belarus any item subject to the EAR and specified in any Export Control Classification Number (ECCN) on the CCL.

(2) Russia/Belarus/Temporarily occupied Crimea region of Ukraine foreign “direct product” (FDP) rule. A license is required to reexport, export from abroad, or transfer (in-country) to any destination any foreign-produced item subject to the EAR under the Russia/Belarus/Temporarily occupied Crimea region of Ukraine under the FDP rule described in § 734.9(f) of the EAR.

(3) Russia/Belarus-Military End User FDP rule. A license is required to reexport, export from abroad, or transfer (in-country) to or within any destination any foreign-produced item subject to the EAR under § 734.9(g) of the EAR.

Note 1 to paragraph (a)(3). A `military end user' for purposes of this paragraph is any entity listed on the Entity List in supplement no. 4 to part 744 of the EAR with a Footnote 3 designation.

(4) Oil and Gas. (i) Certain exploration or production of oil or gas. A license is required to export, reexport, or transfer (in-country) any item subject to the EAR listed in supplement no. 2 to this part and items specified in ECCNs 0A998, 1C992, 3A229, 3A231, 3A232, 6A991, 8A992, and 8D999 when you “know” that the item will be used directly or indirectly in exploration for, or production of, oil or gas in Russian deepwater (greater than 500 feet) or Arctic offshore locations or shale formations in Russia or Belarus, or are unable to determine whether the item will be used in such projects. Such items include, but are not limited to, drilling rigs, parts for horizontal drilling, drilling and completion equipment, subsea processing equipment, Arctic-capable marine equipment, wireline and down hole motors and equipment, drill pipe and casing, software for hydraulic fracturing, high pressure pumps, seismic acquisition equipment, remotely operated vehicles, compressors, expanders, valves, and risers.

(ii) Additional prohibition on those informed by BIS. BIS may inform persons, either individually by specific notice or through amendment to the EAR, that a license is required for a specific export, reexport, or transfer (in-country) or for the export, reexport, or transfer (in-country) of specified items to a certain end-user or end-use, because there is an unacceptable risk of use in, or diversion to, the activities specified in this section in Russia or Belarus. Specific notice is to be given only by, or at the direction of, the Principal Deputy Assistant Secretary for Strategic Trade and Technology Security or the Deputy Assistant Secretary for Strategic Trade. When such notice is provided orally, it will be followed by a written notice within two working days signed by either the Principal Deputy Assistant Secretary for Strategic Trade and Technology Security or the Deputy Assistant Secretary for Strategic Trade. However, the absence of any such notification does not excuse persons from compliance with the license requirements of this section.

(5) Industrial Goods. A license is required to export, reexport, or transfer (in-country) any item subject to the EAR listed in supplement no. 4 to this part to or within Russia or Belarus.

(6) Itemized Items. A license is required to export, reexport, or transfer (in-country) any item subject to the EAR listed in supplement no. 6 to this part to or within Russia or Belarus.

(7) `Luxury goods.' A license is required to export, reexport, or transfer (in-country) any item subject to the EAR listed in supplement no. 5 to this part to or within Russia or Belarus.

Note 2 to paragraph (a)(7): For purposes of paragraph (a)(7) of this section, a `luxury good' means any item that is identified in supplement no. 5 to this part.

(8) through (11) [RESERVED]

(12) Exclusions from license requirements and scope of U.S.-origin controlled content. Paragraphs (a)(12)(i), (ii), and (iii)(A) of this section exclude certain exports, reexports, and transfers (in-country) from the scope of the license requirements of this section. Paragraph (a)(12)(iii)(B) excludes certain items from the scope of U.S.-origin content for purposes of de minimis calculations from certain destinations.

(i) Deemed exports and deemed reexports. The license requirements in paragraph (a) do not apply to deemed exports or reexports. However, the exclusion for deemed exports and deemed reexports is limited to the license requirements specified only in this section of the EAR. Any deemed export or deemed reexport to a Russian or Belarusian national must be made in accordance with all other applicable EAR license requirements, such as CCL-based license requirements. For example, the release of NS1 controlled technology to a Russian or Belarusian national in the United States or in a third country would require a CCL-based deemed export or deemed reexport license (as applicable). Consequently, authorization (in the form of a deemed export or deemed reexport license, or license exception eligibility) would be required under the EAR notwithstanding the exclusion in this paragraph (b).

(ii) Mass market encryption commodities and software. Commodities specified under ECCN 5A991, and commodities and software classified under ECCNs 5A992.c or 5D992.c that have been `classified in accordance with § 740.17,' do not require a license to or within Russia or Belarus for the following civil end-users:

(A) Wholly owned U.S. subsidiaries, branches, or sales offices;

(B) Joint ventures between two or more U.S. companies, including the wholly owned subsidiaries, branches, or sales offices of such joint ventures;

(C) Joint ventures between U.S. companies and companies headquartered in countries from Country Group A:5 and A:6 in supplement no. 1 to part 740 of the EAR, including the wholly owned subsidiaries, branches, or sales offices of such joint ventures;

(D) Wholly owned subsidiaries, branches, or sales offices of companies headquartered in countries from Country Group A:5 and A:6 in supplement no. 1 to part 740; or

(E) Joint ventures between two or more companies headquartered in Country Group A:5 and A:6 in supplement no. 1 to part 740, including the wholly owned subsidiaries, branches, or sales offices of such joint ventures.

(iii) Global Export Control Coalition (GECC). The countries listed in supplement no. 3 to this part have committed to implementing substantially similar export controls on Russia, Belarus, and the temporarily occupied Crimea region of Ukraine under their domestic laws. Therefore, exports or reexports from the countries listed in supplement no. 3 to this part or transfers (in-country) within the countries listed in this supplement are not subject to the following license requirements in paragraph (a) of this section unless a limit to the exclusion is described in the Scope column in supplement no. 3 to this part:

(A) Foreign direct product rules. The license requirement described in paragraphs (a)(2) and (3) of this section;

(B) De minimis. For purposes of determining U.S.-origin controlled content under supplement no. 2 to part 734 of the EAR, when making a de minimis calculation for reexports and exports from abroad to Russia or Belarus, the license requirements in paragraphs (a)(1) and (a)(4) through (7) of this section are not used to determine controlled U.S.-origin content in a foreign-made item, provided the criteria of paragraphs (a)(12)(B)(1) and (2) of this section are met:

(1) The U.S.-origin content is described in an Anti-Terrorism (AT)-only ECCN or is designated EAR99. For purposes of this paragraph, AT-only items mean any ECCN that only specifies either only AT in the reason for control paragraph of the ECCN or is classified under ECCN 9A991; and

(2) The foreign made item will be reexported or exported from abroad from a destination described in supplement no. 3 to this part.

(b) Licensing policy. (1) License applications required under paragraph (a)(3) of this section will be reviewed under a policy of denial in all cases.

(2) Applications for the export, reexport, or transfer (in-country) of any item pursuant to paragraph (a)(4) of this section that require a license for Russia or Belarus will be reviewed under a policy of denial when for use directly or indirectly for exploration or production from deepwater (greater than 500 feet), Arctic offshore, or shale projects in Russia or Belarus that have the potential to produce oil or gas.

(3) Applications for the export, reexport, or transfer (in-country) of any item pursuant to paragraphs (a)(1), (2), and (5) through (7) of this section will be reviewed under a policy of denial. However, the following types of license applications submitted pursuant to paragraphs (a)(1), (2), and (5) through (7) of this section will be reviewed on a case-by-case basis to determine whether the transaction in question would benefit the Russian or Belarusian government or defense sector:

(i) Applications for export, reexport, or transfer (in-country) of items that may be necessary for health and safety reasons, including the safety of flight, maritime safety, and civil nuclear safety;

(ii) Applications for the disposition of items by companies not headquartered in Country Group D:1, D:5, E:1, or E:2 in supplement no. 1 to part 740 that are winding down or closing all operations in Russia or Belarus;

(iii) Applications for items that meet humanitarian needs, including applications for items that are predominantly agricultural or medical in nature;

(iv) Applications for government-to-government activities or to support government space cooperation;

(v) Replacement licenses for exports and reexports to and transfers within Russia and Belarus of items described in HTS-6 Codes or items described in supplement no. 6 to part 746 that were added to the EAR and made subject to license requirements after the validation date of the BIS license.

(vi) Applications for items destined to:

(A) Wholly owned U.S. subsidiaries, branches, or sales offices;

(B) Foreign subsidiaries, branches, or sales offices of U.S. companies that are joint ventures with other U.S. companies;

(C) Joint ventures of U.S. companies with companies headquartered in countries from Country Group A:5 and A:6 in supplement no. 1 to part 740 of the EAR;

(D) The wholly owned subsidiaries, branches, or sales offices of companies headquartered in countries from Country Group A:5 and A:6 in supplement no. 1 to part 740; or

(E) Joint ventures of companies headquartered in Country Groups A:5 and A:6 with other companies headquartered in Country Groups A:5 and A:6; and

(vii) Applications for companies headquartered in Country Groups A:5 and A:6 to support civil telecommunications infrastructure.

Note 3 to paragraph (b): See also § 750.7(c)(1)(xi) of the EAR for the divesture of items within Russia or Belarus or the transfer of items within Russia or Belarus for the purpose of reexporting such items from Russia or Belarus. For purposes of § 750.7(c)(1)(xi), divesture means the action or process of selling off subsidiary business interests or investments involving items subject to the EAR.

(c) License exceptions. Consistent with § 740.2(b), BIS may revise, suspend, or revoke License Exception availability under this section consistent with U.S. national security and foreign policy interests, including on a case-by-case basis, to prevent Russian or Belarusian persons from circumventing the restrictions in this section.

(1) No license exceptions may overcome the license requirements in paragraph (a)(3) of this section, except as specified in the entry for a Footnote 3 entity on the Entity List in supplement no. 4 to part 744 of the EAR.

(2) No license exceptions may overcome the license requirements in paragraphs (a)(1), (2), and (4) through (7) of this section except the following:

(i) License Exception TMP for items for use by the news media as set forth in § 740.9(a)(9) of the EAR may overcome the license requirements in paragraphs (a)(1), (2), (7) of this section.

(ii) License Exception GOV (§ 740.11(b) of the EAR) may overcome the license requirements in paragraphs (a)(1), (2), and (4) through (7) of this section.

(iii) License Exception TSU for software updates for civil end-users that are wholly-owned U.S. subsidiaries, branches, or sales offices; foreign subsidiaries, branches, or sales offices of U.S. companies that are joint ventures with other U.S. companies; joint ventures of U.S. companies with companies headquartered in countries from Country Group A:5 and A:6 in supplement no. 1 to part 740 of the EAR countries; the wholly-owned subsidiaries, branches, or sales offices of companies headquartered in countries from Country Group A:5 and A:6 in supplement no. 1 to part 740; or joint ventures of companies headquartered in Country Group A:5 and A:6 with other companies headquartered in Country Groups A:5 and A:6 (§ 740.13(c) of the EAR) may overcome the license requirements in paragraphs (a)(1), (2), and (7) of this section.

(iv) License Exception BAG, excluding firearms and ammunition (§ 740.14, excluding paragraph (e), of the EAR) may overcome the license requirements in paragraphs (a)(1) and (2) of this section.

(v) License Exception AVS, excluding any aircraft registered in, owned or controlled by, or under charter or lease by Russia or Belarus or a national of Russia or Belarus (§ 740.15(a) and (b) of the EAR) may overcome the license requirements in paragraphs (a)(1) and (2) of this section.

(vi) License Exception encryption commodities, software, and technology (ENC) for civil end-users that are wholly-owned U.S. subsidiaries, branches, or sales offices; foreign subsidiaries, branches, or sales offices of U.S. companies that are joint ventures with other U.S. companies; joint ventures of U.S. companies with companies headquartered in countries from Country Group A:5 and A:6 in supplement no. 1 to part 740 of the EAR countries; the wholly-owned subsidiaries, branches, or sales offices of companies headquartered in countries from Country Group A:5 and A:6 in supplement no. 1 to part 740; or joint ventures of companies headquartered in Country Group A:5 and A:6 with other companies headquartered in Country Groups A:5 and A:6 (§§ 740.13(c) and 740.17 of the EAR) may overcome the license requirements is paragraphs (a)(1) and (2) of this section.

(vii) License Exception CCD (§ 740.19 of the EAR) may overcome the license requirements in paragraphs (a)(1), (2), and (4) through (7) of this section.

(viii) License Exception MED (§ 740.23 of the EAR) may overcome the license requirements in paragraphs (a)(5) through (7) of this section.

(d) License Applications. License applications submitted to BIS under this section may include the phrase “§ 746.8” and identify the paragraph (a) license requirement(s) from this section that are applicable. You should include a description such as “paragraph (a)(1) or any of the other paragraph (a) paragraphs that may be applicable to a license application” in Block 9 (Special Purpose) of your license application as described in supplement no. 1 to part 748 of the EAR.

14. Effective September 16, 2024, amend § 746.8 by:

a. In paragraph (a) introductory text first and last sentences;

b. Adding paragraph (a)(8);

c. Revising paragraph (a)(12)(ii) introductory text;

d. Adding paragraph (a)(12)(iv);

e. Revising paragraph (b)(3) introductory text; and

f. Revising paragraph (c)(1).

The addition and revisions read as follows:

§ 746.8 Sanctions against Russia and Belarus.

(a) License requirements. Except as described in the exclusions in paragraph (a)(12), and in addition to license requirements specified on the Commerce Control List (CCL) in supplement no. 1 to part 774 of the EAR and in other provisions of the EAR, including part 744 and other sections of part 746, a license is required as specified under paragraphs (a)(1) through (8) of this section. * * * License requirements in paragraph (a)(4) of this section that apply to exports, reexports, and transfers (in-country) involved in certain end-uses should be reviewed only after license requirements in paragraphs (a)(1) through (3) and (5) through (8) of this section are reviewed.

* * * * *

(8) EAR99 designated software. (i) A license is required to export, reexport, or transfer (in-country) to or within Russia or Belarus any “software” subject to the EAR and described in paragraph (a)(8)(ii) of this section.

(ii) The following types of software subject to the EAR are in the scope of paragraph (a)(8): Enterprise resource planning (ERP); customer relationship management (CRM); business intelligence (BI); supply chain management (SCM); enterprise data warehouse (EDW); computerized maintenance management system (CMMS); project management software, product lifecycle management (PLM); building information modelling (BIM); computer aided design (CAD); computer-aided manufacturing (CAM); and engineering to order (ETO). The scope of paragraph (a)(8) also includes software updates of software identified in this paragraph that are subject to the EAR and designated as EAR99.

* * * * *

(12) * * *

(ii) Mass market encryption commodities and software, and software designated EAR99. Commodities specified under ECCN 5A991, and commodities and software classified under ECCNs 5A992.c or 5D992.c that have been `classified in accordance with § 740.17,' as well as software designated EAR99 and identified in paragraph (a)(8)(ii) of this section do not require a license to export, reexport, or transfer (in-country) to or within Russia or Belarus for the following civil end-users:

* * * * *

(iv) Software designated EAR99. Software that is subject to the EAR and designated EAR99 is excluded from the license requirement in paragraph (a)(8) when destined to entities engaged exclusively in the agriculture or medical industries.

(b) * * *

(3) Applications for the export, reexport, or transfer (in-country) of any item pursuant to paragraphs (a)(1), (2), and (a)(5) through (8) of this section will be reviewed under a policy of denial. However, the following types of license applications submitted pursuant to paragraphs (a)(1), (2), and (4) through (8) will be reviewed on a case-by-case basis to determine whether the transaction in question would benefit the Russian or Belarusian government or defense sector:

* * * * *

(c) * * *

(1) No license exceptions may overcome the license requirements in paragraph (a)(3) of this section, except as specified in the entry for a Footnote 3 entity on the Entity List in supplement no. 4 to part 744 of the EAR, or in paragraph (a)(8) of this section.

* * * * *

§ 746.10 [Removed and reserved]

15. Remove and reserve § 746.10.

16. Supplement no. 2 to part 746 is amended by revising the heading, paragraph (a) and first sentence of paragraph (b) to read as follows:

Supplement No. 2 to Part 746—Russian and Belarusian Industry Sector Sanction List Pursuant to § 746.8(a)(4)

(a) The source for the Harmonized Tariff Schedule (HTS)-6 codes and descriptions in this list comes from the United States International Trade Commission (USITC's) Harmonized Tariff Schedule of the United States (2023). The items described in supplement no. 2 to part 746 include any modified or designed “components,” “parts,” “accessories,” and “attachments” therefor regardless of the HTS Code or HTS Description of the “components,” “parts,” “accessories,” and “attachments,” apart from any “part” or minor “component” that is a fastener (e.g., screw, bolt, nut, nut plate, stud, insert, clip, rivet, pin), washer, spacer, insulator, grommet, bushing, spring, wire, or solder. The exclusion of fasteners from this control does not apply to fasteners that are designated under an HTS Code under this supplement. Although generally fasteners (e.g., screws, bolts, nuts, nut plates, studs, inserts, clips, rivets, pins), and washers, spacers, insulator, grommets, bushings, springs, wires, and solders are excluded from the scope of this supplement, certain part 744 license requirements for Russia and Belarus extend to all items “subject to the EAR,” and would therefore not exclude these items from the license requirements under that part (e.g., § 744.21 of the EAR and the Entity List license requirements, which in most cases extend to all items “subject to the EAR”). This supplement includes two columns consisting of the HTS Codes and HTS Descriptions to assist exporters, reexporters, and transferors in identifying the products in this supplement. For information on HTS codes in general, you may contact a local import specialist at U.S. Customs and Border Protection at the nearest port. HTS-6 codes 730424, 731100, 761300, 841350, 841360, 841382, 841392, 842139, 843049, 843139, 843143, 847989, and 870520 are listed in both this supplement and supplement no. 4 to this part, so exporters, reexporters, and transferors must comply with the license requirements under both § 746.8(a)(4) and (5) as applicable.

(b) The items identified in the HTS-6 Code column of this supplement are subject to the license requirement under § 746.8(a)(4). The other column—HTS Description—is intended to assist exporters with their Automated Export System (AES) filing responsibilities. * * *

* * * * *

17. Supplement no. 3 to part 746 is amended by revising the first sentence of the introductory text to read as follows:

Supplement No. 3 to Part 746—Countries Excluded From Certain License Requirements of §§ 746.6, 746.7, and 746.8

Countries listed in this supplement have committed to implementing substantially similar export controls on Russia and Belarus under their domestic laws and are consequently excluded from certain requirements in §§ 746.6 and 746.8 of the EAR, as described in §§ 746.6(a)(4) and 746.8(a)(12)(iii). * * *

* * * * *

18. Supplement no. 4 to part 746 is amended by:

a. Revising the heading, paragraphs (a) and (b); and

b. Adding in numerical order the following entries to the table: “250200,” “250300,” “250410,” “250490,” “250510,” “250590,” “250610,” “250620,” “250700,” “251110,” “251120,” “251310,” “251320,” “251400,” “251611,” “251612,” “251620,” “251690,” “251710,” “251720,” “251730,” “251741,” “251749,” “251810,” “251990,” “252020,” “252310,” “252321,” “252329,” “252330,” “252390,” “252410,” “252490,” “252800,” “252910,” “252921,” “252922,” “252930,” “253010,” “253090,” “260111,” “260112,” “260120,” “260200,” “260300,” “260400,” “260500,” “260600,” “260700,” “260800,” “260900,” “261000,” “261100,” “261220,” “261310,” “261390,” “261400,” “261510,” “261590,” “261610,” “261690,” “261710,” “261790,” “261800,” “261900,” “262011,” “262019,” “262021,” “262029,” “262030,” “262040,” “262060,” “262091,” “262099,” “262110,” “262190,” “270500,” “270600,” “270710,” “270740,” “270750,” “270791,” “270799,” “270810,” “270900,” “271012,” “271020,” “271091,” “271099,” “271111,” “271112,” “271113,” “271114,” “271119,” “271121,” “271129,” “271220,” “271311,” “271312,” “271320,” “271390,” “271410,” “271490,” “720110,” “720120,” “720150,” “720211,” “720219,” “720221,” “720229,” “720230,” “720241,” “720249,” “720250,” “720260,” “720270,” “720280,” “720291,” “720293,” “720299,” “720310,” “720390,” “720410,” “720421,” “720429,” “720430,” “720441,” “720449,” “720450,” “720510,” “720521,” “720529,” “720610,” “720690,” “721410,” “721420,” “721430,” “721491,” “721499,” “721510,” “721590,” “721710,” “721720,” “721730,” “721790,” “722100,” “722211,” “722219,” “722220,” “722240,” “722300,” “722710,” “722720,” “722790,” “722920,” “730110,” “730210,” “730230,” “730240,” “730290,” “730300,” “730431,” “730439,” “730441,” “730449,” “730451,” “730459,” “730490,” “730531,” “730590,” “730621,” “730629,” “730630,” “730640,” “730661,” “730669,” “730690,” “730711,” “730719,” “730721,” “730723,” “730729,” “730791,” “730792,” “730793,” “730799,” “731210,” “731290,” “731300,” “731414,” “731419,” “731420,” “731431,” “731439,” “731441,” “731442,” “731449,” “731450,” “731511,” “731512,” “731519,” “731520,” “731581,” “731582,” “731589,” “731590,” “731600,” “731700,” “731811,” “731812,” “731813,” “731814,” “731815,” “731816,” “731819,” “731821,” “731822,” “731823,” “731829,” “731940,” “731990,” “732010,” “732090,” “732111,” “732112,” “732119,” “732181,” “732182,” “732189,” “732190,” “732211,” “732219,” “732310,” “732391,” “732392,” “732393,” “732394,” “732399,” “732410,” “732421,” “732490,” “732510,” “732591,” “732599,” “732611,” “732619,” “732620,” “740100,” “740200,” “740311,” “740312,” “740313,” “740319,” “740321,” “740322,” “740329,” “740400,” “740500,” “740610,” “740620,” “741011,” “741012,” “741021,” “741022,” “741110,” “741121,” “741122,” “741210,” “741220,” “741300,” “741510,” “741529,” “741533,” “741539,” “741810,” “741820,” “741920,” “741980,” “750110,” “750120,” “750210,” “750220,” “750300,” “750400,” “760110,” “760120,” “760200,” “760310,” “760320,” “760410,” “760421,” “760429,” “760611,” “760612,” “760691,” “760711,” “760719,” “760810,” “760820,” “760900,” “761410,” “761490,” “761510,” “761520,” “761691,” “761699,” “780110,” “780191,” “780199,” “780200,” “780600,” “790111,” “790112,” “790120,” “790200,” “790310,” “790390,” “790400,” “790700,” “800200,” “810194,” “810196,” “810197,” “810199,” “810320,” “810330,” “810391,” “810399,” “810411,” “810419,” “810420,” “810430,” “810490,” “810520,” “810530,” “810610,” “810690,” “810820,” “810830,” “810890,” “811010,” “811020,” “811090,” “811100,” “811212,” “811213,” “811219,” “811221,” “811222,” “811229,” “811231,” “811239,” “811251,” “811252,” “811259,” “811261,” “811269,” “811292,” “811299,” “811300,” “820110,” “820130,” “820140,” “820150,” “820160,” “820190,” “820210,” “820231,” “820239,” “820240,” “820291,” “820299,” “820310,” “820320,” “820330,” “820340,” “820412,” “820420,” “820510,” “820520,” “820530,” “820540,” “820551,” “820560,” “820570,” “820590,” “820600,” “820720,” “820730,” “820740,” “820750,” “820770,” “820780,” “820900,” “821000,” “821110,” “821191,” “821192,” “821193,” “821194,” “821195,” “821210,” “821220,” “821290,” “821300,” “821410,” “821420,” “821490,” “821510,” “821520,” “821591,” “821599,” “830110,” “830130,” “830140,” “830150,” “830160,” “830210,” “830220,” “830241,” “830242,” “830249,” “830250,” “830260,” “830300,” “830400,” “830510,” “830520,” “830590,” “830610,” “830630,” “830810,” “830820,” “830890,” “831000,” “831110,” “831120,” “831130,” “831190,” “860120,” “860310,” “860390,” “860500,” “860711,” “860712,” “860719,” “860721,” “860729,” “860730,” “860791,” “860799,” “860800,” “860900,” “870110,” “870129,” “870191,” “870192,” “870193,” “870194,” “870195,” “870210,” “870220,” “870230,” “870240,” “870290,” “870790,” “870810,” “870821,” “870822,” “870829,” “870830,” “870840,” “870850,” “870870,” “870880,” “870891,” “870892,” “870893,” “870894,” “870895,” “870919,” “871000,” “871110,” “871200,” “871491,” “871492,” “871493,” “871494,” “871495,” “871496,” “871499,” “871610,” “871631,” “871640,” “871680,” “890120,” “890130,” “890190,” “890200,” “890400,” “890510,” “890610,” “890690,” “890710,” “890790,” “890800,” “930200,” “930310,” “930320,” “930330,” “930390,” “930400,” “930510,” “930520,” “930599,” “930621,” “930629,” “930630,” “930690,” “930700,” “960350,” and “960390.”

The revisions and additions read as follows:

Supplement No. 4 to Part 746—Russian and Belarusian Industry Sector Sanctions Pursuant to § 746.8(a)(5)

(a) The source for the Harmonized Tariff Schedule (HTS)-6 codes and descriptions in this list is the United States International Trade Commission (USITC)'s Harmonized Tariff Schedule of the United States (2023). The items described in supplement no. 4 to part 746 include any modified or designed “components,” “parts,” “accessories,” and “attachments” therefor regardless of the HTS Code or HTS Description of the “components,” “parts,” “accessories,” and “attachments,” apart from any “part” or minor “component” that is a fastener (e.g., screw, bolt, nut, nut plate, stud, insert, clip, rivet, pin), washer, spacer, insulator, grommet, bushing, spring, wire, or solder. The exclusion of fasteners from this control does not apply to fasteners that are designated under an HTS Code under this supplement. Although generally fasteners (e.g., screws, bolts, nuts, nut plates, studs, inserts, clips, rivets, pins), and washers, spacers, insulators, grommets, bushings, springs, wires, and solders are excluded from the scope of this supplement, certain part 744 license requirements for Russia and Belarus apply to all items “subject to the EAR,” and would therefore not exclude these items from the license requirements under that part (e.g., § 744.21 and the Entity List license requirements, which in most cases apply to all items “subject to the EAR.”). This supplement includes two columns consisting of the HTS Codes and HTS Descriptions to assist exporters, reexporters, and transferors in identifying the products in this supplement. For information on HTS codes in general, you may contact a local import specialist at U.S. Customs and Border Protection at the nearest port. HTS-6 codes 730424, 731100, 761300, 841350, 841360, 841382, 841392, 842139, 843049, 843139, 843143, 847989, and 870520 are listed in both this supplement and supplement no. 2 to this part, so exporters, reexporters, and transferors must comply with the license requirements under both § 746.8(a)(4) and (5) as applicable. HTS-6 Codes 590500, 840710, 840721, 840729, 840731, 840732, 840733, 840734, 840790, 840810, 840820, 840890, 840910, 840991, 840999, 841111, 841112, 841121, 841122, 841181, 841182, 841191, 841199, 841229, 841290, 841451, 841459, 841460, 841510, 841810, 841821, 841829, 841830, 841840, 841981, 842211, 842310, 842860, 843139, 844312, 844331, 844332, 844339, 845011, 845012, 845019, 845121, 845210, 847010, 847021, 847029, 847030, 847130, 847141, 847149, 847150, 847160, 847170, 847180, 847190, 847290, 847960, 848310, 848320, 848330, 848340, 848350, 848360, 848390, 850811, 850819, 850860, 850980, 851110, 851120, 851130, 851140, 851150, 851180, 851190, 851220, 851230, 851240, 851631, 851650, 851660, 851671, 851672, 851679, 851711, 851713, 851718, 851761, 851762, 851769, 851920, 851930, 851981, 851989, 852110, 852190, 852691, 852712, 852713, 852719, 852721, 852729, 852791, 852792, 852799, 852871, 852872, 852910, 853110, 854370, 854430, 870310, 870321, 870322, 870323, 870324, 870331, 870332, 870333, 870340, 870350, 870360, 870370, 870380, 870390, and 902000 are listed in both this supplement and supplement no. 5 to this part, so exporters, reexporters, and transferors must comply with the license requirements under both §§ 746.8(a)(5) and (7) as applicable.

(b) The items identified in the HTS-6 Code column of this supplement are subject to the license requirement under § 746.8(a)(5). The other column—HTS Description—is intended to assist exporters with their AES filing responsibilities. The license requirements extend to HTS Codes at the 8 and 10 digit level (HTS-8 and HTS-10 codes, respectively) when such longer HTS Codes begin with the HTS-6 Codes as their first 6 numbers. When a description mentions parts related to one or more numerical headings, this means parts related to any HS codes that begin with the digits in the range specified. For example, `headings 8524 to 8528' means any HS code, HTS code, or Schedule B which has 8524, 8525, 8526, 8527, or 8528 as the first four digits.

HTS-6 code | HTS description
250200 | UNROASTED IRON PYRITES.
250300 | SULFUR OF ALL KINDS, OTHER THAN SUBLIMED SULFUR, PRECIPITATED SULFUR AND COLLOIDAL SULFUR.
250410 | NATURAL GRAPHITE, IN POWDER OR IN FLAKES.
250490 | NATURAL GRAPHITE, EXCEPT POWDER OR FLAKES.
250510 | SILICA SANDS AND QUARTZ SANDS, NATURAL.
250590 | SANDS, NATURAL, EXCEPT METAL BEARING OR SILICA OR QUARTZ SANDS.
250610 | QUARTZ (OTHER THAN NATURAL SANDS).
250620 | QUARTZITE.
250700 | KAOLIN AND OTHER KAOLINIC CLAYS, WHETHER OR NOT CALCINED.
* * * * * * *
251110 | NATURAL BARIUM SULFATE (BARYTES).
251120 | NATURAL BARIUM CARBONATE (WITHERITE).
* * * * * * *
251310 | PUMICE STONE.
251320 | EMERY, NATURAL CORUNDUM, NATURAL GARNET AND OTHER NATURAL ABRASIVES.
251400 | SLATE, WHETHER OR NOT ROUGHLY TRIMMED OR MERELY CUT, BY SAWING ETC. INTO BLOCKS OR SLABS OF RECTANGULAR OR SQUARE SHAPE.
* * * * * * *
251611 | GRANITE, CRUDE OR ROUGHLY TRIMMED.
251612 | GRANITE, MERELY CUT INTO BLOCKS OR SLABS OF RECTANGULAR OR SQUARE SHAPE.
251620 | SANDSTONE.
251690 | BASALT, PORPHYRY AND OTHER MONUMENTAL OR BUILDING STONE, NESOI, WHETHER OR NOT TRIMMED OR MERELY CUT INTO BLOCKS ETC. OF RECTANGULAR OR SQUARE SHAPE.
251710 | PEBBLES, GRAVEL, BROKEN OR CRUSHED STONES FOR CONCRETE AGGREGATES, FOR ROAD METALLING OR BALLAST, SHINGLE AND FLINT, WHETHER OR NOT HEAT TREATED.
251720 | MACADAM OF SLAG, DROSS OR SIMILAR INDUSTRIAL WASTE, WHETHER OR NOT INCORPORATING PEBBLES, GRAVEL, BROKEN OR CRUSHED STONES, CITED IN SUBHEADING 251710.
251730 | TARRED MACADAM.
251741 | MARBLE GRANULES, CHIPPINGS AND POWDER.
251749 | GRANULES, CHIPPINGS AND POWDER OF MONUMENTAL OR BUILDING STONES (CALCAREOUS NESOI, ALABASTER, GRANITE, PORPHYRY, BASALT, SANDSTONE ETC.), NESOI.
251810 | DOLOMITE NOT CALCINED.
* * * * * * *
251990 | FUSED MAGNESIA; DEAD-BURNED (SINTERED) MAGNESIA; OTHER MAGNESIUM OXIDE NESOI, WHETHER OR NOT PURE.
* * * * * * *
252020 | PLASTERS CONSISTING OF CALCINED GYPSUM OR CALCIUM SULFATE.
* * * * * * *
252310 | CEMENT CLINKERS.
252321 | WHITE PORTLAND CEMENT, WHETHER OR NOT ARTIFICIALLY COLORED.
252329 | PORTLAND CEMENT, EXCEPT WHITE PORTLAND CEMENT.
252330 | ALUMINOUS CEMENT.
252390 | HYDRAULIC CEMENTS, NESOI.
252410 | CROCIDOLITE ASBESTOS.
252490 | ASBESTOS, EXCLUDING CROCIDOLITE.
* * * * * * *
252800 | NATURAL BORATES & CONCENTRATES THEREOF, NOT INCLUDING BORATES SEPARATED FROM NATURAL BRINE; NATURAL BORIC ACID CONTAINING LT=85% H3BO3 CALC ON DRY WGT.
252910 | FELDSPAR.
252921 | FLUORSPAR, CONTAINING BY WEIGHT 97% OR LESS OF CALCIUM FLUORIDE.
252922 | FLUORSPAR, CONTAINING BY WEIGHT MORE THAN 97% OF CALCIUM FLUORIDE.
252930 | LEUCITE; NEPHELINE AND NEPHELINE SYENITE.
253010 | VERMICULITE, PERLITE AND CHLORITES, UNEXPANDED.
* * * * * * *
253090 | MINERAL SUBSTANCES, NESOI.
260111 | IRON ORE CONCENTRATES (OTHER THAN ROASTED IRON PYRITES) AND NON-AGGLOMERATED IRON ORES.
260112 | AGGLOMERATED IRON ORES.
260120 | ROASTED IRON PYRITES.
260200 | MANGANESE ORES AND CONCENTRATES, INCLUDING FERRUGINOUS MANGANESE ORES AND CONCENTRATES WITH A MANGANESE CONTENT OF 20% OR MORE, BASED ON DRY WEIGHT.
260300 | COPPER ORES AND CONCENTRATES.
260400 | NICKEL ORES AND CONCENTRATES.
260500 | COBALT ORES AND CONCENTRATES.
260600 | ALUMINUM ORES AND CONCENTRATES.
260700 | LEAD ORES AND CONCENTRATES.
260800 | ZINC ORES AND CONCENTRATES.
260900 | TIN ORES AND CONCENTRATES.
261000 | CHROMIUM ORES AND CONCENTRATES.
261100 | TUNGSTEN ORES AND CONCENTRATES.
261220 | THORIUM ORES AND CONCENTRATES.
261310 | MOLYBDENUM ORES AND CONCENTRATES, ROASTED.
261390 | MOLYBDENUM ORES AND CONCENTRATES, NOT ROASTED.
261400 | TITANIUM ORES AND CONCENTRATES.
261510 | ZIRCONIUM ORES AND CONCENTRATES.
261590 | NIOBIUM, TANTALUM AND VANADIUM ORES AND CONCENTRATES.
261610 | SILVER ORES AND CONCENTRATES.
261690 | PRECIOUS METAL ORES AND CONCENTRATES, OTHER THAN SILVER.
261710 | ANTIMONY ORES AND CONCENTRATES.
261790 | ORES AND CONCENTRATES, NESOI.
261800 | GRANULATED SLAG (SLAG SAND) FROM IRON OR STEEL MANUFACTURE.
261900 | SLAG, DROSS (OTHER THAN GRANULATED SLAG), SCALINGS AND OTHER WASTE FROM THE MANUFACTURE OF IRON OR STEEL.
262011 | HARD ZINC SPELTER.
262019 | ASH AND RESIDUE (OTHER THAN FROM THE MANUFACTURE OF IRON OR STEEL) CONTAINING MAINLY ZINC, OTHER THAN HARD ZINC SPELTER.
262021 | ASHES AND RESIDUES OF LEADED GASOLINE SLUDGES AND LEADED ANTI-KNOCK COMPOUND SLUDGES.
262029 | ASH AND RESIDUES CONTAINING MAINLY LEAD, NESOI.
262030 | ASH AND RESIDUES NESOI, CONTAINING MAINLY COPPER.
262040 | ASH AND RESIDUES NESOI, CONTAINING MAINLY ALUMINUM.
262060 | ASH & RESIDUES CONTAINING ARSENIC, MERCURY, THALLIUM OR THEIR MIXTURES, USED FOR EXTRACTION OF THOSE METALS.
262091 | ASH & RESIDUES OF ANTIMONY, BERYLLIUM, CADMIUM, CHROMIUM OR THEIR MIXTURES, NESOI.
262099 | ASH AND RESIDUES NESOI, CONTAINING METALS OR METALLIC COMPOUNDS NESOI.
262110 | ASH AND RESIDUES FROM THE INCINERATION OF MUNICIPAL WASTE.
262190 | ASH AND SLAG, INCLUDING SEAWEED ASH (KELP), NESOI.
* * * * * * *
270500 | COAL GAS, WATER GAS, PRODUCER GAS AND SIMILAR GASES, EXCEPT PETROLEUM GASES AND OTHER GASEOUS HYDROCARBONS.
270600 | MINERAL TARS, INCLUDING RECONSTITUTED TARS.
270710 | BENZENE.
* * * * * * *
270740 | NAPHTHALENE.
270750 | AROMATIC HYDROCARBONS NESOI, OF WHICH 65% OR MORE BY VOLUME (INCLUDING LOSSES) DISTILLS AT 250 DEGREES CENTIGRADE BY THE ASTM D 86 METHOD.
270791 | CREOSOTE OILS.
270799 | OILS AND PRODUCTS OF THE DISTILLATION OF HIGH TEMPERATURE COAL TAR, NESOI; SIMILAR PRODUCTS WHICH HAVE A PREDOMINATE (WT.) AROMATIC CONSTITUENT, NESOI.
270810 | PITCH FROM COAL AND OTHER MINERAL TARS.
* * * * * * *
270900 | PETROLEUM OILS AND OILS FROM BITUMINOUS MINERALS, CRUDE.
271012 | LIGHT OILS AND PREPARATIONS CONTAINING GT=70% BY WEIGHT PETROLEUM OILS OR OILS FROM BITUMINOUS MINERALS, NOT CONTAINING BIODIESEL, NOT WASTE OILS.
* * * * * * *
271020 | PETROLEUM OILS AND PREPARATIONS CONTAINING BIODIESEL, CONTAINING BY WEIGHT GT=70% PETROLEUM OILS OR OILS OF BITUMINOUS MINERALS, OTHER THAN WASTE OILS.
271091 | WASTE OILS CONTAINING POLYCHLORINATED BIPHENYLS (PBC), POLYCHLORINATED TERPHENYLS (PCT) OR POLYBROMINATED BIPHENYLS (PBB).
271099 | WASTE OILS, NESOI.
271111 | NATURAL GAS, LIQUEFIED.
271112 | PROPANE, LIQUEFIED.
271113 | BUTANES, LIQUEFIED.
271114 | ETHYLENE, PROPYLENE, BUTYLENE AND BUTADIENE, LIQUEFIED.
271119 | PETROLEUM GASES AND OTHER GASEOUS HYDROCARBONS, LIQUEFIED, NESOI.
271121 | NATURAL GAS, GASEOUS.
271129 | PETROLEUM GASES AND OTHER GASEOUS HYDROCARBONS IN A GASEOUS STATE, NESOI (OTHER THAN NATURAL GAS).
* * * * * * *
271220 | PARAFFIN WAX CONTAINING BY WEIGHT LESS THAN 0.75% OIL.
* * * * * * *
271311 | PETROLEUM COKE, NOT CALCINED.
271312 | PETROLEUM COKE, CALCINED.
271320 | PETROLEUM BITUMEN.
271390 | RESIDUES OF PETROLEUM OILS OR OF OILS OBTAINED FROM BITUMINOUS MINERALS, NESOI.
271410 | BITUMINOUS OR OIL SHALE AND TAR SANDS.
271490 | BITUMEN AND ASPHALT, NATURAL; ASPHALTITES AND ASPHALTIC ROCKS.
* * * * * * *
720110 | NONALLOY PIG IRON CONTAINING 0.5% (WT.) OR LESS PHOSPHORUS, IN PRIMARY FORMS.
720120 | NONALLOY PIG IRON CONTAINING MORE THAN 0.5% (WT.) PHOSPHORUS, IN PRIMARY FORMS.
720150 | ALLOY PIG IRON; SPIEGELEISEN, IN PRIMARY FORMS.
720211 | FERROMANGANESE, CONTAINING MORE THAN 2% (WT.) CARBON.
720219 | FERROMANGANESE, CONTAINING 2% (WT.) OR LESS CARBON.
720221 | FERROSILICON, CONTAINING MORE THAN 55% (WT.) SILICON.
720229 | FERROSILICON, CONTAINING 55% (WT.) OR LESS SILICON.
720230 | FERROSILICON MANGANESE.
720241 | FERROCHROMIUM, CONTAINING MORE THAN 4% (WT.) CARBON.
720249 | FERROCHROMIUM, CONTAINING 4% (WT.) OR LESS CARBON.
720250 | FERROSILICON CHROMIUM.
720260 | FERRONICKEL.
720270 | FERROMOLYBDENUM.
720280 | FERROTUNGSTEN AND FERROSILICON TUNGSTEN.
720291 | FERROTITANIUM AND FERROSILICON TITANIUM.
* * * * * * *
720293 | FERRONIOBIUM.
720299 | FERROALLOYS, NESOI.
720310 | FERROUS PRODUCTS OBTAINED BY DIRECT REDUCTION OF IRON ORE.
720390 | SPONGY FERROUS PRODUCTS NESOI, IN LUMPS, PELLETS OR SIMILAR FORMS; IRON WITH MINIMUM PURITY OF 99.94% (WT.), IN LUMPS, PELLETS OR SIMILAR FORMS.
720410 | CAST IRON WASTE AND SCRAP.
720421 | STAINLESS STEEL WASTE AND SCRAP.
720429 | ALLOY STEEL WASTE AND SCRAP, OTHER THAN STAINLESS.
720430 | TINNED IRON OR STEEL WASTE AND SCRAP.
720441 | FERROUS WASTE AND SCRAP NESOI, TURNINGS, SHAVINGS, CHIPS, MILLING WASTE, SAWDUST, FILINGS, TRIMMINGS AND STAMPINGS, WHETHER OR NOT IN BUNDLES.
720449 | FERROUS WASTE AND SCRAP, NESOI.
720450 | REMELTING SCRAP INGOTS OF IRON OR STEEL.
720510 | IRON OR STEEL GRANULES.
720521 | ALLOY STEEL POWDERS.
720529 | IRON OR NONALLOY STEEL POWDERS.
720610 | IRON AND NONALLOY STEEL INGOTS.
720690 | IRON AND NONALLOY STEEL IN PRIMARY FORMS, OTHER THAN INGOTS.
* * * * * * *
721410 | BARS AND RODS OF IRON OR NONALLOY STEEL, FORGED.
721420 | BARS AND RODS OF IRON OR NONALLOY STEEL, HOT-WORKED NESOI, CONCRETE REINFORCING.
721430 | BARS AND RODS OF FREE-CUTTING NONALLOY STEEL, HOT-WORKED NESOI.
721491 | BARS AND RODS OF IRON OR NONALLOY STEEL, NOT FURTHER WORKED THAN HOT-ROLLED, HOT-DRAWN OR HOT-EXTRUDED BUT INCL TWISTED, RECTANGULAR CROSS SECTN, NESOI.
721499 | BARS AND RODS OF IRON OR NONALLOY STEEL, NOT FURTHER WORKED THAN HOT-ROLLED, HOT-DRAWN OR HOT-EXTRUDED, BUT INCLUDING TWISTED AFTER ROLLING, N.E.S.O.I.
721510 | BARS AND RODS OF FREE-CUTTING NONALLOY STEEL, COLD-FORMED OR COLD-FINISHED.
* * * * * * *
721590 | BARS AND RODS OF IRON OR NONALLOY STEEL, NESOI.
* * * * * * *
721710 | WIRE OF IRON OR NONALLLOY STEEL, NOT PLATED OR COATED, WHETHER OR NOT POLISHED.
721720 | WIRE OF IRON OR NONALLOY STEEL, PLATED OR COATED WITH ZINC.
721730 | WIRE OF IRON OR NONALLOY STEEL, PLATED OR COATED WITH BASE METAL OTHER THAN ZINC.
721790 | WIRE OF IRON OR NONALLOY STEEL LESS THAN 0.25 PERCENT CARBON, NESOI.
* * * * * * *
722100 | BARS AND RODS OF STAINLESS STEEL, HOT-ROLLED, IN IRREGULARLY WOUND COILS.
722211 | OTHER BARS AND RODS OF STAINLESS STEEL, HOT-ROLLED, CIRCULAR CROSS-SECTION.
722219 | OTHER BARS AND RODS OF STAINLESS STEEL, HOT-ROLLED, OTHER THAN CIRCULAR CROSS-SECTION.
722220 | BARS AND RODS OF STAINLESS STEEL, COLD-FORMED OR COLD-FINISHED.
* * * * * * *
722240 | ANGLES, SHAPES AND SECTIONS OF STAINLESS STEEL.
722300 | WIRE OF STAINLESS STEEL.
* * * * * * *
722710 | BARS AND RODS OF HIGH-SPEED STEEL, HOT-ROLLED, IN IRREGULARLY WOUND COILS.
722720 | BARS AND RODS OF SILICO-MANGANESE STEEL, HOT-ROLLED, IN IRREGULARLY WOUND COILS.
722790 | BARS AND RODS OF ALLOY STEEL (OTHER THAN STAINLESS), HOT-ROLLED, IN IRREGULARLY WOUND COILS, NESOI.
* * * * * * *
722920 | WIRE OF SILICO-MANGANESE STEEL.
* * * * * * *
730110 | SHEET PILING OF IRON OR STEEL, WHETHER OR NOT DRILLED, PUNCHED OR MADE FROM ASSEMBLED ELEMENTS.
* * * * * * *
730210 | RAILWAY OR TRAMWAY RAILS OF IRON OR STEEL.
730230 | RAILWAY OR TRAMWAY TRACK SWITCH BLADES, CROSSING FROGS, POINT RODS AND OTHER CROSSING PIECES OF IRON OR STEEL.
730240 | RAILWAY OR TRAMWAY TRACK FISH-PLATES AND SOLE PLATES OF IRON OR STEEL.
730290 | RAILWAY OR TRAMWAY TRACK CONSTRUCTION MATERIAL OF IRON OR STEEL NESOI.
730300 | TUBES, PIPES AND HOLLOW PROFILES OF CAST IRON.
* * * * * * *
730431 | TUBES, PIPES AND HOLLOW PROFILES, SEAMLESS NESOI, OF CIRCULAR CROSS SECTION OF IRON OR NONALLOY STEEL, COLD-DRAWN OR COLD-ROLLED.
730439 | TUBES, PIPES AND HOLLOW PROFILES, SEAMLESS NESOI, OF CIRCULAR CROSS SECTION OF IRON OR NONALLOY STEEL, NOT COLD-DRAWN OR COLD-ROLLED.
730441 | TUBES, PIPES AND HOLLOW PROFILES, SEAMLESS NESOI, OF CIRCULAR CROSS SECTION OF STAINLESS STEEL, COLD-DRAWN OR COLD-ROLLED.
730449 | TUBES, PIPES AND HOLLOW PROFILES, SEAMLESS NESOI, OF CIRCULAR CROSS SECTION OF STAINLESS STEEL, NOT COLD-DRAWN OR COLD-ROLLED.
730451 | TUBES, PIPES AND HOLLOW PROFILES, SEAMLESS NESOI, OF CIRCULAR CROSS SECTION OF ALLOY STEEL (OTHER THAN STAINLESS), COLD-DRAWN OR COLD-ROLLED.
730459 | TUBES, PIPES AND HOLLOW PROFILES, SEAMLESS NESOI, OF CIRCULAR CROSS SECTION OF ALLOY STEEL (OTHER THAN STAINLESS), NOT COLD-DRAWN OR COLD-ROLLED.
730490 | TUBES, PIPES AND HOLLOW PROFILES, SEAMLESS NESOI, OF IRON (OTHER THAN CAST IRON) OR STEEL.
730531 | PIPES AND TUBES NESOI, EXTERNAL DIAMETER OVER 406.4 MM (16 IN.), OF IRON OR STEEL, LONGITUDINALLY WELDED.
* * * * * * *
730590 | PIPES AND TUBES NESOI, EXTERNAL DIAMETER OVER 406.4 MM (16 IN.), OF IRON OR STEEL, RIVETED OR SIMILARLY CLOSED NESOI.
730621 | CASING OR TUBING FOR OIL OR GAS DRILLING, WELDED OF STAINLESS STEEL, NESOI.
730629 | CASING OR TUBING FOR OIL OR GAS DRILLING, OF IRON OR STEEL, NESOI.
730630 | PIPES, TUBES AND HOLLOW PROFILES NESOI, WELDED, OF CIRCULAR CROSS SECTION, OF IRON OR NONALLOY STEEL.
730640 | PIPES, TUBES AND HOLLOW PROFILES NESOI, WELDED, OF CIRCULAR CROSS SECTION, OF STAINLESS STEEL.
* * * * * * *
730661 | TUBES, PIPES AND HOLLOW PROFILES, OF IRON OR STEEL, WELDED, OF A SQUARE OR RECTANGULAR CROSS-SECTION, NESOI.
730669 | TUBES, PIPES AND HOLLOW PROFILES, OF IRON OR STEEL, WELDED, OF NON-CIRCULAR CROSS-SECTION, NESOI.
730690 | PIPES, TUBES AND HOLLOW PROFILES NESOI, OF IRON OR STEEL, RIVETED OR SIMILARLY CLOSED.
730711 | PIPE OR TUBE FITTINGS, CAST, OF NONMALLEABLE IRON.
730719 | PIPE OR TUBE FITTINGS, CAST, OF IRON NESOI OR STEEL.
730721 | PIPE OR TUBE FITTINGS, NESOI, STAINLESS STEEL FLANGES.
* * * * * * *
730723 | PIPE OR TUBE FITTINGS, NESOI, STAINLESS STEEL BUTT WELDING FITTINGS.
730729 | PIPE OR TUBE FITTINGS, NESOI, STAINLESS STEEL FITTINGS NESOI.
730791 | PIPE OR TUBE FITTINGS, NESOI, IRON OR NONSTAINLESS STEEL FLANGES.
730792 | PIPE OR TUBE FITTINGS, NESOI, IRON OR NONSTAINLESS STEEL THREADED ELBOWS, BENDS AND SLEEVES.
730793 | PIPE OR TUBE FITTINGS, NESOI, IRON OR NONSTAINLESS STEEL BUTT WELDING FITTINGS.
730799 | PIPE OR TUBE FITTINGS, NESOI, IRON OR NONSTAINLESS STEEL FITTINGS NESOI.
* * * * * * *
731210 | STRANDED WIRE, ROPES AND CABLES, NOT ELECTRICALLY INSULATED, OF IRON OR STEEL.
731290 | PLAITED BANDS, SLINGS AND THE LIKE (OTHER THAN STRANDED WIRE, ROPES OR CABLES), NOT ELECTRICALLY INSULATED, OF IRON OR STEEL.
731300 | BARBED WIRE, TWISTED HOOP OR SINGLE FLAT WIRE, BARBED OR NOT, AND LOOSELY TWISTED DOUBLE WIRE, OF A KIND USED FOR FENCING, OF IRON OR STEEL.
* * * * * * *
731414 | OTHER PRODUCTS OF WOVEN STAINLESS STEEL CLOTH.
731419 | WOVEN PRODUCTS OF IRON OR STEEL, NESOI.
731420 | GRILL, NETTING AND FENCING OF IRON OR STEEL WIRE, WELDED AT THE INTERSECTION, MAXIMUM CROSS-SECTION OF 3 MM OR MORE AND MESH SIZE OF 100 CM2 OR MORE.
731431 | OTHER GRILL, NETTING AND FENCING WELDED AT THE INTERSECTION OF GALVANIZED STEEL.
731439 | OTHER GRILL, NETTING AND FENCING WELDED AT THE INTERSECTION OF IRON OR STEEL OTHER THAN GALVANIZED STEEL.
731441 | GRILL, NETTING AND FENCING OF IRON OR STEEL WIRE NESOI, PLATED OR COATED WITH ZINC.
731442 | GRILL, NETTING AND FENCING OF IRON OR STEEL WIRE NESOI, COATED WITH PLASTICS.
731449 | GRILL, NETTING AND FENCING OF IRON OR STEEL WIRE NESOI.
731450 | EXPANDED METAL OF IRON OR STEEL.
731511 | ROLLER CHAIN OF IRON OR STEEL.
731512 | ARTICULATED LINK CHAIN OTHER THAN ROLLER CHAIN, OF IRON OR STEEL.
731519 | PARTS OF ARTICULATED LINK CHAIN OF IRON OR STEEL.
731520 | SKID CHAIN OF IRON OR STEEL.
731581 | STUD LINK CHAIN OF IRON OR STEEL.
731582 | CHAIN NESOI, WELDED LINK OF IRON OR STEEL.
731589 | CHAIN OF IRON OR STEEL, NESOI.
731590 | PARTS OF CHAIN NESOI, OF IRON OR STEEL.
731600 | ANCHORS, GRAPNELS AND PARTS THEREOF, OF IRON OR STEEL.
731700 | NAILS, TACKS, DRAWING PINS, STAPLES (OTHER THAN IN STRIPS), AND SIMILAR ARTICLES, OF IRON OR STEEL, EXCLUDING SUCH ARTICLES WITH HEADS OF COPPER.
731811 | COACH SCREWS, THREADED, OF IRON OR STEEL.
731812 | WOOD SCREWS OTHER THAN COACH SCREWS, THREADED, OF IRON OR STEEL.
731813 | SCREW HOOKS AND SCREW RINGS, THREADED, OF IRON OR STEEL.
731814 | SELF-TAPPING SCREWS, THREADED, OF IRON OR STEEL.
731815 | THREADED SCREWS AND BOLTS NESOI, WITH OR WITHOUT THEIR NUTS OR WASHERS, OF IRON OR STEEL.
731816 | NUTS, THREADED, OF IRON OR STEEL.
731819 | THREADED ARTICLES OF IRON OR STEEL NESOI.
731821 | SPRING WASHERS AND OTHER LOCK WASHERS, OF IRON OR STEEL.
731822 | WASHERS, OTHER THAN LOCK WASHERS, OF IRON OR STEEL.
731823 | RIVETS OF IRON OR STEEL.
* * * * * * *
731829 | NONTHREADED ARTICLES (FASTENERS) NESOI, OF IRON OR STEEL.
731940 | SAFETY PINS AND OTHER PINS OF IRON OR STEEL.
731990 | KNITTING NEEDLES, BODKINS, CROCHET HOOKS, EMBROIDERY STILETTOS AND SIMILAR ARTICLES FOR USE IN THE HAND, OF IRON OR STEEL, NESOI.
732010 | LEAF SPRINGS AND LEAVES THEREFOR, OF IRON OR STEEL.
* * * * * * *
732090 | SPRINGS NESOI, OF IRON OR STEEL.
732111 | COOKING APPLIANCES AND PLATE WARMERS, FOR GAS FUEL OR FOR BOTH GAS AND OTHER FUELS, OF IRON OR STEEL.
732112 | COOKING APPLIANCES AND PLATE WARMERS FOR LIQUID FUEL, OF IRON OR STEEL.
732119 | COOKING APPLIANCES AND PLATE WARMERS, NONELECTRIC, OF IRON OR STEEL, NESOI.
732181 | NONELECTRIC DOMESTIC APPLIANCES NESOI, FOR GAS FUEL OR BOTH GAS AND OTHER FUELS, OF IRON OR STEEL.
732182 | NONELECTRIC DOMESTIC APPLIANCES NESOI, FOR LIQUID FUEL, OF IRON OR STEEL.
732189 | NONELECTRIC DOMESTIC APPLIANCES, OF IRON OR STEEL, NESOI.
732190 | PARTS OF NONELECTRIC DOMESTIC COOKING APPLIANCES AND PLATE WARMERS AND SIMILAR NONELECTRIC DOMESTIC APPLIANCES, OF IRON OR STEEL.
732211 | RADIATORS FOR CENTRAL HEATING AND PARTS THEREOF, OF CAST IRON.
732219 | RADIATORS FOR CENTRAL HEATING AND PARTS THEREOF, OF IRON OR STEEL, EXCEPT CAST IRON.
* * * * * * *
732310 | IRON OR STEEL WOOL; POT SCOURERS AND SCOURING OR POLISHING PADS, GLOVES AND THE LIKE, OF IRON OR STEEL.
732391 | TABLE, KITCHEN OR OTHER HOUSEHOLD ARTICLES AND PARTS THEREOF, OF CAST IRON, NOT ENAMELED.
732392 | TABLE, KITCHEN OR OTHER HOUSEHOLD ARTICLES AND PARTS THEREOF, OF CAST IRON, ENAMELED.
732393 | TABLE, KITCHEN OR OTHER HOUSEHOLD ARTICLES AND PARTS THEREOF, OF STAINLESS STEEL.
732394 | TABLE, KITCHEN OR OTHER HOUSEHOLD ARTICLES AND PARTS THEREOF, OF IRON (NOT CAST) AND STEEL (NOT STAINLESS), ENAMELED.
732399 | TABLE, KITCHEN OR OTHER HOUSEHOLD ARTICLES AND PARTS THEREOF, OF IRON (NOT CAST) AND STEEL (NOT STAINLESS), NOT ENAMELED.
732410 | SINKS AND WASH BASINS OF STAINLESS STEEL.
732421 | BATHS OF CAST IRON, WHETHER OR NOT ENAMELED.
* * * * * * *
732490 | SANITARY WARE AND PARTS THEREOF NESOI, OF IRON OR STEEL (OTHER THAN STAINLESS STEEL SINKS OR WASH BASINS AND BATHS OF IRON OR STEEL).
732510 | ARTICLES NESOI, OF NONMALLEABLE CAST IRON.
732591 | GRINDING BALLS AND SIMILAR ARTICLES FOR MILLS, CAST, OF IRON OR STEEL, OTHER THAN NONMALLEABLE CAST IRON.
732599 | CAST ARTICLES NESOI, OF IRON OR STEEL.
732611 | GRINDING BALLS AND SIMILAR ARTICLES FOR MILLS, FORGED OR STAMPED, BUT NOT FURTHER WORKED, OF IRON OR STEEL.
732619 | ARTICLES NESOI, FORGED OR STAMPED, BUT NOT FURTHER WORKED, OF IRON OR STEEL.
732620 | ARTICLES OF IRON OR STEEL WIRE, NESOI.
740100 | COPPER MATTES; CEMENT COPPER (PRECIPITATED COPPER).
740200 | UNREFINED COPPER; COPPER ANODES FOR ELECTROLYTIC REFINING.
740311 | REFINED COPPER CATHODES AND SECTIONS OF CATHODES.
740312 | REFINED COPPER WIRE BARS, UNWROUGHT.
740313 | REFINED COPPER BILLETS, UNWROUGHT.
740319 | REFINED COPPER, UNWROUGHT, NESOI.
740321 | COPPER-ZINC BASE ALLOYS (BRASS), UNWROUGHT.
740322 | COPPER-TIN BASE ALLOYS (BRONZE), UNWROUGHT.
740329 | COPPER ALLOYS, UNWROUGHT, NESOI.
740400 | COPPER WASTE AND SCRAP.
740500 | MASTER ALLOYS OF COPPER.
740610 | COPPER POWDERS OF NON-LAMELLAR STRUCTURE.
740620 | COPPER POWDERS OF LAMELLAR STRUCTURE; FLAKES.
* * * * * * *
741011 | COPPER FOIL, NOT BACKED, OF REFINED COPPER, NOT OVER 0.15 MM THICK.
741012 | COPPER ALLOY FOIL, NOT BACKED, NOT OVER 0.15 MM THICK.
741021 | COPPER FOIL, BACKED, OF REFINED COPPER, NOT OVER 0.15 MM THICK.
741022 | COPPER FOIL, BACKED, OF COPPER ALLOYS, NOT OVER 0.15 MM THICK.
741110 | TUBES AND PIPES OF REFINED COPPER.
741121 | TUBES AND PIPES OF COPPER-ZINC BASE ALLOYS (BRASS).
741122 | TUBES AND PIPES OF COPPER-NICKEL BASE ALLOYS (CUPRO-NICKEL) OR COPPER-NICKEL-ZINC BASE ALLOYS (NICKEL-SILVER).
* * * * * * *
741210 | TUBE OR PIPE FITTINGS OF REFINED COPPER.
741220 | TUBE OR PIPE FITTINGS OF COPPER ALLOYS.
741300 | STRANDED WIRE, CABLES, PLAITED BANDS AND SIMILAR ARTICLES, OF COPPER, NOT ELECTRICALLY INSULATED.
741510 | NAILS, TACKS, DRAWING PINS, STAPLES (OTHER THAN IN STRIPS) AND SIMILAR ARTICLES OF COPPER OR OF IRON OR STEEL WITH HEADS OF COPPER.
* * * * * * *
741529 | RIVETS, COTTERS, COTTER PINS AND SIMILAR ARTICLES OF COPPER (NOT THREADED), NESOI.
741533 | THREADED SCREWS, BOLTS, AND NUTS OF COPPER OR IRON OR STEEL WITH HEADS OF COPPER.
741539 | THREADED FASTENERS NESOI, OF COPPER.
741810 | COPPER TABLE, KITCHEN OR OTHER HOUSEHOLD ARTICLES AND PARTS THEREOF; POT SCOURERS OR POLISHING PADS, GLOVES AND THE LIKE, OF COPPER.
741820 | SANITARY WARE AND PARTS THEREOF, OF COPPER.
741920 | ARTICLES OF COPPER, NESOI, CAST, MOLDED, STAMPED OR FORGED, BUT NOT FURTHER WORKED.
741980 | ARTICLES OF COPPER, NESOI.
750110 | NICKEL MATTES.
750120 | NICKEL OXIDE SINTERS AND OTHER INTERMEDIATE PRODUCTS OF NICKEL METALLURGY.
750210 | NICKEL, NOT ALLOYED, UNWROUGHT.
750220 | NICKLE ALLOYS, UNWROUGHT.
750300 | NICKEL WASTE AND SCRAP.
750400 | NICKLE POWDERS AND FLAKES.
* * * * * * *
760110 | ALUMINUM, NOT ALLOYED, UNWROUGHT.
760120 | ALUMINUM ALLOYS, UNWROUGHT.
760200 | ALUMINUM WASTE AND SCRAP.
760310 | ALUMINUM POWDERS OF NONLAMELLAR STRUCTURE.
760320 | ALUMINUM POWDERS OF LAMELLAR STRUCTURE; FLAKES.
760410 | ALUMINUM BARS, RODS AND PROFILES, NOT ALLOYED.
760421 | ALUMINUM ALLOY HOLLOW PROFILES.
760429 | ALUMINUM ALLOY BARS, RODS AND PROFILES, OTHER THAN HOLLOW PROFILES.
* * * * * * *
760611 | ALUMINUM NONALLOYED RECTANGULAR (INCLUDING SQUARE) PLATES, SHEETS AND STRIP, OVER 0.2 MM THICK.
760612 | ALUMINUM ALLOY RECTANGULAR (INCLUDING SQUARE) PLATES, SHEETS AND STRIP, OVER 0.2 MM THICK.
760691 | ALUMINUM NONALLOYED PLATES, SHEETS OR STRIP, OVER 0.2 MM THICK, NESOI (OTHER THAN RECTANGULAR OR SQUARE SHAPES).
* * * * * * *
760711 | ALUMINUM FOIL, NOT OVER 0.2 MM THICK, NOT BACKED, ROLLED BUT NOT FURTHER WORKED.
760719 | ALUMINUM FOIL, NOT OVER 0.2 MM THICK, NOT BACKED, NESOI.
* * * * * * *
760810 | ALUMINUM TUBES AND PIPES, NOT ALLOYED.
760820 | ALUMINUM ALLOY TUBES AND PIPES.
760900 | ALUMINUM TUBE OR PIPE FITTINGS (INCLUDING COUPLINGS, ELBOWS, AND SLEEVES).
* * * * * * *
761410 | STRANDED WIRE, CABLES, PLAITED BANDS AND SIMILAR ARTICLES OF ALUMINUM, NOT ELECTRICALLY INSULATED, WITH A STEEL CORE.
761490 | STRANDED WIRE, CABLES, PLAITED BANDS AND SIMILAR ARTICLES OF ALUMINUM, NOT ELECTRICALLY INSULATED, NESOI.
761510 | ALUMINUM TABLE, KITCHEN OR OTHER HOUSEHOLD ARTICLES AND PARTS THEREOF; POT SCOURERS, SCOURING OR POLISHING PADS, GLOVES AND THE LIKE, OF ALUMINUM ETC.
761520 | ALUMINUM SANITARY WARE AND PARTS THEREOF.
* * * * * * *
761691 | CLOTH, GRILL, NETTING AND FENCING OF ALUMINUM WIRE.
761699 | ARTICLES OF ALUMINUM, N.E.S.O.I.
780110 | REFINED LEAD, UNWROUGHT.
780191 | LEAD, OTHER THAN REFINED, CONTAINING ANTIMONY BY WEIGHT AS THE PRINCIPAL OTHER ELEMENT, UNWROUGHT.
780199 | LEAD, OTHER THAN REFINED, NESOI, UNWROUGHT.
780200 | LEAD WASTE AND SCRAP.
* * * * * * *
780600 | ARTICLES OF LEAD, NESOI.
790111 | ZINC, NOT ALLOYED, CONTAINING 99.9% OR MORE BY WEIGHT OF ZINC, UNWROUGHT.
790112 | ZINC, NOT ALLOYED, CONTAINING UNDER 99.99% ZINC BY WEIGHT. UNWROUGHT.
790120 | ZINC ALLOYS, UNWROUGHT.
790200 | ZINC WASTE AND SCRAP.
790310 | ZINC DUST.
790390 | ZINC POWDERS AND FLAKES.
790400 | ZINC BARS, RODS, PROFILES AND WIRE.
* * * * * * *
790700 | ARTICLES OF ZINC, N.E.S.O.I.
* * * * * * *
800200 | TIN WASTE AND SCRAP.
* * * * * * *
810194 | TUNGSTEN, UNWROUGHT, INCLUDING BARS AND RODS OBTAINED SIMPLY BY SINTERING.
810196 | TUNGSTEN WIRE.
810197 | TUNGSTEN WASTE AND SCRAP.
810199 | TUNGSTEN, WROUGHT, NESOI.
* * * * * * *
810320 | UNWROUGHT TANTALUM, INCLUDING BARS AND RODS OBTAINED SIMPLY BY SINTERING; POWDERS.
810330 | TANTALUM WASTE AND SCRAP.
810391 | TANTALUM AND ARTICLES THEREOF, NESOI.
810399 | TANTALUM AND ARTICLES THEREOF, NESOI.
810411 | MAGNESIUM, CONTAINING 99.8% OR MORE MAGNESIUM BY WEIGHT, UNWROUGHT.
810419 | MAGNESIUM, CONTAINING UNDER 99.8% MAGNESIUM BY WEIGHT, UNWROUGHT.
810420 | MAGNESIUM WASTE AND SCRAP.
810430 | MAGNESIUM RASPINGS, TURNINGS AND GRANULES, GRADED ACCORDING TO SIZE; MAGNESIUM POWDERS.
810490 | MAGNESIUM AND ARTICLES THEREOF, NESOI.
810520 | COBALT MATTES AND OTHER INTERMEDIATE PRODUCTS OF COBALT METALLURGY; COBALT, UNWROUGHT; COBALT POWDERS.
810530 | COBALT WASTE AND SCRAP.
* * * * * * *
810610 | BISMUTH AND ARTICLES THEREOF, INCLUDING WASTE AND SCRAP.
810690 | BISMUTH AND ARTICLES THEREOF, INCLUDING WASTE AND SCRAP.
810820 | UNWROUGHT TITANIUM; POWDERS.
810830 | TITANIUM WASTE AND SCRAP.
810890 | TITANIUM AND ARTICLES THEREOF, NESOI.
* * * * * * *
811010 | UNWROUGHT ANTIMONY; POWDERS.
811020 | ANTIMONY WASTE AND SCRAP.
811090 | ANTIMONY AND ARTICLES THEREOF, NESOI.
811100 | MANGANESE AND ARTICLES THEREOF, INCLUDING WASTE AND SCRAP.
811212 | UNWROUGHT BERYLLIUM; BERYLLIUM POWDERS, NESOI.
811213 | BERYLLIUM WASTE AND SCRAP.
811219 | BERYLLIUM AND ARTICLES THEREOF, NESOI.
811221 | UNWROUGHT CHROMIUM; POWDERS.
811222 | CHROMIUM WASTE AND SCRAP.
811229 | CHROMIUM AND ARTICLES THEREOF, NESOI.
811231 | GALLIUM, HAFNIUM, INDIUM, NIOBIUM (COLUMBIUM), RHENIUM & ARTICLES OF THESE METALS, INCLUDING WASTE & SCRAP.
811239 | GALLIUM, HAFNIUM, INDIUM, NIOBIUM (COLUMBIUM), RHENIUM AND THALLIUM AND ARTICLES THEREOF, NESOI.
* * * * * * *
811251 | UNWROUGHT THALLIUM; POWDERS.
811252 | THALLIUM WASTE AND SCRAP.
811259 | THALLIUM AND ARTICLES THEREOF, NESOI.
811261 | UNWROUGHT CADMIUM; WASTE AND SCRAP.
811269 | UNWROUGHT CADMIUM; POWDERS.
811292 | GALLIUM, HAFNIUM, INDIUM, NIOBIUM (COLUMBIUM), RHENIUM & ARTICLES OF THESE METALS, INCLUDING WASTE & SCRAP.
811299 | GALLIUM, HAFNIUM, INDIUM, NIOBIUM (COLUMBIUM), RHENIUM AND THALLIUM AND ARTICLES THEREOF, NESOI.
811300 | CERMETS AND ARTICLES THEREOF, INCLUDING WASTE AND SCRAP.
820110 | SPADES AND SHOVELS AND PARTS THEREOF, OF BASE METAL.
820130 | MATTOCKS, PICKS, HOES AND RAKES, AND PARTS THEREOF OF BASE METAL.
820140 | AXES, BILL HOOKS AND SIMILAR HEWING TOOLS, AND PARTS THEREOF, OF BASE METAL.
820150 | ONE-HANDED SECATEURS AND SIMILAR ONE-HANDED PRUNERS AND SHEARS (INCLUDING POULTRY SHEARS), AND PARTS THEREOF, OF BASE METAL.
820160 | HEDGE SHEARS, TWO-HANDED PRUNING SHEARS AND SIMILAR TWO-HANDED SHEARS, AND PARTS THEREOF, OF BASE METAL.
820190 | HANDTOOLS NESOI, OF A KIND USED IN AGRICULTURE, HORTICULTURE OR FORESTRY, AND PARTS THEREOF, OF BASE METAL.
820210 | HANDSAWS AND PARTS THEREOF (EXCEPT BLADES) OF BASE METAL.
* * * * * * *
820231 | CIRCULAR SAW BLADES OF BASE METAL, WITH WORKING PART OF STEEL, AND PARTS THEREOF.
820239 | CIRCULAR SAW BLADES OF BASE METAL WITH WORKING PART OF MATERIAL OTHER THAN STEEL, AND PARTS.
820240 | CHAIN SAW BLADES (LENGTHS OR CUT TO SIZE), AND PARTS THEREOF, OF BASE METAL.
820291 | STRAIGHT SAW BLADES FOR WORKING METAL, OF BASE METAL.
820299 | SAW BLADES NESOI, AND PARTS OF SAW BLADES NESOI, OF BASE METAL.
820310 | FILES, RASPS AND SIMILAR TOOLS, OF BASE METAL.
820320 | PLIERS (INCLUDING CUTTING PLIERS), PINCERS, TWEEZERS, AND SIMILAR TOOLS, AND PARTS THEREOF, OF BASE METAL.
820330 | METAL CUTTING SHEARS AND SIMILAR TOOLS, AND PARTS THEREOF, OF BASE METAL.
820340 | PIPE CUTTERS, BOLT CUTTERS, PERFORATING PUNCHES AND SIMILAR TOOLS, AND PARTS THEREOF, OF BASE METAL.
* * * * * * *
820412 | SPANNERS AND WRENCHES, HAND-OPERATED, ADJUSTABLE, AND PARTS THEREOF, OF BASE METAL.
820420 | SOCKET WRENCHES WITH OR WITHOUT HANDLES, DRIVES AND EXTENSIONS, AND PARTS THEREOF, OF BASE METAL.
820510 | DRILLING, THREADING OR TAPPING TOOLS, AND PARTS THEREOF, OF BASE METAL.
820520 | HAMMERS AND SLEDGE HAMMERS AND PARTS THEREOF, OF BASE METAL.
820530 | PLANES, CHISELS, GOUGES AND SIMILAR CUTTING TOOLS FOR WOOD WORKING, AND PARTS THEREOF, OF BASE METAL.
820540 | SCREWDRIVERS, AND PARTS THEREOF, OF BASE METAL.
820551 | HOUSEHOLD HANDTOOLS NESOI, AND PARTS THEREOF, OF BASE METAL.
* * * * * * *
820560 | BLOW TORCHES AND SIMILAR SELF-CONTAINED TORCHES, AND PARTS THEREOF, OF BASE METAL.
820570 | VISES, CLAMPS AND THE LIKE, AND PARTS THEREOF, OF BASE METAL.
820590 | HANDTOOLS, INCLUDING SETS OF ARTICLES OF TWO OR MORE SUBHEADINGS OF 8205, NESOI.
820600 | TOOLS OF TWO OR MORE OF THE HEADINGS 8202 TO 8205 (SAWS, FILES, PLIERS, WRENCHES ETC. AND HANDTOOLS ETC. NESOI) PUT UP IN SETS FOR RETAIL SALE.
820720 | DIES FOR DRAWING OR EXTRUDING METAL, AND PARTS THEREOF, OF BASE METAL.
820730 | TOOLS FOR PRESSING, STAMPING OR PUNCHING, AND PARTS THEREOF, OF BASE METAL.
820740 | TOOLS FOR TAPPING OR THREADING, AND PARTS THEREOF, OF BASE METAL.
820750 | TOOLS FOR DRILLING, OTHER THAN ROCK DRILLING, AND PARTS THEREOF, OF BASE METAL.
* * * * * * *
820770 | TOOLS FOR MILLING, AND PARTS THEREOF, OF BASE METAL.
820780 | TOOLS FOR TURNING, OF BASE METAL.
* * * * * * *
820900 | PLATES, STICKS, TIPS AND THE LIKE FOR TOOLS, UNMOUNTED, OF CERMETS.
821000 | HAND-OPERATED MECHANICAL APPLIANCES, WEIGHING NOT OVER 10 KG, FOR PREPARING, CONDITIONING OR SERVING FOOD OR DRINK, AND BASE METAL PARTS THEREOF.
821110 | SETS OF ASSORTED KNIVES AND BLADES, OTHER THAN KNIVES FOR MACHINES OR MECHANICAL APPLIANCES AND BLADES THEREFOR OF HEADING 8208.
821191 | TABLE KNIVES HAVING FIXED BLADES, AND PARTS THEREOF, OF BASE METAL.
821192 | KNIVES, OTHER THAN TABLE KNIVES, HAVING FIXED BLADES, AND PARTS THEREOF, OF BASE METAL.
821193 | KNIVES HAVING OTHER THAN FIXED BLADES, AND PARTS THEREOF (EXCEPT BLADES), OF BASE METAL.
821194 | BLADES FOR KNIVES, NESOI.
821195 | HANDLES OF BASE METAL FOR KNIVES WITH CUTTING BLADES, OTHER THAN THOSE OF 8208.
821210 | RAZORS.
821220 | SAFETY RAZOR BLADES, INCLUDING BLADE BLANKS IN STRIPS.
821290 | PARTS FOR RAZORS NESOI, OF BASE METAL.
821300 | SCISSORS, TAILORS' SHEARS AND SIMILAR SHEARS, AND BLADES AND OTHER BASE METAL PARTS THEREOF.
821410 | PAPER KNIVES, LETTER OPENERS, ERASING KNIVES, PENCIL SHARPENERS (NONMECHANICAL), BLADES, AND PARTS THEREOF, OF BASE METAL.
821420 | MANICURE OR PEDICURE SETS AND INSTRUMENTS (INCLUDING NAIL FILES) AND BASE METAL PARTS THEREOF.
821490 | ARTICLES OF CUTLERY NESOI, AND PARTS THEREOF, OF BASE METAL.
821510 | SETS OF ASSORTED KITCHENWARE OR TABLEWARE OF BASE METAL, CONTAINING AT LEAST ONE ARTICLE PLATED WITH PRECIOUS METAL.
821520 | SETS OF ASSORTED KITCHENWARE OR TABLEWARE OF BASE METAL, CONTAINING NO ARTICLES PLATED WITH PRECIOUS METAL.
821591 | SPOONS, FORKS, LADLES, CAKE-SERVERS, SUGAR TONGS AND LIKE KITCHEN OR TABLEWARE OF BASE METAL (NO SETS), AND PARTS THEREOF, PLATED WITH PRECIOUS METAL.
821599 | SPOONS, FORKS, LADLES, CAKE-SERVERS, SUGAR TONGS AND LIKE KITCHEN OR TABLEWARE OF UNPLATED BASE METAL (NO SETS), AND PARTS THEREOF, NESOI.
830110 | PADLOCKS OF BASE METAL.
* * * * * * *
830130 | LOCKS OF A KIND USED FOR FURNITURE, OF BASE METAL.
830140 | LOCKS (KEY, COMBINATION OR ELECTRICALLY OPERATED), EXCEPT FOR MOTOR VEHICLES OR FURNITURE, OF BASE METAL.
830150 | CLASPS AND FRAMES WITH CLASPS, INCORPORATING LOCKS, OF BASE METAL.
830160 | PARTS OF LOCKS, OF BASE METAL.
* * * * * * *
830210 | HINGES, AND PARTS THEREOF, OF BASE METAL.
830220 | CASTORS, AND PARTS THEREOF, OF BASE METAL.
* * * * * * *
830241 | MOUNTINGS, FITTINGS AND SIMILAR ARTICLES NESOI (EXCEPT HINGES AND CASTORS), AND PARTS THEREOF, SUITABLE FOR BUILDINGS, OF BASE METAL.
830242 | MOUNTINGS, FITTINGS AND SIMILAR ARTICLES NESOI (EXCEPT HINGES AND CASTORS), AND PARTS THEREOF, SUITABLE FOR FURNITURE, OF BASE METAL.
830249 | MOUNTINGS, FITTINGS AND SIMILAR ARTICLES, AND PARTS THEREOF, NESOI, OF BASE METAL.
830250 | HAT-RACKS, HAT PEGS, BRACKETS AND SIMILAR FIXTURES, AND PARTS THEREOF, OF BASE METAL.
830260 | AUTOMATIC DOOR CLOSURES, AND PARTS THEREOF, OF BASE METAL.
830300 | ARMORED OR REINFORCED SAFES, STRONG-BOXES, DOORS AND SAFE DEPOSIT LOCKERS FOR STRONG-ROOMS, CASH OR DEED BOXES ETC., AND PARTS THEREOF, OF BASE METAL.
830400 | DESK-TOP FILING OR CARD-INDEX CABINETS, PAPER TRAYS, PAPER RESTS, PEN TRAYS AND SIMILAR DESK ETC. ITEMS (NO FURNITURE) AND THEIR PARTS, OF BASE METAL.
830510 | FITTINGS FOR LOOSELEAF BINDERS OR FILES, OF BASE METAL.
830520 | STAPLES IN STRIPS, OF BASE METAL.
830590 | LETTER CLIPS, LETTER CORNERS, PAPER CLIPS, INDEXING TAGS AND SIMILAR OFFICE ARTICLES, AND PARTS THEREOF, OF BASE METAL.
830610 | BELLS, GONGS AND THE LIKE, AND PARTS THEREOF, OF BASE METAL.
830630 | PHOTOGRAPH, PICTURE OR SIMILAR FRAMES AND MIRRORS, AND PARTS THEREOF, OF BASE METAL.
* * * * * * *
830810 | HOOKS, EYES AND EYELETS, OF BASE METAL.
830820 | TUBULAR OR BIFURCATED RIVETS, OF BASE METAL.
830890 | CLASPS, FRAMES WITH CLASPS, BUCKLES, BUCKLE CLASPS, AND PARTS THEREOF, NESOI, OF BASE METAL.
* * * * * * *
831000 | SIGN PLATES, NAME PLATES, ADDRESS PLATES AND SIMILAR PLATES, NUMBERS, LETTERS AND OTHER SYMBOLS (NOT ILLUMINATED), AND PARTS THEREOF, OF BASE METAL.
831110 | COATED ELECTRODES OF BASE METAL, FOR ELECTRIC ARC-WELDING.
831120 | CORED WIRE OF BASE METAL, FOR ELECTRIC ARC-WELDING.
831130 | COATED RODS AND CORED WIRE, OF BASE METAL, FOR SOLDERING, BRAZING OR WELDING BY FLAME.
831190 | TUBES, PLATES ETC. OF BASE METAL OR METAL CARBIDES WITH FLUX MATERIAL FOR WELDING ETC.; WIRE AND RODS OF AGGLOMERATED BASE METAL POWDER; PARTS THEREOF.
* * * * * * *
860120 | RAIL LOCOMOTIVES POWERED BY ELECTRIC ACCUMULATORS (BATTERIES).
* * * * * * *
860310 | SELF-PROPELLED RAILWAY OR TRAMWAY COACHES, VANS AND TRUCKS (EXCEPT RAILWAY OR TRAMWAY MAINTENANCE OR SERVICE VEHICLES), POWERED EXTERNALLY, ELECTRIC.
860390 | SELF-PROPELLED RAILWAY OR TRAMWAY COACHES, VANS AND TRUCKS (EXCEPT RAILWAY OR TRAMWAY MAINTENANCE OR SERVICE VEHICLES), NESOI.
* * * * * * *
860500 | RAILWAY OR TRAMWAY PASSENGER COACHES, LUGGAGE VANS, POST OFFICE COACHES AND OTHER SPECIAL PURPOSE RAIL OR TRAMWAY COACHES, NOT SELF-PROPELLED, NESOI.
* * * * * * *
860711 | TRUCK ASSEMBLIES FOR SELF-PROPELLED RAILWAY OR TRAMWAY LOCOMOTIVES OR ROLLING STOCK.
860712 | TRUCK ASSEMBLIES, NESOI, FOR RAILWAY OR TRAMWAY ROLLING STOCK.
860719 | TRUCK AXLES AND WHEELS AND PARTS THEREOF, INCLUDING PARTS OF TRUCK ASSEMBLIES, FOR RAILWAY OR TRAMWAY VEHICLES.
860721 | AIRBRAKES AND PARTS THEREOF, FOR RAILWAY OR TRAMWAY VEHICLES.
860729 | BRAKES (EXCEPT AIRBRAKES) AND PARTS THEREOF, FOR RAILWAY OR TRAMWAY VEHICLES.
860730 | HOOKS AND OTHER COUPLING DEVICES, BUFFERS AND PARTS THEREOF, FOR RAILWAY OR TRAMWAY VEHICLES.
860791 | PARTS OF RAILWAY OR TRAMWAY LOCOMOTIVES, NESOI.
860799 | PARTS OF RAILWAY OR TRAMWAY VEHICLES, OTHER THAN LOCOMOTIVES, NESOI.
860800 | RAIL TRACK FIXTURES; MECHANICAL SIGNALING, SAFETY OR TRAFFIC CONTROL EQUIPMENT FOR RAIL, ROAD, WATERWAY, PARKING, AIRFIELD ETC. AREAS; PARTS THEREOF.
860900 | CONTAINERS (INCLUDING CONTAINERS FOR THE TRANSPORT OF FLUIDS) SPECIALLY DESIGNED AND EQUIPPED FOR CARRIAGE BY ONE OR MORE MODES OF TRANSPORT.
870110 | TRACTORS, PEDESTRIAN CONTROLLED TYPE (OTHER THAN TRACTORS OF THE TYPE USED ON RAILWAY STATION PLATFORMS).
* * * * * * *
870129 | ROAD TRACTORS FOR SEMI-TRAILERS.
* * * * * * *
870191 | TRACTORS (OTHER THAN TRACTORS OF HEADING 8709), NOT EXCEEDING 18KW.
870192 | TRACTORS (OTHER THAN TRACTORS OF HEADING 8709), EXCEEDING 18 KW BUT NOT EXCEEDING 37 KW.
870193 | TRACTORS (OTHER THAN TRACTORS OF HEADING 8709), EXCEEDING 37 KW BUT NOT EXCEEDING 75 KW.
870194 | TRACTORS (OTHER THAN TRACTORS OF HEADING 8709), EXCEEDING 75 KW BUT NOT EXCEEDING 130 KW.
870195 | TRACTORS (OTHER THAN TRACTORS OF HEADING 8709) EXCEEDING 130 KW.
870210 | MOTOR VEHICLES FOR THE TRANSPORT OF TEN OR MORE PERSONS, WITH A COMPRESSION-IGNITION INTERNAL COMBUSTION PISTON ENGINE (DIESEL OR SEMI-DIESEL).
870220 | MOTOR VEHICLES FOR TRANSPORT OF 10 OR MORE WITH BOTH COMPRESSION-IGNITION INTERNAL COMBUST PISTON ENG (DIESEL OR SEMI-DIESEL) AND ELECTRIC MOTOR.
870230 | MOTOR VEHICLES FOR TRANSPORT OF 10 OR MORE WITH BOTH SPARK-IGNITION RECIPROCATING PISTON AND ELECTRIC MOTOR.
870240 | MOTOR VEHICLES FOR TRANSPORT OF 10 OR MORE WITH ONLY ELECTRIC MOTOR FOR PROPULSION.
870290 | MOTOR VEHICLES FOR THE TRANSPORT OF TEN OR MORE PERSONS, NESOI.
* * * * * * *
870790 | BODIES (INCLUDING CABS) FOR ROAD TRACTORS FOR SEMI-TRAILERS, MOTOR VEHICLES FOR PUBLIC-TRANSPORT OF PASSENGERS, GOODS TRANSPORT AND SPECIAL PURPOSE.
870810 | BUMPERS AND PARTS THEREOF FOR MOTOR VEHICLES.
870821 | SAFETY SEAT BELTS FOR MOTOR VEHICLES.
870822 | LAMINATED SAFETY GLASS, OF SIZE AND SHAPE SUITABLE FOR INCORPORATION IN VEHICLES, AIRCRAFT, SPACECRAFT OR VESSELS.
870829 | PARTS AND ACCESSORIES OF BODIES (INCLUDING CABS) FOR MOTOR VEHICLES, NESOI.
870830 | BRAKES AND SERVO-BRAKES; PARTS THEREOF.
870840 | GEAR BOXES FOR MOTOR VEHICLES.
870850 | DRIVE AXLES WITH DIFFERENTIAL FOR MOTOR VEHICLES.
870870 | ROAD WHEELS AND PARTS AND ACCESSORIES THEREOF FOR MOTOR VEHICLES.
870880 | SUSPENSION SHOCK ABSORBERS FOR MOTOR VEHICLES.
870891 | RADIATORS FOR MOTOR VEHICLES.
870892 | MUFFLERS AND EXHAUST PIPES FOR MOTOR VEHICLES.
870893 | CLUTCHES AND PARTS THEREOF FOR MOTOR VEHICLES.
870894 | STEERING WHEELS, STEERING COLUMNS AND STEERING BOXES FOR MOTOR VEHICLES.
870895 | SAFETY AIRBAGS WITH INFLATOR SYSTEM; PARTS THEREOF.
* * * * * * *
870919 | WORKS TRUCKS (NOT LIFTING OR HANDLING) USED IN FACTORIES ETC. AND TRACTORS USED ON RAILWAY STATION PLATFORMS, NOT ELECTRICAL.
* * * * * * *
871000 | TANKS AND OTHER ARMORED FIGHTING VEHICLES, MOTORIZED, WHETHER OR NOT FITTED WITH WEAPONS, AND PARTS OF SUCH VEHICLES.
871110 | MOTORCYCLES AND CYCLES WITH AN AUXILIARY MOTOR, WITH RECIPROCATING INTERNAL COMBUSTION PISTON ENGINE, CYLINDER CAPACITY NOT OVER 50 CC.
871200 | BICYCLES AND OTHER CYCLES (INCLUDING DELIVERY TRICYCLES), NOT MOTORIZED.
871491 | FRAMES AND FORKS, AND PARTS THEREOF FOR BICYCLES AND OTHER CYCLES NESOI.
871492 | WHEEL RIMS AND SPOKES FOR BICYCLES AND OTHER CYCLES NESOI.
871493 | HUBS (OTHER THAN COASTER BRAKING HUBS AND HUB BRAKES) AND FREE-WHEEL SPROCKET-WHEELS FOR BICYCLES AND OTHER CYCLES NESOI.
871494 | BRAKES, INCLUDING COASTER BRAKING HUBS AND HUB BRAKES AND PARTS THERE OF, FOR BICYCLES AND OTHER CYCLES NESOI.
871495 | SADDLES FOR BICYCLES AND OTHER CYCLES NESOI.
871496 | PEDALS AND CRANK-GEAR, AND PARTS THEREOF FOR BICYCLES AND OTHER CYCLES NESOI.
871499 | PARTS AND ACCESSORIES NESOI, FOR BICYCLES AND OTHER CYCLES NESOI.
871610 | TRAILERS AND SEMI-TRAILERS FOR HOUSING OR CAMPING.
* * * * * * *
871631 | TANKER TRAILERS AND TANKER SEMI-TRAILERS.
* * * * * * *
871640 | TRAILERS AND SEMI-TRAILERS, NESOI.
871680 | VEHICLES (OTHER THAN TRAILERS AND SEMI-TRAILERS), NOT MECHANICALLY PROPELLED, NESOI.
* * * * * * *
890120 | TANKERS FOR THE TRANSPORT OF GOODS.
890130 | REFRIGERATED VESSELS, OTHER THAN TANKERS.
890190 | VESSELS NESOI, FOR THE TRANSPORT OF GOODS, AND OTHER VESSELS NESOI, FOR THE TRANSPORT OF BOTH PERSONS AND GOODS.
890200 | FISHING VESSELS; FACTORY SHIPS AND OTHER VESSELS FOR PROCESSING OR PRESERVING FISHERY PRODUCTS.
* * * * * * *
890400 | TUGS AND PUSHER CRAFT VESSELS.
890510 | DREDGERS (VESSELS).
890610 | WARSHIPS (INCLUDING SUBMARINES, TROOPSHIPS ETC.).
890690 | VESSELS (OTHER THAN WARSHIPS) INCLUDING LIFEBOATS, OTHER THAN ROW BOATS, NESOI.
890710 | INFLATABLE RAFTS.
890790 | FLOATING STRUCTURES (FOR EXAMPLE, TANKS, COFFERDAMS, LANDING-STAGES, BUOYS AND BEACONS), EXCEPT INFLATABLE RAFTS.
890800 | VESSELS AND FLOATING STRUCTURES FOR BREAKING UP (SCRAPPING).
* * * * * * *
930200 | REVOLVERS AND PISTOLS, DESIGNED TO FIRE LIVE AMMUNITION.
930310 | MUZZLE-LOADING FIREARMS.
930320 | SPORTING, HUNTING OR TARGET-SHOOTING SHOTGUNS, INCLUDING COMBINATION SHOTGUN-RIFLES, EXCEPT MUZZLE-LOADING FIREARMS.
930330 | SPORTING, HUNTING OR TARGET-SHOOTING RIFLES, EXCEPT MUZZLE-LOADING FIREARMS AND COMBINATION SHOTGUN-RIFLES.
930390 | DEVICES DESIGNED TO PROJECT ONLY SIGNAL FLARES; PISTOLS AND REVOLVERS FOR FIRING BLANK AMMUNITION; CAPTIVE-BOLT HUMANE KILLERS; LINE-THROWING GUNS.
930400 | ARMS NESOI (INCLUDING SPRING, AIR OR GAS GUNS AND PISTOLS, BUT EXCLUDING SWORDS, BAYONETS AND SIMILAR ARMS).
930510 | PARTS AND ACCESSORIES OF REVOLVERS OR PISTOLS.
930520 | PARTS AND ACCESSORIES OF SHOTGUNS OR RIFLES OF HEADING 9303.
930599 | PARTS AND ACCESSORIES OF ARTICLES OF HEADINGS 9303 TO 9304, NESOI.
930621 | SHOTGUN CARTRIDGES.
930629 | AIR GUN PELLETS AND PARTS OF SHOTGUN CARTRIDGES.
930630 | CARTRIDGES AND PARTS THEREOF, NESOI.
930690 | BOMBS, GRENADES, TORPEDOES, MINES, MISSILES AND SIMILAR MUNITIONS OF WAR AND PARTS THEREOF; OTHER AMMUNITION AND PROJECTILES AND PARTS THEREOF, NESOI.
930700 | SWORDS, CUTLASSES, BAYONETS, LANCES AND SIMILAR ARMS AND PARTS THEREOF AND SCABBARDS AND SHEATHS THEREFOR.
* * * * * * *
960350 | BRUSHES NESOI, CONSTITUTING PARTS OF MACHINES, APPLIANCES OR VEHICLES.
960390 | HAND-OPERATED MECHANICAL (NOT MOTORIZED) FLOOR SWEEPERS, MOPS AND FEATHER DUSTERS; PREPARED KNOTS AND TUFTS FOR BROOM OR BRUSH MAKING, NESOI.

19. Supplement no. 5 to part 746 is amended by revising the heading, paragraph (a), and first sentence of paragraph (b) to read as follows:

Supplement No. 5 to Part 746—‘Luxury Goods’ Sanctions for Russia and Belarus Pursuant to § 746.8(a)(7)

(a) The source for the Harmonized Tariff Schedule (HTS)-6 codes and descriptions in this list is the United States International Trade Commission (USITC)'s Harmonized Tariff Schedule of the United States (2023). The items described in supplement no. 5 to part 746 include any modified or designed “components,” “parts,” “accessories,” and “attachments” therefor regardless of the HTS Code or HTS Description of the “components,” “parts,” “accessories,” and “attachments,” apart from any “part” or minor “component” that is a fastener (e.g., screw, bolt, nut, nut plate, stud, insert, clip, rivet, pin), washer, spacer, insulator, grommet, bushing, spring, wire, or solder. The exclusion of fasteners from this control does not apply to fasteners that are designated under an HTS Code under this supplement. Although generally fasteners (e.g., screws, bolts, nuts, nut plates, studs, inserts, clips, rivets, pins), and washers, spacers, insulators, grommets, bushings, springs, wires, and solder are excluded from the scope of this supplement, see part 744 of the EAR for license requirements for Russia and Belarus that apply to all items “subject to the EAR,” e.g., § 744.21 and the Entity List license requirements, which in most cases extend to all items “subject to the EAR.” This supplement includes two columns consisting of the HTS Code and HTS Description and Per Unit Wholesale Price in the U.S. if applicable to assist exporters, reexporters, and transferors in identifying the products in this supplement. For information on HTS codes in general, you may contact a local import specialist at U.S. Customs and Border Protection at the nearest port. HTS-6 Codes 590500, 840710, 840721, 840729, 840731, 840732, 840733, 840734, 840790, 840810, 840820, 840890, 840910, 840991, 840999, 841111, 841112, 841121, 841122, 841181, 841182, 841191, 841199, 841229, 841290, 841451, 841459, 841460, 841510, 841810, 841821, 841829, 841830, 841840, 841981, 842211, 842310, 842860, 843139, 844312, 844331, 844332, 844339, 845011, 845012, 845019, 845121, 845210, 847010, 847021, 847029, 847030, 847130, 847141, 847149, 847150, 847160, 847170, 847180, 847190, 847290, 847960, 848310, 848320, 848330, 848340, 848350, 848360, 848390, 850811, 850819, 850860, 850980, 851110, 851120, 851130, 851140, 851150, 851180, 851190, 851220, 851230, 851240, 851631, 851650, 851660, 851671, 851672, 851679, 851711, 851713, 851718, 851761, 851762, 851769, 851920, 851930, 851981, 851989, 852110, 852190, 852691, 852712, 852713, 852719, 852721, 852729, 852791, 852792, 852799, 852871, 852872, 852910, 853110, 854370, 854430, 870310, 870321, 870322, 870323, 870324, 870331, 870332, 870333, 870340, 870350, 870360, 870370, 870380, 870390, and 902000 are listed in both this supplement and supplement no. 4 to this part, so exporters, reexporters, and transferors must comply with the license requirements under both §§ 746.8(a)(5) and (7) as applicable.

(b) The items identified in the HTS-6 Code column of this supplement are subject to the license requirement under § 746.8(a)(7). * * *

* * * * *

20. Supplement no. 6 to part 746 is amended by:

a. Revising the heading; and

b. Adding paragraph (h), to read as follows:

Supplement No. 6 to Part 746—Russian and Belarusian Industry Sector Sanctions Pursuant to § 746.8(a)(6)

* * * * *

(h) Riot Control Agents which are isomers of CS (o-Chlorobenzylidenemalononitrile or o-Chlorobenzalmalononitrile) (CAS 2698-41-1); CN (Phenylacyl chloride or w-Chloroacetophenone) (CAS 532-27-4); or Oleoresin Capsicum (CAS 8023-77-6) as follows:

(1) 8-Methyl-N-vanillyl-trans-6-nonenamide (Capsaicin) (CAS 404-86-4);

(2) 8-Methyl-N-vanillylnonamide (Dihydrocapsaicin) (CAS 19408-84-5);

(3) N-Vanillylnonamide (Pseudocapsaicin, PAVA) (CAS 2444-46-4);

(4) N-Vanillyl-9-methyldec-7-(E)-enamide (Homocapsaicin) (CAS 58493-48-4);

(5) N-Vanillyl-9-methyldecanamide (Homodihydrocapsaicin) (CAS 20279-06-5);

(6) N-Vanillyl-7-methyloctanamide (Nordihydrocapsaicin) (CAS 28789-35-7);

(7) 2′-chloroacetophenone (CAS 2142-68-9);

(8) 3′-chloroacetophenone (CAS 99-02-5);

(9) α-chlorobenzylidenemalononitrile (CAS 18270-61-6); and

(10) Cis-4-acetylaminodicyclohexylmethane (CAS 37794-87-9).

21. Supplement no. 7 to part 746 is amended by revising paragraph (a) to read as follows:

Supplement No. 7 to Part 746—Items That Require a License Under § 746.6 When Destined to the Temporarily Occupied Crimea Region of Ukraine, Under § 746.7 When Destined to Iran, and Under § 746.8 When Destined to Russia or Belarus

* * * * *

(a) The source for the Harmonized Tariff Schedule (HTS)-6 codes and descriptions in this list is the United States International Trade Commission (USITC)'s Harmonized Tariff Schedule of the United States (2023). The items described in this supplement include any modified or designed “components,” “parts,” “accessories,” and “attachments” therefor regardless of the HTS Code or HTS Description of the “components,” “parts,” “accessories,” and “attachments,” apart from any “part” or minor “component” that is a fastener (e.g., screw, bolt, nut, nut plate, stud, insert, clip, rivet, pin), washer, spacer, insulator, grommet, bushing, spring, wire, or solder. The exclusion of fasteners from this control does not apply to fasteners that are designated under an HTS Code under this supplement. Although generally fasteners (e.g., screws, bolts, nuts, nut plates, studs, inserts, clips, rivets, pins), and washers, spacers, insulators, grommets, bushings, springs, wires, and solder are excluded from the scope of this supplement, see part 744 of the EAR for license requirements for Russia and Belarus that apply to all items “subject to the EAR,” e.g., § 744.21 of the EAR and the Entity List license requirements, which in most cases extend to all items “subject to the EAR.” This supplement includes two columns consisting of the HTS Code and HTS Description to assist exporters, reexporters, and transferors in identifying the products in this supplement. For information on HTS codes in general, you may contact a local import specialist at U.S. Customs and Border Protection at the nearest port.

* * * * *

PART 774—THE COMMERCE CONTROL LIST

22. The authority citation for part 774 continues to read as follows:

Authority: 50 U.S.C. 4801-4852; 50 U.S.C. 4601 et seq.; 50 U.S.C. 1701 et seq.; 10 U.S.C. 8720; 10 U.S.C. 8730(e); 22 U.S.C. 287c, 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

23. Supplement no. 1 to part 774 is amended by revising ECCNs 0A998, 1C992, 3A229, 3A231, 3A232, 6A991, 8A992, and 8D999 to read as follows:

Supplement No. 1 to Part 774—The Commerce Control List

* * * * *

0A998 Oil and gas exploration equipment, software, and data, as follows (see List of Items Controlled).

License Requirements

Reason for Control: Foreign policy

Control(s) | Country chart
Russian industry sector sanction applies to entire entry | See § 746.8 for specific license requirements and license review policy.

List Based License Exceptions (See Part 740 for a Description of All License Exceptions)

LVS: N/A

GBS: N/A

List of Items Controlled

Related Controls: N/A

Related Definitions: N/A

Items:

a. Oil and gas exploration data, e.g., seismic analysis data.

b. Hydraulic fracturing items, as follows:

b.1. Hydraulic fracturing design and analysis software and data.

b.2. Hydraulic fracturing ‘proppant,’ ‘fracking fluid,’ and chemical additives therefor.

Technical Note: A ‘proppant’ is a solid material, typically treated sand or man-made ceramic materials, designed to keep an induced hydraulic fracture open, during or following a fracturing treatment. It is added to a ‘fracking fluid’ which may vary in composition depending on the type of fracturing used, and can be gel, foam or slickwater-based.

b.3. High pressure pumps.

* * * * *

1C992 Commercial charges and devices containing energetic materials, n.e.s. and nitrogen trifluoride in a gaseous state (see List of Items Controlled).

License Requirements

Reason for Control: AT, RS, foreign policy

Control(s) | Country chart (see Supp. No. 1 to part 738)
AT applies to entire entry | AT Column 1.
RS applies to entire entry | A license is required for items controlled by this entry for export or reexport to Iraq and transfer within Iraq for regional stability reasons. The Commerce Country Chart is not designed to determine RS license requirements for this entry. See §§ 742.6 and 746.3 of the EAR for additional information.
Russian industry sector sanctions apply to entire entry | See § 746.8 for specific license requirements and license review policy.

List Based License Exceptions (See Part 740 for a Description of All License Exceptions)

LVS: N/A

GBS: N/A

List of Items Controlled

Related Controls: (1) Commercial charges and devices “subject to the EAR,” contain energetic materials described on the USML that exceed the quantities noted or that are not covered by this entry are controlled under ECCN 1C608. (2) Nitrogen trifluoride when not in a gaseous state is controlled under ECCN 1C608.

Related Definitions: (1) Items controlled by this entry ECCN 1C992 are those materials not controlled by ECCN 1C608 and not “subject to the ITAR.” (2) For purposes of this entry, the term “controlled materials” means controlled energetic materials (see ECCNs 1C011, 1C111, 1C239, and 1C608; see also 22 CFR 121.1, Category V). (3) The individual energetic materials described on the USML, even when compounded with other materials, remain “subject to the ITAR” when not incorporated into explosive devices or charges. (4) Commercial prefabricated slurries and emulsions containing greater than 35% of energetic materials described on the USML are “subject to the ITAR.” (5) For purposes of this entry, the mass of aluminum powder, potassium perchlorate, and any of the substances listed in the note to the USML (see 22 CFR 121.12) (such as ammonium pictrate, black powder, etc.) contained in commercial explosive devices and in the charges are omitted when determining the total mass of controlled material.

Items:

a. Shaped charges “specially designed” for oil well operations, utilizing one charge functioning along a single axis, that upon detonation produce a hole, and

a.1. Contain any formulation of controlled materials;

a.2. Have only a uniform shaped conical liner with an included angle of 90 degrees or less;

a.3. Contain more than 0.010 kg but less than or equal to 0.090 kg of controlled materials; and

a.4. Have a diameter not exceeding 4.5 inches;

b. Shaped charges “specially designed” for oil well operations containing less than or equal to 0.010 kg of controlled materials;

c. Detonation cord or shock tubes containing less than or equal to 0.064 kg per meter (300 grains per foot) of controlled materials;

d. Cartridge power devices, that contain less than or equal to 0.70 kg of controlled materials in the deflagration material;

e. Detonators (electric or nonelectric) and assemblies thereof, that contain less than or equal to 0.01 kg of controlled materials;

f. Igniters, that contain less than or equal to 0.01 kg of controlled materials;

g. Oil well cartridges, that contain less than or equal to 0.015 kg of controlled energetic materials;

h. Commercial cast or pressed boosters containing less than or equal to 1.0 kg of controlled materials;

i. Commercial prefabricated slurries and emulsions containing less than or equal to 10.0 kg and less than or equal to thirty-five percent by weight of materials described on the USML;

j. Cutters and severing tools containing less than or equal to 3.5 kg of controlled materials;

k. Pyrotechnic devices when designed exclusively for commercial purposes (e.g., theatrical stages, motion picture special effects, and fireworks displays) and containing less than or equal to 3.0 kg of controlled materials; or

l. Other commercial explosive devices and charges not controlled by 1C992.a through .k containing less than or equal to 1.0 kg of controlled materials.

Note: 1C992.l includes automotive safety devices; extinguishing systems; cartridges for riveting guns; explosive charges for agricultural, oil and gas operations, sporting goods, commercial mining, or public works purposes; and delay tubes used in the assembly of commercial explosive devices.

m. Nitrogen trifluoride (NF3) in a gaseous state.

* * * * *

3A229 Firing sets and equivalent high-current pulse generators for detonators controlled by 3A232 (see List of Items Controlled).

License Requirements

Reason for Control: NP, AT, foreign policy

Control(s) | Country chart (see Supp. No. 1 to part 738)
NP applies to entire entry | NP Column 1.
AT applies to entire entry | AT Column 1.
Russian industry sector sanctions apply to entire entry | See § 746.8 for specific license requirements and license review policy.

List Based License Exceptions (See Part 740 for a Description of All License Exceptions)

LVS: N/A

GBS: N/A

List of Items Controlled

Related Controls: (1) See ECCNs 3E001 and 1E001 (“development” and “production”) and 3E201 and 1E201 (“use”) for technology for items controlled under this entry. (2) See 1A007.a for explosive detonator firing sets designed to drive explosive detonators controlled by 1A007.b. (3) High explosives and related equipment for military use are “subject to the ITAR” (see 22 CFR parts 120 through 130).

Related Definitions: N/A

ECCN Controls: (1) Optically driven firing sets include both those employing laser initiation and laser charging. (2) Explosively driven firing sets include booth explosive ferroelectric and explosive ferromagnetic firing set types. (3) 3A229.b includes xenon flash-lamp drivers.

Items:

a. Detonator firing sets (initiation systems, firesets), including electronically-charged, explosively-driven and optically-driven firing sets designed to drive multiple controlled detonators controlled by 3A232;

b. Modular electrical pulse generators (pulsers) having all of the following characteristics:

b.1. Designed for portable, mobile, or ruggedized use;

b.2. Capable of delivering their energy in less than 15 µs into loads of less than 40 Ω (ohms);

b.3. Having an output greater than 100 A;

b.4. No dimension greater than 30 cm;

b.5. Weight less than 30 kg; and

b.6. Specified for use over an extended temperature range 223 K (−50 °C) to 373 K (100 °C) or specified as suitable for aerospace applications.

c. Micro-firing units having all of the following characteristics:

c.1. No dimension greater than 35 mm;

c.2. Voltage rating of equal to or greater than 1 kV; and

c.3. Capacitance of equal to or greater than 100 nF.

* * * * *

3A231 Neutron generator systems, including tubes, having both of the characteristics described in this ECCN (see List of Items Controlled).

License Requirements

Reason for Control: NP, AT, foreign policy

Control(s) | Country chart (see Supp. No. 1 to part 738)
NP applies to entire entry | NP Column 1.
AT applies to entire entry | AT Column 1.
Russian industry sector sanctions apply to entire entry | See § 746.8 for specific license requirements and license review policy.

List Based License Exceptions (See Part 740 for a Description of All License Exceptions)

LVS: N/A

GBS: N/A

List of Items Controlled

Related Controls: See ECCNs 3E001 (“development” and “production”) and 3E201 (“use”) for technology for items controlled under this entry.

Related Definitions: N/A

Items:

a. Designed for operation without an external vacuum system; and

b. Utilizing electrostatic acceleration to induce:

b.1. A tritium-deuterium nuclear reaction; or

b.2. A deuterium-deuterium nuclear reaction and capable of an output of 3 × 10⁹ neutrons/s or greater.

3A232 Detonators and multipoint initiation systems, as follows (see List of Items Controlled).

License Requirements

Reason for Control: AT, RS, foreign policy

Control(s) | Country chart (see Supp. No. 1 to part 738)
NP applies to entire entry | NP Column 1.
AT applies to entire entry | AT Column 1.
Russian industry sector sanctions apply to entire entry | See § 746.8 for specific license requirements and license review policy.

List Based License Exceptions (See Part 740 for a Description of All License Exceptions)

LVS: N/A

GBS: N/A

List of Items Controlled

Related Controls: (1) See ECCNs 0A604 and 1A007 for electrically driven explosive detonators. (2) See ECCNs 3E001 (“development” and “production”) and 3E201 (“use”) for technology for items controlled under this entry. (3) High explosives and related equipment for military use are “subject to the ITAR” (see 22 CFR parts 120 through 130).

Related Definitions: N/A

ECCN Controls: This entry does not control detonators using only primary explosives, such as lead azide.

Items:

a. [Reserved]

b. Arrangements using single or multiple detonators designed to nearly simultaneously initiate an explosive surface over an area greater than 5,000 mm² from a single firing signal with an initiation timing spread over the surface of less than 2.5 µs.

Technical Note: The word initiator is sometimes used in place of the word detonator.

* * * * *

6A991 Marine or terrestrial acoustic equipment, n.e.s., capable of detecting or locating underwater objects or features or positioning surface vessels or underwater vehicles; and “specially designed” “parts” and “components,” n.e.s.

License Requirements

Reason for Control: AT, foreign policy

Control(s) | Country chart (see Supp. No. 1 to part 738)
AT applies to entire entry | AT Column 2.
Russian industry sector sanctions apply to entire entry | See § 746.8 for specific license requirements and license review policy.

List Based License Exceptions (See Part 740 for a Description of All License Exceptions)

LVS: N/A

GBS: N/A

List of Items Controlled

Related Controls: N/A

Related Definitions: N/A

Items: The list of items controlled is contained in the ECCN heading.

* * * * *

8A992 Vessels, marine systems or equipment, not controlled by 8A001 or 8A002, and “specially designed” “parts” and “components” therefor, and marine boilers and “parts,” “components,” “accessories,” and “attachments” therefor (see List of Items Controlled).

License Requirements

Reason for Control: AT, Foreign policy

Control(s) | Country chart (see Supp. No. 1 to part 738)
AT applies to entire entry | AT Column 1.
Russian industry sector sanctions apply to entire entry | See § 746.8 for specific license requirements and license review policy.

List Based License Exceptions (See Part 740 for a Description of All License Exceptions)

LVS: N/A

GBS: N/A

List of Items Controlled

Related Controls: 1. See also 8A002. 2. Marine gas turbine engines are not controlled in paragraph .g of this entry. See ECCN 9A619 for possible controls on marine gas turbine engines specially designed for a military use. See ECCN 9A002 for possible controls on marine gas turbine engines not specially designed for a military use. Marine gas turbine engines subject to the EAR that are not controlled in ECCNs 9A002 or 9A619 are designated EAR99.

Related Definitions: N/A

Items:

a. Underwater vision systems, as follows:

a.1. Television systems (comprising camera, lights, monitoring and signal transmission equipment) having a limiting resolution when measured in air of more than 500 lines and “specially designed” or modified for remote operation with a submersible vehicle; or

a.2. Underwater television cameras having a limiting resolution when measured in air of more than 700 lines;

Technical Note: Limiting resolution in television is a measure of horizontal resolution usually expressed in terms of the maximum number of lines per picture height discriminated on a test chart, using IEEE Standard 208/1960 or any equivalent standard.

b. Photographic still cameras “specially designed” or modified for underwater use, having a film format of 35 mm or larger, and having autofocusing or remote focusing “specially designed” for underwater use;

c. Stroboscopic light systems, “specially designed” or modified for underwater use, capable of a light output energy of more than 300 J per flash;

d. Other underwater camera equipment, n.e.s.;

e. Other submersible systems, n.e.s.;

f. Vessels, n.e.s., including inflatable boats, and “specially designed” “parts” and “components” therefor, n.e.s.;

g. Marine engines (both inboard and outboard) and submarine engines, n.e.s.; and “specially designed” “parts” and “components” therefor, n.e.s.;

h. Other self-contained underwater breathing apparatus (scuba gear) and related equipment, n.e.s.;

i. Life jackets, inflation cartridges, compasses, wetsuits, masks, fins, weight belts, and dive computers;

j. Underwater lights and propulsion equipment;

k. Air compressors and filtration systems “specially designed” for filling air cylinders.

l. Marine boilers designed to have any of the following characteristics:

l.1. Heat release rate (at maximum rating) equal to or in excess of 190,000 BTU per hour per cubic foot of furnace volume; or

l.2. Ratio of steam generated in pounds per hour (at maximum rating) to the dry weight of the boiler in pounds equal to or in excess of 0.83.

m. Major “components,” “accessories,” and “attachments” for marine boilers described in 8A992.l.

* * * * *

8D999 “Software” “specially designed” for the operation of unmanned submersible vehicles used in the oil and gas industry.

License Requirements

Reason for Control: Foreign policy

Control(s) | Country chart (see Supp. No. 1 to part 738)
Russian industry sector sanctions apply to entire entry | See § 746.8 for specific license requirements and license review policy.

List Based License Exceptions (See Part 740 for a Description of All License Exceptions)

TSR: N/A

List of Items Controlled

Related Controls: N/A

Related Definitions: N/A

Items: The list of items controlled is contained in the ECCN heading.

Thea D. Rozman Kendler,
Assistant Secretary for Export Administration.

[FR Doc. 2024-13148 Filed 6-12-24; 10:30 am]

BILLING CODE 3510-JT-P